ENVIRONMENTAL PROTECTION AGENCY

40 CFR Parts 50 and 81

[FRL-6733-3]

RIN 2060-ZA08

Rescinding Findings That the 1-Hour Ozone Standard No Longer Applies in Certain Areas

AGENCY: Environmental Protection Agency (EPA).

ACTION: Final rule.

SUMMARY: Today, EPA is rescinding its prior findings that the 1-hour ozone national ambient air quality standard (NAAQS) and the accompanying designations and classifications no longer apply in certain areas. As part of a transition to a new, more protective 8-hour ozone standard (promulgated in July 1997), in 1998 and 1999, EPA took final action determining that the 1-hour standard would no longer apply in almost 3,000 counties. Now, however, the public health protection that would be afforded by the 8-hour ozone standard is being delayed because continued litigation regarding the 8-hour ozone standard has created uncertainty regarding when and whether EPA may be able to fully implement that standard. It is important to have a fully enforceable Federal ozone standard to help protect people from the respiratory and other harmful effects of ozone pollution. Under this final rule, the designations and classifications that previously applied in such areas with respect to the 1-hour standard would also be reinstated. This rule will become effective in 90 days for most areas, and will become applicable in 180 days for areas with clean air quality data that had a nonattainment designation when the 1-hour standard was revoked. Furthermore, today EPA is taking final action to amend 40 CFR 50.9(b) to provide by rule that the 1-hour ozone standard will continue to apply to all areas notwithstanding promulgation of the 8-hour ozone standard; and that after the 8-hour standard has become fully enforceable under part D of title I of the Clean Air Act (CAA) and is no longer subject to further legal challenge, the 1-hour standard set forth in section 50.9(a) will no longer apply to an area once EPA determines that the area has air quality meeting the 1-hour standard.

DATES: Effective Date: This rule is effective on October 18, 2000.

Applicability Dates: This rule applies on October 18, 2000 for all areas where EPA had revoked the 1-hour ozone standard except for those nonattainment areas with clean data listed in section III. F., Table 1 of the preamble, and applies on January 16, 2001 for such areas listed in Table 1 of the preamble.

ADDRESSES: Public Inspection. You may read the final rule (including paper copies of comments and data submitted electronically, minus anything claimed as confidential business information) and the Response to Comments Document at the Docket and Information Center (6102), Docket No. A-99-22, U.S. Environmental Protection Agency, 401 M Street, SW, Waterside Mall, Room M-1500, Washington, DC 20460, telephone (202) 260-7548. They are available for public inspection from 8:00 a.m. to 5:30 p.m., Monday through Friday, excluding legal holidays. We may charge a reasonable fee for copying.

FOR FURTHER INFORMATION CONTACT: Questions about this final rule should be addressed to Annie Nikbakht (policy) or Barry Gilbert (air quality data), Office of Air Quality Planning and Standards, Air Quality Strategies and Standards Division, Ozone Policy and Strategies Group, MD-15, Research Triangle Park, NC 27711, telephone (919) 541-5246/5238 or e-mail to nikbakht.annie@epa.gov or gilbert.barry@epa.gov. To ask about policy matters or monitoring data for a specific geographic area, call one of these contacts:

Region I—Richard P. Burkhart (617) 918-1664,

Region II—Ray Werner (212) 637-3706,

Region III—Marcia Spink (215) 814-2104,

Region IV—Kay Prince (404) 562-9026,

Region V—Todd Nettesheim (312) 353-9153,

Region VI—Lt. Mick Cote (214) 665-7219,

Region VII—Royan Teter (913) 551-7609,

Region VIII—Tim Russ (303) 312-6479,

Region IX—Morris Goldberg (415) 744-1296,

Region X—William Puckett (206) 553-1702.

SUPPLEMENTARY INFORMATION:

Table of Contents

I. Background

II. In summary, what action is EPA finalizing today?

III. What major comments were submitted on the proposed rule and what are EPA's responses to such comments?

A. Reinstatement of the Applicability of the 1-Hour Ozone Standard and the Designation That Existed for Each Area at the Time EPA Determined the Standard No Longer Applied

B. Revision to 40 CFR 50.9(b) to Provide That EPA Will Again Determine the 1-Hour Ozone Standard No Longer Applies to an Area Once EPA's Authority to Implement and Fully Enforce the 8-Hour Standard is No Longer in Question

C. Areas Designated as Attainment With No Violations Since Revocation

D. Areas Designated Attainment (Without Maintenance Plans) With Violations Since Revocation

E. Areas Designated Attainment (With Maintenance Plans) With Violations Since revocation

F. Areas Designated Nonattainment With No Violations Since Revocation

G. Areas Designated Nonattainment With Violations Since Revocation

H. Effective Date and Applicability Dates of Reinstatement

I. Sanction and FIP Clocks

J. Conformity

K. New Source Review

L. Miscellaneous Comments

IV. What administrative requirements are considered in today's final rule?

A. Executive Order 12866: Regulatory Impact Analysis

B. Regulatory Flexibility Act

C. Unfunded Mandates

D. Executive Order 13045: Protection of Children from Environmental Health Risks and Safety Risks

E. Submission to Congress and the General Accounting Office

F. Executive Order 13132: Federalism

G. Executive Order 13084: Consultation and Coordination with Indian Tribal Governments

H. Paperwork Reduction Act

I. Executive Order 12898: Environmental Justice

J. National Technology Transfer and Advancement Act

K. Rule Effective Date and Applicability Dates

L. Petitions for Judicial Review

I. Background

The EPA promulgated a revised 8-hour ozone standard in July 1997 ¹ (62 FR 38856, July 18, 1997). At that time, EPA also promulgated 40 CFR 50.9(b), governing when the previous health-based ozone standard—the 1-hour standard—would no longer apply to areas. Several parties challenged EPA's revised ozone standard and EPA's revised particulate matter standard, which was promulgated on the same day. American Trucking Assoc. v. EPA, (D.C. Cir., Nos. 97-1440 and 97-1441) (ATA v. EPA).

¹ For both the 1-hour and 8-hour ozone standards, EPA has promulgated secondary standards that are identical to the primary standard. Because the primary and secondary standards are identical, EPA refers to the 1-hour and 8-hour standards in the singular. However, both EPA's initial rule determining that the 1-hour standard no longer applied and this rule reinstating the applicability of that standard apply for purposes of both the primary and secondary 1-hour ozone standards. Similarly, EPA's references to the 8-hour standard encompass both the primary and secondary 8-hour standards.

On June 5, 1998 (63 FR 31014), July 22, 1998 (63 FR 39432), and June 9, 1999 (64 FR 30911), in accordance with 40 CFR 50.9(b), we issued final rules for many areas that were attaining the 1-hour standard, finding that the 1-hour ozone standard no longer applied to these areas. ² At that time, we amended the Code of Federal Regulations (CFR) to remove the designations and classifications that had applied to those areas for the 1-hour standard under sections 107, 172 and 181 of the CAA. ³

² Two of these final actions were challenged and these cases are currently pending. Environmental Defense Fund v. EPA, (D.C. Cir., No. 98-1363) (challenge to June 1998 final rule); Appalachian Mountain Club v. EPA, (1st Cir., No. 99-1880) (challenge to June 1999 rule).

³ These rules are commonly referred to as the “revocation” rules. Technically, however EPA did not revoke the 1-hour standard through these rulemakings. The 1-hour standard remains an effective regulatory standard under EPA's regulations. 40 CFR 50.9(a).

On May 14, 1999, the Court of Appeals for the District of Columbia Circuit (D.C. Circuit) issued an opinion in the cases challenging EPA's revised ozone and particulate matter standards. ATA v. EPA, 175 F.3d 1027 (D.C. Cir., 1999). The court questioned the constitutionality of the CAA authority to review and revise NAAQS, as applied in EPA's revision to the ozone and particulate matter NAAQS. The Court stopped short of finding the statutory grant of authority unconstitutional, instead providing EPA with an opportunity to articulate a determinate principle for revising the ozone and particulate matter NAAQS under the statute. 175 F.3d at 1034-40. The court also addressed EPA's authority to classify areas and to set attainment dates for a revised ozone standard. 175 F.3d at 1034-40. Based on language in sections 172(a) and 181(a) of the CAA, the court concluded that EPA could only classify and set attainment dates for areas for purposes of any ozone NAAQS under the provisions of section 181(a) of the CAA, and that EPA could not enforce an ozone NAAQS more quickly than contemplated under the provisions triggered by classifications under section 181(a) nor could EPA enforce an ozone standard, such as the 8-hour standard, that was more stringent than the 1-hour standard. ⁴ 175 F.3d at 1049-50. The court also held that EPA must consider the beneficial effects of tropospheric ozone in protecting against the harmful effects of ultraviolet rays (UV-B). 175 F.3d at 1051-53. The court remanded, but did not vacate, the 8-hour standard on the basis that it would not “engender costly compliance activity” in light of the court's decision “that it cannot be enforced by virtue of CAA § 181(a).” 175 F.3d at 1057. The EPA filed a petition for rehearing with respect to these three aspects of the court's decision. ⁵

⁴ Sections 172(a) and 181(a) provide EPA with authority to classify areas that are designated nonattainment and to set attainment dates for those areas. Section 172(a) applies generally to any new or revised NAAQS, while section 181(a) is specific to certain ozone nonattainment areas.

⁵ The court decided other issues raised by the petitioners. These issues were not raised on rehearing and are not relevant here.

On October 25, 1999, EPA published the preamble to the proposed rule, “Rescinding Findings That the 1-Hour Ozone Standard No Longer Applies in Certain Areas,” (64 FR 57424), noting that the proposed regulatory language for part 81 would be published shortly. On November 5, 1999, EPA published the proposed regulatory language for part 81 (64 FR 60477). As proposed, the 1-hour ozone standard would be reinstated in areas where it had previously been revoked and the associated designations and classifications that previously applied in such areas with respect to the 1-hour NAAQS also would be reinstated. In today's final rule, EPA is taking final action to reinstate the area designations and classifications that applied prior to revocation. Throughout this final rule all references to reinstating designations refer to reinstating both designations and classifications as well. In addition, EPA proposed to amend 40 CFR 50.9(b) to provide by rule that the 1-hour ozone standard would continue to apply in all areas notwithstanding promulgation of the 8-hour standard, and that after the 8-hour standard has become fully enforceable under part D of title I of the CAA and subject to no further legal challenge, the 1-hour standard set forth in section 50.9(a) would no longer apply to an area once EPA determines that the area has air quality meeting the 1-hour standard.

On October 29, 1999, the D.C. Circuit issued an opinion addressing EPA's petition for rehearing. ATA v. EPA, 195 F.3d 4 (D.C. Cir. 1999). The three-judge panel that decided the case granted rehearing on limited issues regarding EPA's ability to implement a revised ozone standard. Both the panel and the full court denied all other aspects of EPA's petition for rehearing.⁶ With respect to EPA's authority to implement a revised 8-hour standard, the court modified its initial decision to provide that EPA may enforce a revised ozone NAAQS only in conformity with the control requirements triggered by a classification under section 181(a)—i.e., the provisions in subpart 2 of part D of title I of the CAA. 195 F.3d at 8. Judge Tatel filed a separate opinion, holding that the court should have deferred to EPA's reasonable interpretation of the implementation scheme for the revised NAAQS, but concurring in the majority's decision because it “leaves open the possibility that EPA can enforce the new ozone NAAQS without conflicting with subpart 2's classifications and attainment dates.” 195 F.3d at 11.

⁶ The full court voted 5-4 in favor of rehearing with two judges not participating. Since a majority vote of the active members of the court is needed to grant rehearing, the request for rehearing was denied.

At the request of commenters, on December 8, 1999, EPA published a notice in the Federal Register (64 FR 68659) to reopen the comment period for the proposed rulemaking from December 1, 1999 until January 3, 2000, thus affording the public a total of 60 days to comment on the proposed reinstatement action.

On January 27, 2000, EPA filed a petition with the Supreme Court, seeking review of the court of appeals decision regarding the constitutionality of the provisions of the CAA for setting NAAQS and the court's decision regarding implementation of a revised ozone NAAQS. Other parties also sought review by the Supreme Court.⁷ The court granted EPA's petition on May 22, 2000.⁸

⁷ The American Lung Association and the Commonwealth of Massachusetts and State of New Jersey also filed petitions for certiorari. In addition, groups led by the American Trucking Associations and Appalachian Power Company filed conditional cross petitions for certiorari.

⁸ The court also granted the industry cross petitions regarding the consideration of costs in setting NAAQS on May 30, 2000.

II. In Summary, What Action Is EPA Finalizing Today?

Today, we are taking final action to rescind the findings that the 1-hour standard no longer applies in those areas where the Agency had previously determined that the 1-hour standard had been attained. As a result, the 1-hour standard will again become applicable in nearly 3,000 counties.

Where the 1-hour ozone standard again becomes applicable as a result of this rulemaking, the attainment and nonattainment designations and classifications applicable to such areas prior to the determination of inapplicability will again apply. The designations are inextricably linked to the applicability of the standard and were removed solely because the standard no longer applied. See e.g., Interim Implementation Policy Statement, 61 FR 65752, 65754 (Dec. 13, 1996) (“the designations would remain in effect so long as the current 1-hour ozone NAAQS remains in effect”). Thus, since the only basis for removing the designations was the inapplicability of the 1-hour standard, area designations for the standard must also be reinstated upon reinstatement of the 1-hour standard.

Given that the previous designations and classifications of these areas were based upon the 1-hour ozone standard, which will again apply as a result of this reinstatement action, EPA is amending the tables in part 81 of the CFR to identify the designation and classification of the area that applied prior to EPA's determinations that the 1-hour standard no longer applied. The regulatory language located at the end of this final rule amends the ozone tables in 40 CFR part 81 for each State and provides a list of the areas affected by this rule. A copy of these tables may also be viewed at the following Internet website address: http://www.epa.gov/ttn/oarpg. In addition, the areas are identified by air quality designations in the docket for this rulemaking at Docket No. A-99-22.

The EPA's regulation, 40 CFR 50.9(b), provides that the 1-hour ozone standard would no longer apply once EPA determined that an area attained that standard. Today's action revises section 50.9(b) to indicate that the 1-hour standard remains applicable to all areas notwithstanding the promulgation of the 8-hour standard. Furthermore, today's action establishes that after the 8-hour standard has become fully enforceable under part D of title I of the CAA and subject to no further legal challenge, the 1-hour standard set forth in section 50.9(a) will no longer apply to an area once EPA determines that the area has air quality meeting the 1-hour standard.

In light of many areas' needs to quickly develop additional State Implementation Plan (SIP) programs in response to the actions EPA is finalizing today, the actions finalized today will become effective 90 days after today's publication for most areas. However, for areas that were designated nonattainment prior to revocation but that currently have clean air quality data sufficient to support a redesignation to attainment, actions will not generally become applicable until 180 days after today's publication.⁹ This additional time will allow areas to submit redesignation requests and, if they do so, for EPA to take appropriate rulemaking action on such requests prior to the applicability date of this rule for the area.

⁹ The EPA notes that in the proposal for this action, EPA proposed to make the final reinstatement effective after 90 days for all areas, and specifically requested comment on this issue. Certain commenters requested a longer delay in the effective date of the rule, and EPA has agreed that for areas with clean data that were previously designated nonattainment a longer period would be appropriate. However, “effective date” is a term of art relating to when rules published in the Federal Register will be incorporated in the Code of Federal Regulations, and Office of Federal Register requirements do not allow varying effective dates for entries in a table. Therefore, this action as a whole will become effective for all areas 90 days after publication. However, EPA will use the term “applicability date” in the rule to describe the date on which the reinstatement of the 1-hour standard will begin to apply to an area. That date will generally be 180 days after publication for those areas with clean data previously designated nonattainment, as listed in Table 1 of the preamble. In addition, if States are able to submit redesignation requests and EPA is able to process such requests to the point of final action prior to 180 days from publication, the final action approving the redesignation may provide that the applicability date of the reinstatement will be the same date as the effective date of the redesignation approval, so that the redesignations may take effect in a timely manner.

III. What Major Comments Were Submitted on the Proposed Rule and What Are EPA's Responses to Such Comments?

In our October 25, 1999 proposal, we solicited comment on whether EPA should rescind findings that the 1-hour ozone standard no longer applies in certain areas, and if EPA acted to rescind the 1-hour ozone standard, what the effects of a rescission would be. In section IV of the proposal, EPA specifically requested comment on the effect of the rescission for five types of areas: (1) Areas designated as attainment with no violation since revocation; (2) areas designated attainment (without maintenance plans) with violations since revocation; (3) areas designated attainment (with maintenance plans) with violations since revocation; (4) areas designated nonattainment with no violations since revocation; and (5) areas designated nonattainment with violations since revocation. Also, the Agency requested comment on the programmatic effects of reinstatement, such as the applicability of new source review (NSR) and conformity, as well as how to deal with sanction and Federal Implementation Plan (FIP) clocks that were in effect at the time of the revocations. A total of 72 comment letters were received on the proposal. Most of the commenters generally supported reinstating the 1-hour standard; however, they voiced individual preferences as to how EPA should proceed to carry out this action with respect to designations, planning obligations and timing. For each of the relevant issues, the following discussion summarizes EPA's proposed action, explains the approach EPA is adopting in this final rule and responds to the major comments received. All comments are addressed in the separate Response to Comments Document located in the docket.

A. Reinstatement of the Applicability of the 1-Hour Ozone Standard and the Designation and Classification That Existed for Each Area at the Time EPA Determined the Standard No Longer Applied

The EPA generally proposed to reinstate the applicability of the 1-hour standard in all areas for which EPA had taken action determining that the standard no longer applied. In addition, EPA proposed that the designation and classification for each such area would also be reinstated. The EPA proposed to restore areas to the same position they were in at the time EPA determined that the 1-hour standard no longer applied, i.e., that the designation and classification that applied at the time the 1-hour standard was revoked for an area would once again apply upon reinstatement.

Comment: Several commenters believe that the Agency has no legal authority to rescind findings that the 1-hour ozone standard no longer applies in certain areas. Some commenters claim that EPA cited no statutory authority for its action and that none exists. At least one commenter contends that EPA's regulation at 40 CFR 50.9(b) does not provide a basis for reinstating the 1-hour standard and challenges EPA's statements that the basis for promulgating 40 CFR 50.9(b) was the existence of an enforceable 8-hour standard.

Response: The EPA disagrees with the commenters' allegations that EPA has no authority to rescind its findings that the 1-hour standard no longer applies in certain areas. The EPA made those findings in accordance with its rule at 40 CFR 50.9(b), which provided that the 1-hour standard would no longer apply once an area attained that standard. The EPA promulgated that regulation using its general rulemaking authority under section 301(a) of the CAA and thus has authority to revise that regulation (and to revise or repeal actions taken pursuant to that regulation) under that same authority. The changed circumstances regarding the status of the 8-hour standard provide ample support for EPA to take this regulatory action under section 301(a).

Sections 108 and 109 of the CAA provide for the promulgation or revision of NAAQS on a periodic basis. However, those provisions are silent regarding how areas should transition from implementation of one NAAQS for a pollutant to a revised, more stringent NAAQS for the same pollutant.¹⁰ Where, as in the rule promulgating the revised 8-hour NAAQS, EPA determines not to retain the pre-existing standard as an independent NAAQS, EPA must determine how areas should transition away from the pre-existing NAAQS. Since the CAA does not include specific provisions addressing this transition, EPA relied on its general rulemaking authority under section 301(a) of the CAA. See 62 FR 38894, July 18, 1997. Section 301(a) provides that the Agency has authority “to prescribe such regulations as are necessary to carry out” its functions under the CAA. In general, the statutory authority for promulgating a regulation also provides authority for an Agency to revise that regulation. The EPA is relying on its general rulemaking authority under section 301(a) to rescind the findings that the 1-hour standard no longer applies.

¹⁰ Section 172(e) provides guidance for transitioning from a more stringent NAAQS for a pollutant to a less stringent NAAQS for the same pollutant.

The present circumstances provide ample support for EPA to take this action rescinding its earlier determinations. The EPA promulgated 40 CFR 50.9(b) based on the existence of an implementable 8-hour standard. In promulgating a revised 8-hour standard, EPA determined that it did not need to retain a separate 1-hour standard in order to protect the public health with an adequate margin of safety and to protect public welfare (62 FR 38863, July 18, 1997). Thus, EPA needed to consider how to transition away from the existing 1-hour standard to the revised 8-hour standard. See e.g., Proposed Interim Implementation Policy, (61 FR 65752, December 13, 1996). In the final rule promulgating the revised 8-hour standard, EPA concluded that Congress intended areas to remain subject to the planning requirements of subpart 2 ¹¹ of the CAA for as long as they continued to have air quality not meeting the 1-hour standard. In order to facilitate the continued applicability of subpart 2 to areas that had not yet met that standard, EPA determined to delay removal of the 1-hour standard from its regulations by promulgating 40 CFR 50.9(b). It is clear from the context of the rule and the statements in the preamble to the final 8-hour NAAQS rule that the decision to find that the 1-hour standard no longer applied was based on the existence of an enforceable 8-hour standard that was protective of public health and welfare, such that the 1-hour standard would no longer be necessary to protect public health and welfare. (62 FR 38873, July 18, 1997.)

¹¹ Subpart 2 of part D of title 1 provides detailed requirements for certain ozone nonattainment areas. These provisions were enacted in 1990 in response to the States' continued failure to meet the ozone standard. Rather than providing continued flexibility and a one-size-fits-all approach, Congress created a tiered planning scheme that provided more and tougher requirements for areas with significant ozone problems, but also provided more time for these areas to meet the standards.

However, because the court decision has raised doubts about the enforceability of the 8-hour standard and EPA's ability to implement the standard fully at this time, the basis for the regulation revoking the applicability of the 1-hour standard in certain areas no longer exists. Contrary to what EPA believed would occur at the time it promulgated 40 CFR 50.9(b), generally areas are not currently moving forward to implement the 8-hour standard due to the uncertainty created by the litigation over the ozone NAAQS. Thus, EPA believes that it is necessary at this time to retain the 1-hour standard in all areas to protect public health and welfare at least until the status of the 8-hour standard and any issues concerning its enforceability have been fully resolved.¹²

¹² The fact that EPA's regulation at 40 CFR 50.9(b) does not reference the 8-hour standard is not controlling for determining the underlying basis for EPA's promulgation of that regulation. The fact that 50.9(b) was promulgated simultaneous with the 8-hour standard and placed in the subchapter of the CFR governing NAAQS is sufficient evidence that § 50.9(b) was premised on the existence of the 8-hour ozone standard. Furthermore, it is clear from the preamble that EPA believed that the 8-hour standard would be enforceable, (62 FR 38856, July 18, 1997).

Comment: Some commenters believe that the proposed action to reinstate the 1-hour ozone standard constitutes promulgation of a new or revised NAAQS under section 109 of the CAA and that the action is therefore subject to a public hearing under section 307(d). Other commenters contend that EPA must or should vacate the 8-hour standard before EPA can reinstate the applicability of the 1-hour standard. These and other commenters contend that section 109 contemplates only a single air quality standard for a particular pollutant in any given area and, therefore, object to having dual standards apply. They also claim that the existence of two ozone standards is confusing.

Response: The EPA does not believe that the action to reinstate the 1-hour standard constitutes the promulgation of a new or revised NAAQS under section 109 of the CAA. The 1-hour standard EPA is reinstating today is the same 1-hour standard that has been in existence since its original promulgation on February 8, 1979 and that continues to be a part of EPA's regulations at 40 CFR 50.10, (44 FR 8202). The EPA is not revising that standard in any way. The EPA is merely reinstating the applicability of that standard in certain areas. Unlike a regulatory action promulgating a new or revised NAAQS, this rulemaking is not concerned with selecting the appropriate level or form of ozone standards requisite to protect public health and welfare. The particular processes specified in sections 108 and 109, requiring the development of detailed scientific assessments and consultation with science advisory boards, are not implicated by this action. The EPA undertook those processes when it promulgated the 1-hour standard in 1979. This action does not purport to revise or re-promulgate that standard; it only specifies the applicability of the existing 1-hour standard, which is specified in section 50.10, to certain areas.

Because this action rescinding a previous regulatory determination and revising the regulation governing the transition from the 1-hour to a revised 8-hour NAAQS does not constitute either an amendment or revision to either the 1-hour or the 8-hour ozone NAAQS, EPA disagrees with the commenters that the procedural provisions in section 307(d) are triggered by section 307(d)(1)(A) (requiring compliance with section 307(d) for all rules promulgating or revising any NAAQS). Since the administrative requirements of section 307(d) do not apply, EPA has complied with the public notice and comment process specified under the Administrative Procedure Act, 5 U.S.C. 553, which does not require the Agency to hold a public hearing.

Nor does EPA agree that the proper approach is to vacate the 8-hour standard. In the ATA decision, the D.C. Circuit did not dispute the public-health basis for the NAAQS and did not vacate the 8-hour standard. The EPA sees no reason to take such an action on its own. The EPA has filed with the Supreme Court a petition for review of the D.C. Circuit's decision. The EPA sees no need to vacate the 8-hour standard for the purpose of revising the transition scheme from the 1-hour standard to the 8-hour standard. Because the CAA does not provide how EPA must transition from one standard for a pollutant to a revised, more stringent standard for that same pollutant, EPA continues to believe it has authority to establish and to revise the appropriate transition scheme. Due to the uncertainty created by the court's opinion, EPA believes it is a reasonable exercise of its authority to revise the transition scheme by reinstating the applicability of the 1-hour standard and the associated designations and classifications. For these reasons, EPA does not agree that it must vacate the 8-hour standard in order to reinstate the applicability of the 1-hour standard.

To the extent the commenters are concerned about the existence of two NAAQS for the same pollutant, EPA made the decision in the 1997 NAAQS rulemaking by determining to retain the 1-hour standard until areas met that standard. As provided above, EPA is not taking action to revise or promulgate a revised NAAQS in this rule and is not re-opening its previous decision that the statute allows the applicability of more than one NAAQS for a pollutant, such as ozone.

Comment: Some commenters claim that EPA cannot restore the designation for areas except through one of the designation processes provided under section 107 of the CAA. Some commenters contend that EPA should treat these designations as initial designations under section 107(d)(1) and that EPA should provide time for Governors to make recommendations before EPA may designate areas. Other commenters contend that EPA must use the redesignation provisions under section 107(d)(3). Under that provision, they contend, EPA must notify the Governor first of its intent to redesignate and then must rely on current air quality data.¹³ Some of these commenters agree with EPA that the designation in place at the time EPA revoked the standard should be put back into place. Other commenters suggest that EPA cannot consider air quality data from the period when the standard did not apply and that EPA should reinstate designations based on air quality data from the period after the standard is reinstated.

¹³ Other commenters, without referencing any specific statutory authority, also claim that EPA should use current air quality data to designate areas.

Response: The EPA does not believe it needs to go through the procedures of section 107 of the CAA to reestablish the designations that were in place prior to revocation of the 1-hour standard. In this action, EPA is reversing its revocation of the standard because the recent court decision has called into question the underlying bases for that action. In the revocation action, EPA did not change an area's designation for the 1-hour standard, but determined that since the 1-hour standard no longer applied to an area, the designation associated with that standard also no longer applied.¹⁴

¹⁴ In revoking the standard, EPA did not redesignate areas pursuant to section 107 and did not require areas to meet the redesignation requirements of section 107(d)(3)(E), such as development of a maintenance plan. In fact, EPA has been challenged on two of the revocation rules for not following, and not requiring States to follow, redesignation procedures. Environmental Defense Fund v. EPA, (D.C. Cir., No. 98-1363); Appalachian Mountain Club v. EPA, (1st Cir., No. 99-1880).

As explained above, EPA's action today is not the promulgation of new or revised NAAQS. Therefore, the initial designation provisions in section 107(d)(1), which apply only upon promulgation of a new or revised NAAQS, do not apply.

Nor is EPA redesignating areas for purposes of the 1-hour standard. These areas currently do not have in place a designation for the 1-hour standard. The provisions in section 107(d)(3), which apply only to redesignations from attainment or unclassifiable to nonattainment or from nonattainment to attainment simply do not apply where, as here, there is not a current designation in place for a standard.

The EPA's primary action through this action is to reinstate the applicability of the 1-hour standard. At the time EPA promulgated 40 CFR 50.9(b), it determined that the designations should follow the applicability of the 1-hour standard and that the current designation was inextricably linked with the applicability of the 1-hour standard. Therefore, just as EPA determined that an area's designation no longer applied once the 1-hour standard on which it was based no longer applied, the reinstatement of the 1-hour standard necessarily brings back the applicability of the designation. Similarly, as EPA relied on its general rulemaking authority to revoke the standard and thus the area's designation, EPA is relying on that same authority to reverse the action taken in its earlier rule. Once areas have a designation for the 1-hour standard in place, EPA may redesignate those areas if they meet the requirements of section 107(d)(3)(E). As discussed in section III.F, below, EPA will consider redesignating those areas that have clean air quality data based on the three most recent years of data and that submit a redesignation request meeting the requirements of section 107(d)(3)(E).

Finally, some commenters suggest that EPA is prohibited from considering air quality data that became available after EPA revoked the standard. The EPA disagrees with this comment. Because EPA is reinstating the designations that existed at the time EPA revoked the standard, this rulemaking does not reflect more recent air quality data. However, in future actions to redesignate areas, EPA intends to consider all relevant air quality data including data that became available during the revocation. To the extent these commenters continue to have concerns about this issue, they can raise them in any future rulemaking action EPA may take to redesignate an area on the basis of that data.

Comment: A few commenters stated that we cannot rely on the argument that the 8-hour standard cannot be enforced as the basis for revocation since this is not supported by the Court's October 29, 1999, decision on rehearing. In the October 29 opinion, the Court retracted its earlier conclusion that “the 8-hour standard cannot be enforced,” providing instead that the 8-hour standard “can be enforced only in conformity with subpart 2” of part D of title I of the CAA. Compare 175 F.3d at 1057 with 195 F.3d at 10. Some commenters also suggest that it is too late for us to reconsider the revocations and to reinstate the applicability of the 1-hour standard. Most commenters, however, support reinstatement on the basis of continued uncertainty regarding the 8-hour standard.

Response: The EPA believes that the uncertainty engendered by the litigation surrounding the 8-hour standard justifies reinstating the 1-hour standard. It is true, that on rehearing, the Court revised its original opinion to indicate that EPA can enforce the 8-hour standard in conformity with subpart 2 of the CAA. However, in that same sentence, the Court provided that it was remanding the 8-hour standard. The Court did not vacate the 8-hour standard because “the parties have not shown that the standard is likely to engender costly compliance activities.” As the petitions for certiorari before the Supreme Court demonstrate, there continues to be uncertainty regarding when the standard could be implemented in light of the ongoing litigation.¹⁵ Because of the continuing litigation and the differing views of the many parties to the litigation, EPA is not currently taking any action that could be construed as inconsistent with the Court's decision.¹⁶ In light of the continuing uncertainty regarding EPA's authority to implement the 8-hour standard, EPA believes it is prudent to reinstate the 1-hour standard to ensure public health protection from ozone.

¹⁵ In addition to EPA, two other parties have requested that the Supreme Court review portions of the D.C. Circuit's decision regarding the ozone and particulate matter NAAQS. Other parties have opposed Supreme Court review of the implementation issues. In their papers before the Court, several of these parties have suggested that EPA is barred from enforcing the more stringent 8-hour NAAQS, while others raise concerns that the Court's opinion is unclear regarding the enforceability of the 8-hour standard.

¹⁶ For example, EPA has stayed the applicability of its final regulatory determinations under section 126 of the CAA to the extent they were based on the 8-hour NAAQS. (65 FR 2674, January 17, 2000). Similarly, EPA recently proposed to stay the 8-hour basis of its NOX SIP call rule, which calls on 22 States and the District of Columbia to reduce emissions of nitrogen oxides that contribute to ozone problems in other States. (65 FR 11024, March 1, 2000).

Contrary to the suggestions of some commenters, EPA does not believe it is too late to rescind the revocations of the 1-hour standard. The commenter does not cite and EPA is unaware of any limitation on when an Agency may change a regulation based on new information. The EPA acted quickly in response to the uncertainty raised by the Court's decision, proposing action only 5 months after the original decision by the court. During that time, EPA was assessing the impacts of the opinion on implementation of the 8-hour standard, determining options for rehearing and appeal, and developing the proposed rule to rescind the revocations of the 1-hour standard. Based on requests for an extension of the comment period, EPA provided a comment period of 60 days on this action. Thus, EPA is acting in a timely fashion by issuing this rule approximately a year afer the court issued its original decision.

Comment: A few commenters suggested that EPA was proposing to reinstate the standard in too many areas. One set of commenters noted that EPA's goal of providing protection in areas now violating the 1-hour standard could be accomplished by reinstating the standard only in those areas that were violating the 1-hour standard. Other commenters suggested that we not reinstate the 1-hour standard in States that have adopted the 8-hour standard or where the most recent data for an area indicate that it would be designated attainment for the 8-hour standard. These commenters are concerned that resources will be wasted on meeting the 1-hour standard rather than the more protective 8-hour standard.

Response: The EPA determined that it is critical to have a fully enforceable standard for ozone in each area of the country in order to protect the public health and welfare and to minimize public confusion. The EPA believes that it is important to have a fully-implementable ozone standard in place in order to ensure adequate protection of public health. A fully enforceable 1-hour standard will ensure that sufficient control measures remain in place to prevent violations in areas attaining the standard and to continue improvements in air quality in areas not attaining the standard. The options presented by the commenters would not result in the applicability of a fully-enforceable ozone standard and thus could erode public health protection for people living and working in areas that might violate the standard in coming ozone seasons.

With respect to those commenters that suggest that EPA not reinstate the standard in areas that have adopted the 8-hour standard, EPA is concerned, in light of the ATA decision, that it will be unable to enforce fully the 8-hour standard in the short term. Without a fully enforceable, Federal 8-hour standard, EPA does not have the ability to require States to implement an 8-hour standard. This is true even in States that may have adopted the 8-hour standard as a State rule. Since State adoption of the 8-hour standard does not ensure implementation and enforcement of that standard in conformity with Federal requirements for clean air, EPA believes it is necessary to reinstate the 1-hour standard in all areas pending resolution of litigation over the 8-hour NAAQS. The EPA acknowledges that it may be more efficient to concentrate resources on planning to implement a more protective 8-hour standard, but EPA lacks the ability to require States to do so at this time. For these reasons, EPA believes that the existence of the 8-hour standard does not provide the same certainty of public health protection as does the 1-hour standard at this time.

Finally, with respect to the comment that EPA not reinstate for areas that will be designated attainment for the 8-hour standard, EPA has not designated any areas for the 8-hour standard. The States have not recommended boundaries for purposes of the 8-hour standard and EPA has not yet determined boundaries or designated any 8-hour areas. In fact, EPA guidance on the determination of boundaries was issued only recently. (Boundary Guidance on Air Quality Designations for the 8-Hour Ozone National Ambient Air Quality Standards (NAAQS or Standard), March 28, 2000). The EPA has advised States to consider the guidance and make recommendations to EPA by June 30, 2000. The EPA must then respond to those recommendations and give States 4 months comment on its response. Only after this process could EPA make final designations. Given the many steps that must occur before EPA promulgates designations for the 8-hour standard, EPA believes it is far too early to presume precisely which areas would be designated attainment for the 8-hour standard.

B. Revision to 40 CFR 50.9(b) to Provide That EPA Will Again Determine the 1-Hour Ozone Standard No Longer Applies to an Area Once EPA's Authority to Implement and Fully Enforce the 8-Hour Standard Is No Longer in Question

The EPA proposed to revise 40 CFR 50.9(b) to provide that once the 8-hour ozone standard is fully enforceable and no longer subject to legal challenge, the 1-hour standard will no longer apply to an area if EPA determines that the area has air quality meeting the 1-hour standard.¹⁷ The EPA's final rule adopts this position.

¹⁷ If the 8-hour standard promulgated in July 1997 does not become enforceable because of Agency action taken in response to any unappealable decision by the court in the ATA v. EPA litigation, then the second sentence of 40 CFR 50.9(b) would not have any legal effect. As appropriate, EPA could reconsider this regulation at the time it takes any action in response to an unappealable decision.

Comment: Some commenters disagree with EPA's proposed revision to § 50.9(b). These commenters feel that the promulgation of an 8-hour standard should not be the basis for revoking the applicability of the 1-hour standard. Some of the commenters believe that removing the applicability of a NAAQS and associated control measures based solely on air quality is inconsistent with the law and that we should consider both the 1-hour and 8-hour ozone standards. Some commenters believe that future revocations should not be allowed without first following the redesignation process as prescribed by the CAA. Other commenters suggest that once the 8-hour ozone standard is enforceable, we should revoke the 1-hour standard everywhere regardless of what the air quality is. Finally, one commenter claims that EPA should not amend section 50.9(b) now since the 8-hour standard may never be enforceable.

Response: The EPA believes that it has the authority upon issuance of a new or revised standard to determine the continued validity of the pre-existing standard and when, if ever, it should no longer apply. In the final rule promulgating the 8-hour standard, EPA determined that the 1-hour standard was no longer necessary to protect public health and welfare in light of the revised 8-hour standard, which States would be required to implement and enforce. However, EPA also determined that Congress intended areas that remained nonattainment for the 1-hour standard to meet the requirements of subpart 2, until the 1-hour standard is attained. As EPA explained in the preamble to the NAAQS rule, section 109 of the CAA clearly authorizes EPA to promulgate revisions to a standard, which necessarily includes the authority to revoke previous standards that have been revised (62 FR 38857, July 18, 1997). On the other hand, subpart 2 of the CAA sets out numerous requirements specifically applicable to areas not attaining the 1-hour ozone standard. To accommodate both of these provisions, EPA concluded that after promulgation of the 8-hour standard, subpart 2 must continue to apply as a matter of law in each area until the 1-hour standard is attained (62 FR 38873). Thus, to facilitate continued applicability of the subpart 2 requirements, EPA established a transition scheme in 40 CFR section 50.9(b) that provided the 1-hour standard would continue to apply until an area had air quality meeting the 1-hour standard.

The EPA does not agree that in order to determine a pre-existing standard no longer applies, EPA must require areas to meet the requirements for redesignation and formally redesignate an area from nonattainment to attainment under section 107(d)(3). As a general matter, Congress has not specified any procedure for determining that a pre-existing NAAQS no longer applies once EPA promulgates a revised standard. Moreover, although Congress gave some guidance on how to transition to a less stringent NAAQS, see CAA section 172(e), it did not provide clear guidance on how to transition to a more stringent NAAQS. The EPA believes that in determining how to transition to a revised NAAQS, it must make common-sense decisions, considering the intent of Congress in light of the statutory scheme, including how best to ensure public health protection without imposing unduly burdensome requirements on States and sources.¹⁸

¹⁸ EPA's scheme for transitioning to the 8-hour ozone standard is consistent with the Agency's approach in the one other case where it promulgated a more stringent NAAQS revision. See 52 FR 24672 (July 1, 1987). When EPA revised the particulate matter standard to change the indicator from total suspended particulates (TSP) to particulate matter with a diameter of 10 microns or less (PM-10), it retained the TSP designations for a limited purpose because the statutory limitations for certain areas under the Prevention of Significant Deterioration (PSD) program were linked to TSP designations. See CAA section 163. Congress subsequently codified EPA's decision in section 107(d)(4)(B) of the CAA. Similarly, EPA here is retaining the 1-hour standard and associated designations for purposes of continued application of subpart 2 of the CAA, until the purpose of subpart 2—attainment of the 1-hour standard—is met.

With respect to the transition from the 1-hour standard to the 8-hour standard, EPA determined that Congress intended areas to remain subject to the 1-hour standard until such time as that standard is met. Since all areas of the country were subject to the revised, more stringent 8-hour standard, EPA determined that it did not make sense to require areas that had met the 1-hour standard but remained designated nonattainment to complete a maintenance plan since generally these areas would be required to develop an attainment plan for the more stringent 8-hour standard. The EPA continues to believe that, if a fully enforceable 8-hour standard were in effect, it would be unreasonable to require States to demonstrate that an area will maintain the 1-hour standard for 10 years (with a later update for a subsequent 10 years) when these areas would be developing attainment plans and, ultimately, maintenance plans for the more stringent 8-hour standard.

This interpretation is consistent with the approach Congress employed in the one area where the statute does address revocation of a prior standard. Section 172(e) of the CAA provides that where EPA relaxes a standard, it must require all areas that have not yet attained the more stringent prior standard to provide for controls that are at least as stringent as those that applied to areas designated nonattainment of the prior standard. This provision both clarifies that Congress intended EPA to revoke standards and associated control requirements in certain circumstances where they have been revised, and that an appropriate criterion for determining when a prior standard should be revoked is whether or not an area has attained that standard. Congress did not, however, require redesignation of areas with development of maintenance plans prior to removal of control obligations. Rather, Congress required only that control measures continue to apply until an area has attained a prior standard and implicitly allows for revocation of the prior standard.

The EPA also disagrees with the commenter who suggests that EPA should not amend § 50.9(b) because it has been struck down by the court and that the 8-hour standard might never be enforceable. The EPA disagrees with the claim that the court struck down 40 CFR 50.9(b). The court did not vacate any aspect of EPA's July 1997 rulemaking, which included the promulgation of section 50.9(b).¹⁹ The EPA believes that its proposed revision to section 50.9(b) addresses the contingency that the 8-hour standard may never become enforceable. The EPA believes that it is better to promulgate revisions to section 50.9(b) at this time so that interested parties are aware of EPA's planned transition approach if and when the 8-hour standard becomes fully enforceable.

¹⁹ Furthermore, no party in the ATA case challenged EPA's promulgation of 40 CFR 50.9(b) and the court did not address this regulatory provision in either its May 14, 1999 or its October 29, 1999 decisions.

Finally, for the reasons explained above, EPA believes that subpart 2 continues to apply as a matter of law to all areas that have not yet attained the 1-hour standard. Therefore, EPA does not believe it has the authority to determine the 1-hour standard inapplicable to any area that has not yet attained that standard, even after the 8-hour standard has become fully enforceable.

C. Areas Designated as Attainment With No Violations Since Revocation

The EPA proposed that upon reinstatement of the standard, areas designated as attainment with no violations after revocation would not be subject to any new planning requirements under subpart 2 of the CAA, beyond continuing compliance with any requirements in an approved maintenance plan. The EPA is adopting this position in today's action.

Comment: Some commenters contend that all areas designated as attainment should be treated on an equal basis. The EPA should either require all attainment areas to have maintenance plans, including the obligation to comply with conformity, or free all areas from the maintenance plan requirement.

Response: The EPA does not have the authority to require all areas designated as attainment either to have a maintenance plan or to relieve them of that obligation. The CAA specifically provides that areas seeking redesignation from nonattainment to attainment must develop and submit maintenance plans. Upon redesignation, these areas are required to continue to implement their maintenance plans, including complying with the conformity provisions. Areas that were initially designated as attainment after the 1990 CAA Amendments are not subject to this requirement. In addition, section 176(c)(5)(B) of the CAA makes clear that areas with maintenance plans continue to be subject to conformity and that areas that have historically been designated as attainment are not subject to conformity.

D. Areas Designated Attainment (Without Maintenance Plans) With Violations Since Revocation

The EPA proposed to provide areas designated attainment without maintenance plans, that have had violations since revocation, a reasonable time to come back into attainment prior to taking action to designate them as nonattainment. There are only four areas which fall into this category: Berrien Co., MI; Hamilton Co., IN; Hamilton Co., TN; Rowan Co., NC.

Comment: Several commenters asked that we define what is a “reasonable time frame” to bring areas back into attainment. Some commenters reference measures that States have already taken to address ozone problems.

Response: The CAA does not mandate that EPA redesignate areas from attainment to nonattainment. Rather, section 107(d)(3)(A) provides the general criteria that EPA may consider in determining whether to redesignate an area.²⁰ In particular, EPA may consider air quality data, planning and control considerations or any other air-quality related considerations.

²⁰ For areas designated as nonattainment seeking redesignation to attainment, section 107(d)(3)(E) sets forth additional criteria that must be met before EPA may redesignate the area.

The Agency commends areas for any initiatives they may have taken, such as voluntary emission reduction programs, to help improve air quality. The EPA will consider this information in determining whether and when to move forward with a redesignation to nonattainment. States should work with the appropriate EPA Regional Offices to determine whether additional measures are necessary to address a recent violation.

To the extent additional measures are needed, EPA believes that it is reasonable for States to adopt measures to address any violations within 6-9 months of the effective date of this final action. The EPA is recommending 6-9 months as the presumptive period for action, however, each State should work with the relevant EPA Regional Office to develop a strategy for specific areas. States have been on notice of EPA's planned reinstatement of the standard and should have begun an analysis of measures to address any violation. In addition, since reinstatement for these areas will not be effective until 90 days after publication of this final action in the Federal Register, this approach will allow States 9-12 months from promulgation of this final rule to adopt any necessary measures and well over a year from the time of EPA's proposal to reinstate the standard. The EPA believes that this period is comparable to the 1-year time period provided under section 179(d) for States to adopt measures based on a finding that the State failed to attain the standard.

E. Areas Designated Attainment (With Maintenance Plans) With Violations Since Revocation

For areas designated attainment with maintenance plans and with violations since revocation, EPA proposed that the contingency measures in the area's approved SIP should be implemented to address any violations of the 1-hour ozone standard. If a State had removed any contingency measures after EPA determined the 1-hour standard no longer applied, EPA proposed the State should place the contingency measure back into the SIP. There are seven areas which fall into this category: Charlotte-Gastonia, NC; Huntington-Ashland, WV-KY; Knoxville, TN; Nashville, TN; Portland-Vancouver Air Quality Management Area, OR-WA; Richmond, VA; Sheboygan, WI.

Comment: Several commenters question whether it is appropriate to require States to implement contingency measures and question whether contingency measures will provide any real air quality benefits. They disagree that automatic implementation of such measures is the correct solution to addressing the current air quality problem. Some commenters believe that since the 1-hour standard did not apply in the areas after revocation, the areas cannot be considered to be violating the 1-hour standard based on data from that time; thus in their view, violations that occurred after revocation but prior to reinstatement cannot trigger contingency measures. Some commenters argue that even if a violation occurred during the period in which the standard was revoked, the most recent 3 years of air quality data should have precedence. They state that if those data indicate the area is not violating the standard, the State should not be required to implement contingency measures.

In addition, some commenters were concerned that the schedule specified in the SIPs for implementation of contingency measures is often triggered as of the date of the violation. Thus, under these SIPs, some portion of the implementation period may already have passed by the time the reinstatement becomes effective.

Other commenters claim that EPA should use its authority under section 110(k)(6) to place deleted contingency measures back into the SIP. Section 110(k)(6) provides that EPA may revise its prior approval removing the contingency measures if it determines that the approval action was in error.

Response: Section 175A(d) of the CAA requires that a maintenance plan include such contingency measures as are necessary to promptly correct any violation of the NAAQS that occurs after redesignation of the area. The EPA believes that areas designated as attainment that have maintenance plans in place and that have had violations of the NAAQS since revocation, are required by the CAA and by their approved SIPs to move forward to implement contingency measures. Since the purpose of these measures is to protect public health, EPA believes it is appropriate to require areas to implement contingency measures to ensure that future air quality will meet or be lower than the NAAQS.

The EPA has allowed States a great deal of flexibility with respect to contingency measures. First, EPA has allowed flexibility in terms of the selection and adoption of contingency measures for the maintenance plan. The EPA does not require that contingency measures be fully adopted in order for the maintenance plan to be approved. The maintenance plan need only ensure that the contingency measures be adopted expeditiously once they are triggered. (Procedures for Processing Requests to Redesignate Areas to Attainment, September 4, 1992, John Calcagni).

In addition, when an area violates the standard, States have discretion in selecting which of the contingency measures in the approved maintenance plan should be implemented. In the past, EPA has allowed States to substitute and implement new, more appropriate and effective contingency measures. (64 FR 28753 and 64 FR 28757, May 27, 1999). The EPA would allow States with areas violating the standard to do so here through the SIP process, if substitution of measures would not unreasonably delay air quality benefits. Therefore, if, as at least one commenter suggests, existing, approved contingency measures may no longer be appropriate or effective, the State may seek a substitution. However, the fact that existing contingency measures may not be effective or appropriate does not support a decision not to require implementation of contingency measures to address the air quality problem.

Finally, although EPA has indicated that it would provide a reasonable period of time for violating attainment areas without maintenance plans to correct their air quality problem before designating them to nonattainment, EPA does not believe it has the ability to delay the triggering of the States' obligation to select and adopt contingency measures for areas with maintenance plans that are experiencing violations. The CAA contemplates that contingency measures will be implemented “promptly” in such areas. In addition, the terms of the maintenance plans themselves require adoption and implementation of contingency measures upon violations. Thus, the CAA requires areas to adopt appropriate contingency measures once violations occur. States may submit SIP revisions to substitute appropriate measures at any time.

The EPA disagrees that violations are not valid if they occurred during the period when the 1-hour standard did not apply for an area. The fact that an air quality standard does not apply during a period of time does not invalidate air quality data gathered at that time or invalidate the exceedances or violations demonstrated by that data. In fact, the statutory period for initial designations belies that interpretation. Under section 107(d)(1), Governors must recommend designations within 1-year of promulgation of a standard and EPA must designate areas within 2 years of promulgation. For standards that are measured over a period of longer than 2 years, such as the 1-hour and 8-hour ozone standards, EPA would necessarily be required to consider monitoring data that preceded promulgation of the standard in making designations. In addition, the State and sources are not unreasonably disadvantaged. The EPA is not requiring that the time for States to implement contingency measures runs from the time of the violation, but rather from the effective date of the reinstatement of the standard.

This approach is consistent with the approach EPA is taking concerning tolling of applicable clocks for conformity obligations and sanctions. As EPA states elsewhere in this notice (sections III.I and III.J), EPA believes that clocks related to the timing of conformity determinations and sanctions should not be considered to have run during the period that the 1-hour standard was not applicable to an area. It would be unfair to areas to have such clocks expire during a time that the area was not subject to the planning obligations associated with the clocks. Thus, EPA has concluded that any such clocks would be tolled during the time the standard was not applicable. When this rule becomes applicable, the clock will begin to run again based on whatever time remained when EPA revoked the standard for an area. Similarly, EPA believes that the duty to implement contingency measures should be triggered on the effective date of this reinstatement action rather than the date of any past violation.

If an area has a SIP in which the timing for contingency measures is triggered on the date of the violation, EPA believes that it would be appropriate to interpret the violation as occurring on the effective date of the reinstatement. If States still remain concerned about the approved language in existing SIPS regarding the timing for triggering contingency measures, they should work with the relevant EPA Regional Office to determine an appropriate manner to address the issue. Since the 1-hour standard was not in effect for the area during the revocation period, EPA does not believe that the area should be subject to a shorter time than contemplated in the State's adoption and EPA's approval of the SIP.

With respect to commenters that claim that an area may have had a violation (during 1996-1998) and once again is attaining (during 1997-1999), EPA believes that such areas should work with the relevant EPA Regional Office to determine an appropriate course of action. If there are additional control measures that applied during 1999, but did not apply during the period of the violation, it may not be necessary to implement further contingency measures at this time.

The EPA allowed States to remove contingency measures from approved SIPs where they were linked to the 1-hour standard or air quality ozone concentrations and EPA had taken action to determine that the 1-hour standard no longer applied. See “Guidance for Implementing the 1-Hour Ozone and Pre-Existing PM10 NAAQS,” from Richard D. Wilson, Acting Assistant Administrator for Air and Radiation, December 29, 1997. The EPA believed that such revisions would be consistent with section 110(l) of the CAA since EPA was determining that the 1-hour standard no longer applied and, therefore, removal of the contingency measures would not interfere with any applicable requirement concerning attainment and reasonable progress, or any other applicable requirement of the CAA. Id.

Because EPA believes it is now appropriate and necessary to reinstate the 1-hour standard, EPA believes it is no longer appropriate for States not to have those contingency measures in the approved SIP. States will need to move forward to put contingency measures back into the SIP. The EPA believes that States should have some discretion in selecting these contingency measures considering what measures would be appropriate, and adopting such measures, as necessary. Thus, at this time, EPA is not moving forward to use section 110(k)(6) to retract its earlier approval of SIP revisions removing contingency measures. Since EPA is not now proposing to move forward under section 110(k)(6), EPA is not addressing whether that provision provides the legal authority to take the action suggested by the commenters.

F. Areas Designated Nonattainment With No Violations Since Revocation

For areas designated nonattainment with no violations since the standard was revoked in these areas, EPA proposed that the nonattainment designation would again apply, but recommended that the State submit a redesignation request that meets the requirements of section 107(d)(3)(E). In addition, EPA noted that its May 10, 1995, “Clean Data Policy” could provide relief from some subpart 2 measures for these areas as long as they continued to have clean data. However, other subpart 2 requirements would apply unless and until an area was redesignated to attainment. There are 45 areas which fall into this category. The following table (Table I) lists the areas in this category:

Table 1.—Areas Designated Nonattainment With No Violations Since Revocation

Includes 45 areas (96 counties) that are not violating the 1-hour standard based on 1996-98 data.

Serious Classification:

Boston-Lawrence-Worcester (E. MA), MA-NH (12 counties)

Portsmouth-Dover-Rochester, NH (1 county)

Providence (All RI), RI (5 counties)

Moderate Classification:

Atlantic City, NJ (2 counties)

Knox & Lincoln Cos., ME (2 counties)

Lewiston-Auburn, ME (2 counties)

Muskegon, MI (1 county)

Portland, ME (3 counties)

Poughkeepsie, NY (3 counties)

Marginal Classification:

Albany-Schenectady-Troy, NY (6 counties)

Allentown-Bethlehem-Easton, PA-NJ (4 counties)

Altoona, PA (1 county)

Buffalo-Niagara Falls, NY (2 counties)

Door Co., WI

Erie, PA (1 county)

Essex Co., NY

Harrisburg-Lebanon-Carlisle, PA (4 counties)

Jefferson Co., NY

Johnstown, PA (2 counties)

Manchester, NH (1 county)

Reno, NV (1 county)

Scranton-Wilkes-Barre, PA (5 counties)

Smyth Co., VA (White Top Mtn)

York, PA (2 counties)

Youngstown-Warren-Sharon, OH-PA (3 counties)

Section 185A Areas (Section 185A areas, previously called transitional areas, had 3 complete years of clean data from 1987-89):

Chico, CA (1 county)

Denver-Boulder, CO (6 counties)

Flint, MI (1 county)

Yuba City, CA (2 counties)

Incomplete Data Classification (Incomplete data areas had no data or less than 3 complete years of data at time of classification):

Allegan Co., MI

Cheshire Co., NH

Crawford Co., PA

Franklin Co., PA

Greene Co, PA

Juniata Co., PA

Lawrence Co., PA

Northumberland Co., PA

Pike Co., PA

Saginaw-Bay City-Midland, MI (3 counties)

Salem, OR (2 counties)

Schuylkill Co., PA

Snyder Co., PA

Susquehanna Co., PA

Warren Co., PA

Wayne Co., PA

Comment: A number of commenters were opposed to reinstating prior designations and classifications, particularly in the case of areas that were designated nonattainment at the time of the revocation and that have remained clean. They want EPA to consider current monitoring data as the basis of an area's designation. These commenters claim that EPA's proposed approach creates inequities among the various types of areas where the standard would be reinstated. For example, they point to areas that will be designated attainment but that are violating the 1-hour standard. The commenters contend that it is inequitable that those areas will not be subject to subpart 2 control requirements, including new source review and conformity, but that certain nonattainment areas that have remained clean since revocation will be. One commenter did not seem to object to this approach, but recommended that EPA approve pending redesignation requests within 1 to 3 months of the final reinstatement.

Other commenters supported EPA's proposal to restore the designations and classifications that applied at the time of the revocation action. Several of these commenters claimed that EPA should not or could not consider violations that occurred while the standard was not applicable. Others recommended that EPA designate as nonattainment all areas that have current violations of the 1-hour standard.

Specifically, some commenters request that EPA now designate as attainment areas that were designated as nonattainment and that have never been approved for redesignation in accordance with the criteria in section 107(d)(3)(E). Thus, the commenters request EPA to rely on its revocation action as a justification for avoiding those requirements.

Response: As provided in section III.A, above, in today's action EPA is only reversing its earlier determination that the 1-hour standard no longer applies in these and other areas. Therefore, EPA is not considering current air quality data in establishing designations under this action as EPA would do when establishing initial designations for areas under section 107(d)(1) or redesignating areas under section 107(d)(3). In promulgating 40 CFR 50.9(b), EPA determined that the designations and classifications were linked to the applicability of the 1-hour standard. On that basis, in applying section 50.9(b), EPA removed not just the applicability of the 1-hour standard, but also the associated designation and classification for the 1-hour standard. Because EPA is rescinding its prior findings concerning the applicability of the 1-hour standard, the designations and classifications that accompanied that standard at the time of revocation come back into place with the standard.

The EPA disagrees with the commenters as a matter of law and policy. It is clear from the CAA, as amended in 1990, that Congress intended areas to meet specific criteria for redesignation with respect to an existing, applicable NAAQS. As discussed above in section III.A & B, EPA believes it was appropriate to transition from the 1-hour ozone standard to the 8-hour ozone NAAQS by requiring only that areas attain the ­1-hour standard—one of the five criteria ²¹ for redesignation. However, EPA believes it would circumvent Congressional intent to reinstate the ­1-hour standard because of the uncertainty surrounding the 8-hour standard and permit areas effectively to be redesignated from nonattainment to attainment without meeting the other four redesignation criteria. The EPA does not believe that it can rely on its rule determining the 1-hour standard no longer applies, the basis for which has been undermined by the ATA decision, as support for sidestepping the redesignation criteria.

²¹ Section 107(d)(3)(E) provides that EPA may not redesignate an area from nonattainment to attainment unless EPA: (1) determines that the area has attained the relevant NAAQS; (2) has fully approved the area's SIP; (3) determines that the improvement in air quality is due to permanent and enforceable reductions in emissions; (4) has fully approved a maintenance plan for the area; and (5) has determined that the State has met all of the applicable SIP planning requirements.

Moreover, because EPA cannot be sure how long it will take to resolve the issues surrounding the 8-hour standard, EPA believes that it is important to ensure that areas will maintain the 1-hour standard. The statutory redesignation criteria are designed to accomplish that goal. Thus, EPA believes it is essential that they be met.

However, EPA believes that it is appropriate to provide additional time to nonattainment areas with clean air quality data since revocation in order to complete the redesignation process. Therefore, EPA is taking final action today to delay the applicability date of the final rule for up to 180 days for areas that were designated nonattainment at the time of revocation and continue to have clean data, in order to allow States to submit redesignation requests and EPA time to act on them prior to the applicability date. These areas are identified in Table 1. In the proposed action to reinstate the standard, EPA recommended that areas begin to develop redesignation requests (or revise, as necessary, any existing requests) so that EPA could move forward quickly to approve the requests upon reinstatement. The EPA understands that some States are now ready, or close to being ready, to submit these requests to EPA. If requests are submitted within the next 2 months, EPA believes it can complete action on them before this rule becomes applicable. The EPA will work with States to ensure that review of redesignation requests occurs expeditiously. In addition, if States are able to submit redesignation requests and EPA is able to process such requests to the point of final action prior to 180 days from publication, the final action approving the redesignation may provide that the applicability date of the reinstatement will be the same date as the effective date of the redesignation approval, so that the redesignations will occur simultaneously with the reinstatement.

Once EPA approves a redesignation request, an area would be subject to the requirements of the approved maintenance plans. Redesignation to attainment does not relieve an area of its conformity obligations.

With respect to all of the areas previously designated nonattainment which currently have clean air quality data, as listed in Table 1, EPA concluded at the time of revocation that these areas had clean air quality data. These findings remain applicable unless more recent air quality data indicates that a violation has occurred. The EPA intends to complete rulemaking prior to the applicability date of this rule to determine the eligibility of these areas to use EPA's May 10, 1995 clean data policy. (Reasonable Further Progress, Attainment Demonstration, and Related Requirements for Ozone Nonattainment Areas Meeting the Ozone National Ambient Air Quality Standard, John S. Seitz).

The EPA acknowledges that reinstating the designations as they were prior to revocation arguably may produce some inequities among areas; however, these potential inequities are inherent in the redesignation process set forth in section 107. As provided in section III.D, above, Congress provided EPA with discretion in determining whether to redesignate areas from attainment to nonattainment and specified factors for EPA to consider. In comparison, Congress prohibited EPA from redesignating an area from nonattainment to attainment unless EPA determined that the area meets five specific criteria. In addition, any redesignation must occur through notice-and-comment rulemaking. Thus, at any point in time, an area can be attaining the standard, yet still be designated nonattainment, or designated attainment and be violating the standard, including the period while rulemaking to effect a redesignation is proceeding.²²

²² One court, in an unpublished opinion, upheld EPA's interpretation of the redesignation provisions of the CAA that an area must attain the standard and remain in attainment during the time that a redesignation request is pending in order to qualify for redesignation. Commonwealth of Kentucky, et al. v. US EPA, No. 96-4274 (6th Cir. Sept. 2, 1998).

Areas where EPA is today reinstating the applicability of the 1-hour standard will be placed back into the same position they were in prior to revocation. The EPA does not believe that this creates any additional inequities for these areas. It is true that EPA had previously relieved areas of the obligation to develop a maintenance plan for the 1-hour standard since they were to begin implementing the 8-hour standard. However, since it is now uncertain when areas will be required to implement the 8-hour standard, EPA does not believe it is inequitable to require these areas, as any other area, to develop maintenance plans prior to redesignating them to attainment.

Comment: A few commenters made requests that specific types of areas not be designated nonattainment. One commenter suggested that EPA should designate as attainment areas that were previously designated marginal or rural transport areas and that are clean without requiring redesignation. A few commenters suggested that EPA not penalize areas with violations where the cause of the violations is clearly one of transport and dislike the “unfair” label of nonattainment.

Response: For the reasons provided above, EPA does not see a legal avenue for changing the designation of marginal or rural nonattainment areas or areas affected by transport based solely on the reinstatement of the standard. Nor do the commenters identify a legal mechanism for treating these areas differently from other nonattainment areas with clean data.²³ Some commenters set forth conflicting arguments, arguing that EPA should generally establish the designations that were in place at the time of the revocation while simultaneously claiming that certain types of areas should be designated based on current air quality. The EPA does not see how it can reconcile these conflicting positions. As provided above, EPA believes the only proper interpretation of this reinstatement action is that prior actions are reversed such that prior designations are put back into place. The EPA will consider current air quality data in determining whether to redesignate areas under section 107(d)(3).

²³ One commenter suggests that we could do so as we did in revoking the standard. However, that was not a case of simply telling areas that they did not need to submit maintenance plans notwithstanding their nonattainment designation. It was a case of telling areas that they were no longer subject to any obligations with respect to the 1-hour standard based on expected implementation of the 8-hour standard, which would no longer be the case for marginal or rural nonattainment areas or areas affected by transport where the 1-hour standard is reinstated.

In addition, EPA already has provided relief to areas subject to transport in a number of ways. Such areas may continue to take advantage of appropriate EPA policy relating to areas affected by transport.²⁴ In addition, EPA has issued final rules requiring States or sources to address transported NOX and ozone in accordance with section 110(a)(2)(D) of the CAA. Final NOX SIP Call Rule (63 FR 57356, October 27, 1998); Final Rule on Section 126 Petitions (64 FR 28250, May 25, 1999). Areas affected by transport will benefit from these rules.

²⁴ E.g.,“Extension of Attainment Dates for Downwind Transport Areas,” from Richard Wilson, Acting Assistant Administrator for Air and Radiation, dated July 16, 1998, published at 64 FR 14441, March 25, 1999.

Comment: Some commenters were concerned about redesignation requests and maintenance plans submitted prior to the time that EPA determined that the 1-hour standard no longer applied. These commenters thought that it would be unfair for EPA to require the areas to update the maintenance plan to provide maintenance for 10 years from the time of EPA's approval.

Response: The EPA appreciates the concerns of those few areas that may have had pending redesignation requests that demonstrate continued maintenance for some period shorter than 10 years from the time of EPA's final action, due to the passage of time. In such areas, EPA will work with those States and respective transportation agencies to develop technically sound future budgets. Such future emissions projections will consider growth for existing and future sources, forecasting for vehicle miles traveled, other federally mandated programs, particularly the more recent mobile fuels rules and other applicable measures; the resulting budgets will undergo normal public process review. The EPA will work with the affected areas on an individual basis to determine the extent to which additional maintenance demonstrations may be needed to support redesignation, and will take appropriate final action on maintenance demonstrations in connection with future action on pending redesignation requests.

G. Areas Designated Nonattainment With Violations Since Revocation

For areas designated nonattainment with violations since the standard was revoked in those areas, EPA proposed that the nonattainment designation would again apply and that the area would be subject to the subpart 2 requirements once the reinstatement became effective. The EPA proposed that these areas have a reasonable time to meet the applicable planning requirements and that EPA would work with each area to establish a submittal schedule. This only applies to one area, Sussex Co., DE., based on 1996-98 data.

Comment: Most commenters did not raise separate issues with respect to this specific group of areas. A few commenters specifically noted that they supported reinstating the nonattainment designation for these areas. Some commenters requested EPA to be clear about what the implications are for reinstatement. In particular, they were concerned about what planning and control requirements might apply and what would be the timing.

Response: The planning and control requirements that will apply for this area are the applicable planning and control requirements in subpart 2 of the CAA. The EPA will work with Delaware to determine appropriate SIP submittal deadlines for any programs that have not yet been submitted.

H. Effective Date and Applicability Dates of Reinstatement

The EPA proposed to delay the effective date ²⁵ of any final reinstatement notice by 90 days in order to provide areas with a short period of time in which to prepare for the applicability of conformity and new source requirements which will be triggered by the reinstatement of the 1-hour standard and the designations for that standard. In the final rule, EPA has retained the 90-day effective date. However, for areas that were designated as nonattainment at the time EPA revoked the 1-hour standard and that have continued to have clean air quality since revocation, EPA is establishing an applicability date for the reinstatement of up to 180 days after publication of the final rule. These areas are listed in Table 1. During this period, EPA will review any pending redesignation requests or requests that may be submitted shortly after this final action is published. If EPA is able to complete final rulemaking action to redesignate an area to attainment during that 180-day period, EPA will provide in the final redesignation rule that the area will be designated attainment as of the applicability date of this rule, so that by the time reinstatement is applicable for any such area, the area will receive an attainment designation. In addition, if States are able to submit redesignation requests and EPA is able to process such requests to the point of final action prior to 180 days from publication, the final action approving the redesignation may provide that the applicability date of the reinstatement will be the same date as the effective date of the redesignation approval, so that the redesignations will occur simultaneously with the reinstatement. As mentioned before, the 45 areas listed in Table 1 may elect to submit redesignation requests.

²⁵ See footnote 9, above.

Comment: Some commenters disagreed with the proposed 90-day delay in effectiveness, claiming it would be too short a time frame to complete conformity determinations on transportation improvement plans (TIPs) or for redesignation to occur. One commenter suggested a 180-day delay in the effective date. Other commenters believed that the final action reinstating the standard and the associated designation should be effective immediately. Finally, some commenters supported EPA's proposal to make the reinstatement and the associated designations effective 90 days after publication.

Response: With respect to the effective date of the rule, EPA has determined, based upon the comments submitted, that a 90-day delayed effective date is an appropriate time period for most areas. The time from the October 25th proposal to the end of the 90-day period is approximately 10 months. The EPA believes this period is sufficient for States to complete air quality analyses for conformity determinations on transportation plans prior to the effective date of the final rule. Thus, areas should not experience any delays in transportation projects. At the same time, reinstatement of the standard with the associated public health and welfare protections will not be significantly delayed. The EPA does not anticipate that areas will attempt to complete transportation activities inconsistent with reinstatement of the 1-hour standard prior to the effective date, but rather that they will use the delay to ensure they are ready to meet the applicable requirements when the reinstatement becomes effective. Thus, EPA concludes that a 90-day delayed effective date is a reasonable accommodation between the competing interests of public health protection and transportation planning for most areas.

The EPA agrees with commenters to the extent it concludes that up to a 180-day delay in the applicability of this rule is appropriate for areas that were designated nonattainment prior to revocation but that currently have clean air quality data sufficient to support a redesignation to attainment. Since these areas have continued to have clean air since revocation, EPA believes it is appropriate to provide up to an additional 90-day delay in the applicability of the rule to allow these areas time to quickly complete and submit redesignation requests and for EPA to act on submitted requests. Where EPA approves such requests on or before the applicability date of this rule, the area would be designated attainment at the time the reinstatement of the 1-hour standard becomes applicable. The EPA notes again that if EPA is taking final action to approve a redesignation prior to 180 days from publication of this rule, the final action approving the redesignation may provide that the applicability date of the reinstatement will be the same date as the effective date of the redesignation approval, so that the redesignations will occur simultaneously with the reinstatement. Where EPA does not approve a redesignation request or one is not submitted, the area will receive the nonattainment designation which applied to the area prior to revocation upon the applicability date of this rule.

The EPA notes that all of these areas will again be subject to conformity upon the applicability date of the reinstatement of the 1-hour standard and associated designations, since conformity applies to both nonattainment and maintenance areas. As indicated above, EPA anticipates that areas will use the delay to complete modeling efforts and the consultation process so that they can have a conforming plan and TIP in place by the applicability date.

I. Sanction and FIP Clocks

The EPA's proposed rule provided that any sanctions and FIP clocks that were running at the time of the revocation should restart at the point that they left off. In other words, if there were 6 months remaining in the 2-year period for promulgation of a FIP, those remaining 6 months would start to run for that area on the applicability date of this action. The EPA is retaining this approach in the final rule.

Comment: Some commenters stated that areas should not be subject to any penalties or sanctions. Another commenter requested that EPA impose sanctions immediately not only for those areas for which a clock was running but also for those areas which may not have submitted a required SIP but for which EPA never made a finding that started sanctions and FIP clocks. This commenter suggested that sanctions should be imposed no later than 90 days after the effective date of the reinstatement for all such areas. In contrast, a number of commenters supported EPA's approach. These commenters generally contended that treating the clocks as if they continued to run during the time when the standard did not apply would be considered enforcing the standard when it was not in effect. One commenter seemed to support starting the clock where it left off at the time of the revocation, but noted that sanction clocks with time remaining should not allow States to delay progress. The commenter states that areas violating the 1-hour standard or contributing to violations in other areas must move forward “as expeditiously as practicable.”

Response: The EPA believes that the most equitable approach is to restart clocks for sanctions or FIPs where they left off at the time of the revocation. Because States and sources relied on EPA's final rule determining that the standard no longer applied, States were not affirmatively moving forward with 1-hour SIPs. ²⁶ Thus, EPA believes that it would be unfair to States and affected sources to treat those clocks as if they continued to run during the time that the 1-hour standard no longer applied.

²⁶ One commenter suggests that EPA's actions revoking the 1-hour standard and related designations were not legally valid at the time they were taken. Thus, this commenter claims, that rule cannot support a further delay in sanctions or FIPs. The EPA disagrees. The EPA revoked the standard in full compliance with its regulation, 40 CFR 50.9(b), which was not challenged at the time it was promulgated.

Similarly, EPA does not believe that it has authority, nor would it be appropriate, to begin these clocks over again upon reinstatement or to treat these clocks as no longer in effect. The FIP and sanctions obligations under sections 110 and 179 of the CAA were previously triggered for a State's failure to make a complete SIP submission or an approvable submission as required under the CAA. By today's action, areas will once again be subject to the same requirements to make submissions. There is no basis for ignoring or discharging the State's obligation with respect to these submissions. Moreover, EPA agrees that sanctions clocks should not be treated by States as a “grace period” that allows deferral of compliance dates. Where a sanctions clock is in place, States should submit plans to stop the clock as expeditiously as practicable and should not delay submission until the last minute before sanctions are put into place.

Because EPA is taking action to put areas back in the place they were in prior to the revocation, the most appropriate course of action is to restart these clocks where they left off. Therefore, upon the applicability date of today's action, any sanctions or FIP clocks that were running based on a State's default for a required submission will restart at the point it was on the effective date of the revocation. States should work to submit SIPs as expeditiously as practicable. Any questions regarding the status of a sanction or FIP clock for a specific area should be directed to the appropriate EPA Regional Office. Finally EPA has no authority to impose sanctions where EPA has not made appropriate findings to trigger clocks under section 179.

J. Conformity

The EPA proposed that conformity would apply upon the effective date of the rule to all areas again designated nonattainment. The EPA noted that these areas would need to have a conforming transportation plan and program in place by the effective date of the rule in order to fund new transportation projects after that date. The EPA also noted that conformity has continued to apply to all attainment areas with maintenance plans even after revocation, and that conformity does not apply at all to attainment areas without maintenance plans. Upon the applicability date ²⁷ of this final action, conformity will apply to all designated nonattainment and maintenance areas as proposed.

²⁷ See footnote 9 and section H. above for explanation of terms “effective date” and “applicability date.”

Several commenters expressed concerns about the conformity requirements that apply to nonattainment and maintenance areas and the timing of conformity determinations. The specific comments and responses follow.

Comment: The transportation conformity rule requires conformity to be determined at least every 3 years. Commenters requested that we not consider the 3-year clock to have been running in nonattainment areas where the 1-hour ozone standard was revoked and conformity did not apply.

Response: We agree that in ozone nonattainment areas where the ozone standard was revoked and conformity stopped applying, any of the 3-year or 18-month clocks (described in 40 CFR 93.104 ²⁸) that were running at the time of the revocation were stayed on the effective date of the revocation. On the applicability date of this final rule, those clocks will pick up again at the point where they left off.

²⁸ The EPA's conformity regulations require States to redetermine conformity for all transportation plans and programs every 3 years. 40 CFR 93.104(b)(3) and (c)(3). The regulations also require a conformity determination within 18 months of various SIP submittal and approval actions. 40 CFR 93.104(e).

In practice, this means that if an ozone nonattainment area had a conforming TIP at the time of the revocation and did not amend the plan and TIP with respect to any non-exempt projects during the time conformity did not apply, the transportation plan and TIP would continue to be considered “currently conforming” even if more than 3 years have elapsed since the conformity determination.

The area would need to document that the transportation plan and TIP have not changed since the time of the last conformity determination in a manner that would have required a new conformity determination. The area should also clearly identify how much time remains on the 3-year clock and any 18-month clock that was triggered by 40 CFR 93.104.

We are not concerned that the temporary halt of the clocks in 40 CFR 93.104 will result in transportation plans and TIPs that are relying on very old conformity determinations. The Department of Transportation (DOT) requires transportation plans and TIPs to be regularly updated, and those planning clocks have been running regardless of the revocation. The plan and TIP updates require conformity determinations. Therefore, any plans and TIPs with conformity determinations from before the revocation will be updated soon under DOT's planning regulations.

For any plans and TIPs that were amended with respect to non-exempt projects while the ozone standard was revoked, a new conformity determination will be required by the time the reinstatement is applicable. This is because these plans and TIPs will generally not yet have been found to conform and would have to be found to conform by the applicability date of reinstatement to enable projects to proceed.

Comment: One commenter asked what process is required for areas that voluntarily complied with conformity requirements while the ozone standard was revoked.

Response: If an area amended its plan and TIP while the ozone standard was revoked, but the amendment(s) fully met the requirements of the conformity rule (including public participation), the area would simply need to document this and receive confirmation from the Federal agencies that the transportation plan and TIP are considered “currently conforming.”

Comment: Some commenters were concerned that they do not have enough time to determine conformity before the reinstatement is applicable, and/or that it is burdensome to determine conformity of the current plan and TIP when they are updating the plan and TIP very soon (which will also require a conformity determination).

Response: We understand that this final rule changes the usual cycle for determining conformity. Counting from the time we proposed to reinstate the standard, areas will have had at least ten months to complete the conformity process prior to the applicability date of this rule. We believe this is a reasonable time frame, although we recognize that the timing for this conformity process may not be optimal for some areas.

We must balance the desire for additional time for transportation planning with the need to protect public health with the 1-hour ozone standard and statutory requirement for conformity determinations. In some areas, transportation investments were planned or approved during the revocation without a demonstration that they will not interfere with attainment of the one-hour ozone standard. It is important to conduct such a demonstration expeditiously so that areas do not irreversibly commit to transportation projects that are inconsistent with healthy air.

Comment: One commenter stated that the proposed criteria for conformity are not consistent with the March 2, 1999 decision of the Court of Appeals in EDF v. EPA, 167 F.3d 641,650 (1999) on conformity. The commenter argues that the court required EPA to develop a test to ensure conformity consistent with CAA 176(c)(1) and that this must be done now for all areas where the standard is to be reinstated.

Response: Conformity determinations should comply with the CAA, as recently interpreted in the EPA and DOT guidance issued in response to the March 1999 court decision (EPA's May 14, 1999 guidance entitled, “Conformity Guidance on Implementation of March 2, 1999 Conformity Court Decision” and DOT's June 18, 1999 guidance entitled, “Additional Supplemental Guidance for the Implementation of the Circuit Court Decision Affecting Transportation Conformity”). We believe that these guidance documents are consistent with the court's decision and that conformity determinations performed consistent with the guidance are legally sound. We will be formally proposing to amend the transportation conformity rule to incorporate this guidance, pursuant to CAA section 176(c)(4)(A).

The commenter appears to believe that the court decision required EPA to develop additional criteria to satisfy the obligations of section 176(c)(1) of the CAA, which require Federal agencies and Metropolitan Planning Organizations (MPOs) to determine that Federal actions will not interfere with timely attainment, in situations where they are determining conformity to budgets in submitted SIPs. However, EPA believes that the court in actuality merely remanded EPA's rules, stating that “where EPA fails to determine the adequacy of motor vehicle emissions budgets in a SIP revision within 45 days of submission, * * * there is no reason to believe that transportation plans and programs conforming to the submitted budgets will [meet the statutory tests in section 176(c)(1)(B)].” The EPA interprets this aspect of the decision to require it to revise its regulations to mandate that EPA make affirmative findings of adequacy on all submitted SIPs before they can be used for conformity purposes. The procedure for doing this is outlined in the guidance mentioned above. The EPA does not believe the court addressed any deficiency in EPA's regulations governing conformity determinations in situations where EPA has made a positive finding of adequacy. The EPA concludes that the court only remanded the aspect of EPA's regulations at 40 CFR 93.118(e)(1) which allows use of submitted SIPs which EPA has not yet found adequate, since it did not remand either EPA's regulations at 40 CFR 93.118(e)(4) establishing criteria for finding budgets adequate or 93.118(e)(6) requiring additional findings by Federal agencies and MPOs where conformity determinations are made to submitted SIPs. Therefore, EPA believes that conformity determinations consistent with these two provisions and our guidance on finding budgets adequate fully satisfy the requirements of the CAA and we intend to revise our regulations consistent with that guidance. Of course, commenters will have the opportunity to comment on those regulatory changes when they are proposed and to raise any issues associated with EPA's interpretation of the court opinion at that time. The EPA does not believe that such comments are directly relevant to this rulemaking and, therefore, is not making any changes to the conformity rules in connection with this final action.

Comment: One commenter argued that conformity to adequate SIP budgets in nonattainment areas, should continue even after any future revocations until new adequate budgets are submitted for the 8-hour standard.

Response: Section 176(c)(5) of the CAA clearly provides that conformity requirements only apply in nonattainment areas and areas that had been nonattainment and were subsequently redesignated to attainment and are subject to the requirement to develop a maintenance plan. Since nonattainment areas where EPA may in the future revoke the 1-hour standard once an 8-hour standard becomes fully enforceable will no longer be designated nonattainment or subject to the requirement to submit a maintenance plan, for the reasons explained above, EPA concludes that it would have no authority under section 176(c) to require conformity to previously submitted 1-hour budgets after any future revocations.

K. New Source Review

In the October 25th proposal, EPA solicited comment on what NSR requirements should apply in areas that had, subsequent to our findings that the 1-hour standard no longer applied, revoked their nonattainment NSR programs. Specifically, EPA asked whether 40 CFR part 51, Appendix S should be followed or the higher offset/major source thresholds in subpart 2 of the CAA should be followed in nonattainment areas where the SIP lacks the applicable nonattainment NSR provisions.

Comment: Several commenters wanted flexibility in applying NSR requirements. There was a mixed reaction for and against using 40 CFR appendix S. As to the question of whether States must issue permits consistent with the additional requirements of subpart 2, even in the absence of an approved NSR SIP, one commenter stated that it was not supportive of any EPA action that would cause enforcement of NSR on facilities that were or are under no legal obligation to comply with NSR requirements. Another commenter urged EPA to require sources to comply with subpart 2 notwithstanding the lack of an approved SIP, citing a 1992 EPA policy memorandum as support.

Response: The EPA solicited comment on how to address areas that were designated nonattainment prior to the findings that the 1-hour standard no longer applied and which, since revocation, had amended their SIPs to remove the applicable nonattainment NSR provisions. The EPA has determined that it is unnecessary to resolve this question in this rulemaking, as we have determined that no area has amended its SIP since the nonattainment designations were removed. Thus, the applicable SIPs in each area will specify the nonattainment NSR responsibilities of sources in the area, without any action by EPA.

Comment: Sources that have applied for PSD permits during the period that the 1-hour ozone standard did not apply should not have to seek part D NSR permits. Allowing sources with complete applications to avoid more stringent requirements is consistent with EPA policy. Such an approach is also consistent with how EPA acted following the adoption of PM10 as the indicator for particulate matter in 1987. At that time, EPA allowed sources with complete PSD permit applications that did not account for the sources' PM10 emissions to be grandfathered.

Response: Whether or not sources must apply for part D nonattainment NSR permits upon reinstatement of the 1-hour standard will be determined by the applicable SIP. The EPA expects that most, if not all, SIPs already specify that sources in designated nonattainment areas must obtain part D permits. Accordingly, some sources may have to revise their permit applications. Even if EPA were to agree that it would be appropriate to allow such sources to obtain PSD permits rather than nonattainment NSR permits, EPA cannot override by policy the legal requirements of a more stringent applicable SIP. Regarding the PM10 transition policy to which the commenter refers, that policy is inapplicable in the present situation because it did not deal with the kind of situation at issue currently—where areas will be switching from one designation status (no designation) to nonattainment. The EPA had concluded in that rulemaking that part D, including part D NSR, did not apply at all to the revised particulate matter NAAQS, so there was not a question about which NSR program would apply. See 52 FR 24672, 24678 (July 1, 1987).

L. Miscellaneous Comments

Comment: One commenter noted that EPA should notify the public of the terms of a stipulation agreement reached between EPA and the Environmental Defense Fund (EDF) wherein EPA agreed to accept comment on certain items in the reinstatement notice.

Response: In its notice reopening the comment period on Dec. 8, 1999, EPA explicitly provided that it would accept comment on the list of issues recited in the stipulation filed in EDF v. EPA, (D.C. Cir., No. 98-1363). (64 FR 68659, December 8, 1999).

Comment: Several commenters supported applying the reinstatement retroactively, such that areas would be treated as if the standard and the associated designations have always applied. Some were not supportive of retroactively applying the 1-hour standard during the time it was revoked. With respect to conformity determinations, one commenter believed that we shouldn't allow “grandfathering” of projects if prior conformity determinations would have lapsed during the time the standard was not applicable; they believe that in cases where it is not possible to reverse actions, then they must be subject to some mitigation procedure to address actions that allowed for emission increases during that time.

Response: The EPA concludes that it is not appropriate to apply the reinstatement of the 1-hour standard retroactively. The EPA believes that it had full authority to revoke the 1-hour standard initially, and that its actions were legal and proper at the time they were taken. Although EPA now concludes that it should rescind those actions due to changed circumstances, it would be unfair to areas that had relied on the initial revocations (and to sources located in those areas) to apply the rescissions retroactively. Many areas took actions during the period of time that the 1-hour standard was not applicable that properly relied on the inapplicability of that standard. Rules altering prior actions are generally applied only prospectively and are applied retroactively only in unusual cases, for instance where an agency did not have the authority to take a prior action initially. Courts generally view retroactive application of administrative rules with disfavor unless such application is specifically sanctioned by statute. Bowen v. Georgetown University Hospital, 488 U.S. 204 (1988). The CAA does not specifically provide for retroactive application of regulations under title I. Therefore, although EPA might have authority to apply the reinstatement retroactively if a court determined that EPA's action in revoking the standard was illegal, EPA does not believe it is appropriate to do so here where EPA believes it was fully authorized to revoke the standard at the time it took such action.

The EPA also concludes for similar reasons that it would not be appropriate for conformity purposes to treat conformity determinations as having lapsed during the time that the 1-hour standard was not applicable to an area. Because the 1-hour standard no longer applied during that period, areas were not on notice that conformity determinations were to lapse. It would be equally unfair to areas to achieve a similar result by denying grandfathering status under the conformity rules to any project approved during a time period when conformity status would have lapsed if the standard had been applicable. The EPA concludes that areas should be allowed to continue to rely on the inapplicability of the 1-hour standard during the period between revocation and reinstatement because EPA had the authority to revoke the standard and properly revoked it initially.²⁹

²⁹ One commenter notes that some areas should have been on notice that revocations were questionable since one action promulgating revocations was not published in the Federal Register until after May 14, 1999, the date of the adverse court decision in ATA (64 FR 30911, June 9, 1999). However, that final action of the Administrator was taken (final rulemaking notice signed by the Administrator) on May 12, 1999, prior to the court decision; only publication occurred after the decision. The EPA did not take any further actions revoking the 1-hour standard in any areas after the date of the ATA decision.

For these same reasons, EPA concludes that where highway projects or new sources have already been constructed, areas should not be required to immediately implement mitigation measures to remedy any resulting emissions increases. Areas will effectively have to provide for mitigation in future transportation and air quality planning once the 1-hour standard is reinstated. All future air quality planning for attainment and reasonable further progress as well as conformity determinations will have to account for emissions from such activities. However, EPA believes that it would be inequitable to require areas to immediately institute specific mitigation measures to account for any emissions increases that may have occurred during the time that the standard was not applicable to an area.

Comment: Several commenters took the opportunity to comment on the 8-hour ozone standard. Many requested that designations for the 8-hour standard not be made until legal issues are resolved. Many asked for guidance to States on meeting the 8-hour standard in the interim. Several called upon the Agency to revoke the 8-hour standard.

Response: The numerous comments concerning the 8-hour standard, including those relating to designations under the 8-hour standard, guidance on implementation of the 8-hour standard, and requests for revocation of the 8-hour standard, are not relevant to this rulemaking on reinstatement of the 1-hour standard. The EPA will address issues relating to the 8-hour standard in separate rulemaking actions or guidance documents.

Comment: One commenter suggested that we explore the Flexible Attainment Region (FAR) approach to provide flexibility to States in determining measures to prevent air quality deterioration and to improve air quality. The commenter suggests that EPA give these “voluntary programs” time to work before triggering nonattainment designations. The same commenter also requests EPA to extend to ozone areas the flexibility provided in EPA's draft guidance for PM-10 nonattaiment areas with respect to limited maintenance plans.

Response: The EPA has used the FAR approach in the past with respect to areas designated attainment but that are violating the ozone standard. As provided above, EPA has some discretion in deciding whether to redesignate such areas as nonattainment. In exercising that discretion, EPA may consider “planning and control” activities. Thus, in the past, EPA has not moved forward to redesignate to nonattainment attainment areas that were voluntarily adopting and implementing measures to address violations. The EPA plans to continue this approach for such areas as explained in sections III.D and E, above. However, as also explained above, EPA does not believe it has the authority to reinstate the standard and not designate as nonattainment those areas designated as nonattainment at the time of the revocation action. These areas would be subject to the specific planning requirements that Congress provided under the CAA until they qualify for redesignation. The EPA cannot ignore the statutory mandate in favor of more flexible means of achieving attainment that could be allowed under the FAR approach. Therefore, designated nonattainment areas cannot use a FAR because the statutory requirements apply.

With respect to the comment regarding EPA's draft limited maintenance plan guidance for PM-10 areas seeking redesignation from nonattainment to attainment, EPA notes that it has an existing limited maintenance plan policy for ozone (“Limited Maintenance Plan Option for Nonclassifiable Ozone Nonattainment Areas,” November 16, 1994, Sally Shaver) This policy provides some flexibility, e.g., no requirement to project emissions out into the future, no need for maintenance demonstration since met by meeting the NAAQS, etc. The commenter appears not to recognize that such a policy exists and does not further explain what flexibilities in the draft PM-10 policy they would like extended to ozone areas.

IV. What Administrative Requirements Are Considered in Today's Final Rule?

A. Executive Order 12866: Regulatory Impact Analysis

Under Executive Order 12866, [58 FR 51,735 (October 4, 1993)] the Agency must determine whether the regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this final rule is a “significant regulatory action” under the terms of Executive Order 12866; therefore, it was submitted to OMB for their review.

B. Regulatory Flexibility Act

Under the Regulatory Flexibility Act (RFA), 5 U.S.C. 601 et seq., EPA must prepare a regulatory flexibility analysis assessing the impact of any proposed or final rule on small entities (5 U.S.C. 603 and 604), unless EPA certifies that the rule will not have a significant impact on a substantial number of small entities. Small entities include small businesses, small not-for-profit enterprises, and government entities with jurisdiction over populations of less than 50,000. The EPA is certifying that this final rule will not have a significant impact on a substantial number of small entities because the determination that the 1-hour standard again applies does not itself directly impose any new requirements on small entities. See Mid-Tex Electric Cooperative, Inc. v. FERC, 773 F.2d 327 (D.C. Cir. 1985) (agency's certification need only consider the rule's impact on entities subject to the requirements of the rule). Instead, this rule merely establishes that the 1-hour standard again applies in certain areas. For the most part, any requirements applicable to small entities that may indirectly apply as a result of this action would be imposed independently by the State under its SIP, not by EPA through this action. Moreover, to the extent this rule would automatically trigger the applicability of certain SIP requirements to small entities (e.g., NSR), this rule cannot itself be tailored to address small entities that would be subject to those requirements.

One requirement that may apply immediately upon this action to all designated nonattainment areas is the requirement under CAA section 176(c) and associated regulations to demonstrate conformity of Federal actions to SIPs. However, those rules only apply directly to Federal agencies and MPOs, which by definition are designated only for metropolitan areas with a population of at least 50,000 and thus do not meet the definition of small entities under the RFA. Therefore, I certify that this action will not have a significant impact on a substantial number of small entities within the meaning of those terms for RFA purposes.

C. Unfunded Mandates

Title II of the Unfunded Mandates Reform Act of 1995 (UMRA), Public Law 104-4, establishes requirements for Federal agencies to assess the effects of their regulatory actions on State, local, and tribal governments, and the private sector. Under section 202 of UMRA, EPA generally must prepare a written statement, including a cost-benefit analysis, for proposed and final rules with “Federal mandates” that may result in expenditures by State, local, and tribal governments, in the aggregate, or by the private sector, of $100 million or more in any one year. Before promulgating an EPA rule for which a written statement is needed, section 205 of UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it mush have developed under section 203 of UMRA a small government agency plan. The plan must provide for notifying potentially affected small governments, enabling officials of affected small governments to have meaningful and timely input in the development of EPA regulatory proposals with significant Federal intergovernmental mandates, and informing, educating, and advising small governments on compliance with the regulatory requirements.

Today's final action does not include a Federal mandate within the meaning of UMRA that may result in expenditures of $100 million or more in any one year by either State, local, or tribal governments in the aggregate or to the private sector. This rule would reinstate the applicability of the 1-hour ozone standard and alter the designation status of areas. The consequences of this action may result in some additional costs within the affected areas, but these costs would not exceed $100 million per year in the aggregate.³⁰ In view of recent concerns about increased gas prices in certain areas, we specifically note that this action will not impose any requirements on gasoline and will not affect current gas prices.

³⁰ See Docket A-99-22, III-B-04, “Preliminary Assessment of the Incremental Burden Associated with Reinstatement of the 1-Hour Ozone Standard for UMRA, dated October 14, 1999.

One mandate that may apply as a consequence of this action to all designated nonattainment areas is the requirement under CAA section 176(c) and associated regulations to demonstrate conformity of Federal actions to SIPs. These rules apply to Federal agencies and MPOs making conformity determinations. The EPA concludes that such conformity determinations will not cost $100 million or more in the aggregate annually.³¹

³¹ See footnote 30, above.

In addition, some areas with recent air quality violations will have to take the additional steps specified in their maintenance plans to limit emissions of air pollutants. These measures could, for example, include revising the threshold for NSR, establishing reasonable available control technology (RACT) level control for additional sources, and establishing or enhancing inspection and maintenance (I/M) programs within the area. These measures vary substantially in terms of the expected emissions reductions and their potential cost. Because the affected jurisdictions have some flexibility to choose among these measures, it is difficult to estimate the overall cost of these additional controls. The EPA believes that the affected areas are already carrying out many of the other obligations associated with this action. For example, most areas that would have a nonattainment designation reinstated upon reinstatement of the 1-hour standard already have NSR requirements under their existing SIP programs. In addition, many of these areas are located in the Northeast Ozone Transport Region and are already carrying out many of the requirements associated with the reinstatement of the 1-hour standard. Therefore, EPA believes that any new controls imposed as a result of this action will not cost in the aggregate $100 million or more annually. Thus, this Federal action will not impose mandates that will require expenditures of $100 million or more in the aggregate in any one year.

D. Executive Order 13045: Protection of Children From Environmental Health Risks and Safety Risks

Executive Order 13045: “Protection of Children from Environmental Health Risks and Safety Risks” (62 FR 19885, April 23, 1997) applies to any rule that: (1) is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those major regulatory actions that are based on health or safety risks, such that the analysis required under section 5-501 of the Order has the potential to influence the regulation. This final rule is not subject to Executive Order 13045 because it does not meet either of the above criteria. It is not economically significant as defined under Executive Order 12866, and it implements a previously promulgated health or safety-based Federal standard and does not itself involve decisions that affect environmental health or safety risks.

E. Submission to Congress and the General Accounting Office

Under 5 U.S.C. 801(a)(1)(A), as added by the Small Business Regulatory Enforcement Fairness Act of 1996, EPA submitted a report containing this rule and other required information to the U.S. Senate, the U.S. House of Representatives and the Comptroller General of the General Accounting Office prior to publication of the rule in today's Federal Register. This rule is not a “major rule” as defined by 5 U.S.C. 804(2).

F. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under Section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. The EPA also may not issue a regulation that has federalism implications and that preempts State law, unless the Agency consults with State and local officials early in the process of developing the proposed regulation.

As indicated in the proposal, EPA does not believe that this final rule has federalism implications within the meaning of the Executive Order. EPA has reached this conclusion for several reasons. As discussed above in connection with UMRA, this action will not impose substantial direct compliance costs on the States nor will it alter the relationship between the national government and the States, or the distribution of power and responsibilities among the various levels of government. As noted previously, this rule simply reinstates the applicability of the 1-hour ozone standard and the associated air quality designations for various areas that had applied prior to revocation. These actions do not preempt any State authority or otherwise affect State flexibility to comply with the Clean Air Act. Although reinstatement will alter the number of areas within various states that are designated under the 1-hour standard, it will not alter the relationships that currently exist between the States and the federal government with respect to areas designated under the 1-hour standard. Thus, EPA concludes that the requirements of section 6 of the Executive Order do not apply to this rule.

In the spirit of the Executive Order however, the Agency has consulted extensively with representatives of State and local governments, including elected officials. As EPA was developing the proposal and again when EPA issued the proposal, we phoned elected officials or their staff for many of the areas that could be affected by the rule to notify them that EPA was considering reinstating the 1-hour ozone standard and to solicit their advice and concerns. The EPA also notified national organizations of state and local government officials and made EPA staff available to discuss the proposed action with the organization staff and their members. These organizations included the U.S. Conference of Mayors (USCM), the National Conference of Black Mayors, the National Governors Association, the National Council of State Legislators, the National Association of Counties, ECOS, STAPPA/ALAPCO, the National Association of Local Government Environmental Professionals, and the Ozone Transport Commission. For example, EPA's Assistant Administrator for Air and Radiation held a conference call with the USCM Energy and Environment Committee members when the proposal was announced. In addition, EPA sent letters to the Governors and their environmental commissioners to ensure that they were aware of the proposal and could comment on it. It was in response to concerns raised by these contacts that EPA proposed to delay the effective date of the reinstatement for 90 days so that areas would have adequate time to comply with any requirements triggered by reinstatement. In addition, based on comments received from States after publication of the proposal, EPA decided to provide a 180-day delayed applicability date for areas that were designated nonattainment but currently have clean air data. EPA also notes that, while it received no adverse comments regarding the statements in the proposal concerning the lack of federalism implications of this rule, it received numerous comments on the rule from state and local governments. EPA has responded fully to all comments raised by the various State and local governments, as explained above in the sections of this notice describing the comments and EPA's response to them.

G. Executive Order 13084: Consultation and Coordination With Indian Tribal Governments

Under Executive Order 13084, EPA may not issue a regulation that is not required by statute that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's final rule does not significantly or uniquely affect the communities of Indian tribal governments. This final action does not involve or impose any requirements that directly affect Indian tribes. Under EPA's tribal authority rule, tribes are not required to implement CAA programs but, instead, have the opportunity to do so. Accordingly, the requirements of section 3(b) of Executive Order 13084 do not apply to this rule.

H. Paperwork Reduction Act

This final action does not contain any information collection requirements which require OMB approval under the Paperwork Reduction Act (44 U.S.C. 3501 et seq.).

I. Executive Order 12898: Environmental Justice

Under Executive Order 12898, each Federal agency must make achieving environmental justice part of its mission by identifying and addressing, as appropriate, disproportionately high and adverse human health or environmental effects of its programs, policies, and activities on minorities and low-income populations. Today's final action to reinstate the applicability of the 1-hour standard in certain areas does not have a disproportionate adverse affect on minorities and low-income populations.

J. National Technology Transfer and Advancement Act

Section 12 of the National Technology Transfer and Advancement Act (NTTAA) of 1995 requires Federal agencies to evaluate existing technical standards when developing new regulations. To comply with NTTAA, the EPA must consider and use “voluntary consensus standards” (VCS) if available and applicable when developing programs and policies unless doing so would be inconsistent with applicable law or otherwise impractical.

The EPA believes that VCS are inapplicable to this final action. Today's final action does not require the public to perform activities conducive to the use of VCS.

K. Rule Effective Date and Applicability Dates

The EPA finds that there is good cause for this final action to become effective ³² and applicable either 90 or 180 days after publication, depending upon type of area, since this would afford areas time to get programs, such as conformity SIPs or redesignation requests, in place. The EPA believes these are reasonable periods of time to accommodate the competing interests of efficient air quality and transportation planning and prompt public health protection. The EPA has general administrative authority under section 301(a) of the CAA and 5 U.S.C. 553(d) to establish the effective date and applicability dates of a rule provided any delay in effective date or applicability dates is reasonable. ASG Industries v. Consumer Product Safety Commission, 593 F.2d 1323, 1335 (D.C. Cir. 1979). A 90- or 180-day delay in effective or applicability date for a rule where areas will have to develop various SIP emission control programs by the effective or applicability date of the rule is reasonable. See Small Refiner Lead Phase-Down Task Force v. EPA, 705 F.2d 506 (D.C. Cir. 1983) (EPA's decision to grant an 8-month period between date of promulgation and effective date was reasonable where regulated entities needed time to implement controls). The longer time period for areas that are not experiencing violations is reasonable because no violations are occurring in these areas. Moreover, EPA will need additional time to take final action to redesignate areas as attainment after States submit their plans to EPA.

³² See footnote 9, above.

L. Petitions for Judicial Review

Under section 307(b)(1) of the CAA, petitions for judicial review of this action must be filed in the United States Court of Appeals for the appropriate circuit by September 18, 2000. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects

40 CFR Part 50

Environmental protection, Air pollution control, Carbon monoxide, Lead, Nitrogen dioxide, Ozone, Particulate matter, Sulfur oxides.

40 CFR Part 81

Environmental protection, Air pollution control, National parks, Wilderness areas.

Dated: July 5, 2000.
Carol M. Browner,
Administrator.

For the reasons stated in the preamble, Parts 50 and 81 of chapter I, title 40 of the Code of Federal Regulations are amended as follows:

PART 50—[AMENDED]

1. The authority citation for part 50 continues to read as follows:

Authority: 42 U.S.C. 7401, et seq.

2. Section 50.9 is amended by revising paragraph (b) to read as follows:

§ 50.9 National 1-hour primary and secondary ambient air quality standards for ozone.

* * * * *

(b) The 1-hour standards set forth in this section will remain applicable to all areas notwithstanding the promulgation of 8-hour ozone standards under § 50.10. In addition, after the 8-hour standard has become fully enforceable under part D of title I of the CAA and subject to no further legal challenge, the 1-hour standards set forth in this section will no longer apply to an area once EPA determines that the area has air quality meeting the 1-hour standard. Area designations and classifications with respect to the 1-hour standards are codified in 40 CFR part 81.

PART 81—[AMENDED]

1. The authority citation for part 81 continues to read as follows:

Authority: 42 U.S.C. 7401, et seq.

2. In § 81.301, the table entitled “Alabama-Ozone (1-Hour Standard)” is revised to read as follows:

§ 81.301 Alabama.

* * * * *

Alabama-Ozone (1-Hour Standard)
Designated area | Designation: Date ¹ | Designation: Type | Classification: Date ¹ | Classification: Type
Birmingham Area:
Jefferson County | 11/15/90 | Nonattainment | 11/15/90 | Marginal.
Shelby County | 11/15/90 | Nonattainment | 11/15/90 | Marginal.
Rest of State |  | Unclassifiable/Attainment
Autauga County
Baldwin County
Barbour County
Bibb County
Blount County
Bullock County
Butler County
Calhoun County
Chambers County
Cherokee County
Chilton County
Choctaw County
Clarke County
Clay County
Cleburne County
Coffee County
Colbert County
Conecuh County
Coosa County
Covington County
Crenshaw County
Cullman County
Dale County
Dallas County
De Kalb County
Elmore County
Escambia County
Etowah County
Fayette County
Franklin County
Geneva County
Greene County
Hale County
Henry County
Houston County
Jackson County
Lamar County
Lauderdale County
Lawrence County
Lee County
Limestone County
Lowndes County
Macon County
Madison County
Marengo County
Marion County
Marshall County
Mobile County
Monroe County
Montgomery County
Morgan County
Perry County
Pickens County
Pike County
Randolph County
Russell County
St. Clair County
Sumter County
Talladega County
Tallapoosa County
Tuscaloosa County
Walker County
Washington County
Wilcox County
Winston County
¹ This date is October 18, 2000, unless otherwise noted.

* * * * *

3. In § 81.302, the table entitled “Alaska—Ozone (1-Hour Standard)” is revised to read as follows:

§ 81.302 Alaska.

* * * * *

Alaska—Ozone (1-Hour Standard)
Designated area | Designation: Date ¹ | Designation: Type | Classification: Date ¹ | Classification: Type
AQCR 08 Cook Inlet Intrastate |  | Unclassifiable/Attainment
Anchorage Election District
Kenai Penninsula Election District
Matanuska-Susitna Election District
Seward Election District
AQCR 09 Northern Alaska Intrastate |  | Unclassifiable/Attainment
Barrow Election District
Denali Borough
Fairbanks Election District
Kobuk Election District
Nome Election District
North Slope Election District
Northwest Arctic Borough
Southeast Fairbanks Election District
Upper Yukon Election District
Yukon-Koyukuk Election District
AQCR 10 South Central Alaska Intrastate |  | Unclassifiable/Attainment
Aleutian Islands Election District
Aleutians East Borough
Aleutians West Census
Bethel Election District
Bristol Bay Borough Election District
Bristol Bay Election District
Cordova-McCarthy Election District
Dillingham Election District
Kodiak Island Election District
Kuskokwim Election District
Lake and Peninsula Borough
Valdez-Cordova Election District
Wade Hampton Election District
AQCR 11 Southeastern Alaska Intrastate |  | Unclassifiable/Attainment
Angoon Election District
Haines Election District
Juneau Election District
Ketchikan Election District
Outer Kethcikan Election District
Prince Of Wales Election District
Sitka Election District
Skagway-Yakutat Election District
Wrangell-Petersburg Election District
¹ This date is October 18, 2000, unless otherwise noted.

* * * * *

4. In § 81.303, the table entitled “Arizona—Ozone (1-Hour Standard)” is revised to read as follows:

§ 81.303 Arizona.

* * * * *

Arizona—Ozone (1-Hour Standard)
Designated area | Designation: Date ¹ | Designation: Type | Classification: Date ¹ | Classification: Type
Phoenix Area:
Maricopa County (part) | 11/15/90 | Nonattainment | 2/13/98 | Serious.
The Urban Planning Area of the Maricopa Association of Governments is bounded as follows:
1. Commencing at a point which is at the intersection of the eastern line of Range 7 East, Gila and Salt River Baseline and Meridian, and the southern line of Township 2 South, said point is the southeastern corner of the Maricopa Association of Governments Urban Planning Area, which is the point of beginning;
2. Thence, proceed northerly along the eastern line of Range 7 East which is the common boundary between Maricopa and Pinal Counties, as described in Arizona Revised Statute Section 11-109, to a point where the eastern line of Range 7 East intersects the northern line of Township 1 North, said point is also the intersection of the Maricopa County Line and the Tonto National Forest Boundary, as established by Executive Order 869 dated July 1, 1908, as amended and showed on the U.S. Forest Service 1969 Planimetric Maps;
3. Thence, westerly along the northern line of Township 1 North to approximately the southwest corner of the southeast quarter of Section 35, Township 2 North, Range 7 East, said point being the boundary of the Tonto National Forest and Usery Mountain Semi-Regional Park;
4. Thence, northerly along the Tonto National Forest Boundary, which is generally the western line of the east half of Sections 26 and 35 of Township 2 North, Range 7 East, to a point which is where the quarter section line intersects with the northern line of Section 26, Township 2 North, Range 7 East, said point also being the northeast corner of the Usery Mountain Semi-Regional Park;
5. Thence, westerly along the Tonto National Forest Boundary, which is generally the south line of Sections 19, 20, 21 and 22 and the southern line of the west half of Section 23, Township 2 North, Range 7 East, to a point which is the southwest corner of Section 19, Township 2 North, Range 7 East;
6. Thence, northerly along the Tonto National Forest Boundary to a point where the Tonto National Forest Boundary intersects with the eastern boundary of the Salt River Indian Reservation, generally described as the center line of the Salt River Channel;
7. Thence, northeasterly and northerly along the common boundary of the Tonto National Forest and the Salt River Indian Reservation to a point which is the northeast corner of the Salt River Indian Reservation and the southeast corner of the Fort McDowell Indian Reservation, as shown on the plat dated July 22, 1902, and recorded with the U.S. Government on June 15, 1902;
8. Thence, northeasterly along the common boundary between the Tonto National Forest and the Fort McDowell Indian Reservation to a point which is the northeast corner of the Fort McDowell Indian Reservation;
9. Thence, southwesterly along the northern boundary of the Fort McDowell Indian Reservation, which line is a common boundary with the Tonto National Forest, to a point where the boundary intersects with the eastern line of Section 12, Township 4 North, Range 6 East;
10. Thence, northerly along the eastern line of Range 6 East to a point where the eastern line of Range 6 East intersects with the southern line of Township 5 North, said line is the boundary between the Tonto National Forest and the east boundary of McDowell Mountain Regional Park;
11. Thence, westerly along the southern line of Township 5 North to a point where the southern line intersects with the eastern line of Range 5 East which line is the boundary of Tonto National Forest and the north boundary of McDowell Mountain Regional Park;
12. Thence, northerly along the eastern line of Range 5 East to a point where the eastern line of Range 5 East intersects with the northern line of Township 5 North, which line is the boundary of the Tonto National Forest;
13. Thence, westerly along the northern line of Township 5 North to a point where the northern line of Township 5 North intersects with the easterly line of Range 4 East, said line is the boundary of Tonto National Forest;
14. Thence, northerly along the eastern line of Range 4 East to a point where the eastern line of Range 4 East intersects with the northern line of Township 6 North, which line is the boundary of the Tonto National Forest;
15. Thence, westerly along the northern line of Township 6 North to a point of intersection with the Maricopa-Yavapai County line, which is generally described in Arizona Revised Statute Section 11-109 as the center line of the Aqua Fria River (Also the north end of Lake Pleasant);
16. Thence, southwesterly and southerly along the Maricopa-Yavapai County line to a point which is described by Arizona Revised Statute Section 11-109 as being on the center line of the Aqua Fria River, two miles southerly and below the mouth of Humbug Creek;
17. Thence, southerly along the center line of Aqua Fria River to the intersection of the center line of the Aqua Fria River and the center line of Beardsley Canal, said point is generally in the northeast quarter of Section 17, Township 5 North, Range 1 East, as shown on the U.S. Geological Survey's Baldy Mountain, Arizona Quadrangle Map, 7.5 Minute series (Topographic), dated 1964;
18. Thence, southwesterly and southerly along the center line of Beardsley Canal to a point which is the center line of Beardsley Canal where it intersects with the center line of Indian School Road;
19. Thence, westerly along the center line of West Indian School Road to a point where the center line of West Indian School Road intersects with the center line of North Jackrabbit Trail;
20. Thence, southerly along the center line of Jackrabbit Trail approximately nine and three-quarter miles to a point where the center line of Jackrabbit Trail intersects with the Gila River, said point is generally on the north-south quarter section line of Section 8, Township 1 South, Range 2 West;
21. Thence, northeasterly and easterly up the Gila River to a point where the Gila River intersects with the northern extension of the western boundary of Estrella Mountain Regional Park, which point is generally the quarter corner of the northern line of Section 31, Township 1 North, Range 1 West;
22. Thence, southerly along the extension of the western boundary and along the western boundary of Estrella Mountain Regional Park to a point where the southern extension of the western boundary of Estrella Mountain Regional Park intersects with the southern line of Township 1 South;
23. Thence, easterly along the southern line of Township 1 South to a point where the south line of Township 1 South intersects with the western line of Range 1 East, which line is generally the southern boundary of Estrella Mountain Regional Park;
24. Thence, southerly along the western line of Range 1 East to the southwest corner of Section 18, Township 2 South, Range 1 East, said line is the western boundary of the Gila River Indian Reservation;
25. Thence, easterly along the southern boundary of the Gila River Indian Reservation which is the southern line of Sections 13, 14, 15, 16, 17, and 18, Township 2 South, Range 1 East, to the boundary between Maricopa and Pinal Counties as described in Arizona Revised Statues Section 11-109 and 11-113, which is the eastern line of Range 1 East;
26. Thence, northerly along the eastern boundary of Range 1 East, which is the common boundary between Maricopa and Pinal Counties, to a point where the eastern line of Range 1 East intersects the Gila River;
27. Thence, southerly up the Gila River to a point where the Gila River intersects with the southern line of Township 2 South; and
28. Thence, easterly along the southern line of Township 2 South to the point of beginning which is a point where the southern line of Township 2 South intersects with the eastern line Range 7 East
Tucson Area:
Pima County (part)
Tuscon area |  | Unclassifiable/Attainment
Rest of State |  | Unclassifiable/Attainment
Apache County
Cochise County
Coconino County
Gila County
Graham County
Greenlee County
La Paz County
Maricopa County (part) area outside of Phoenix
Mohave County
Navajo County
Pima County (part) Remainder of county
Pinal County
Santa Cruz County
Yavapai County
Yuma County
¹ This date is October 18, 2000, unless otherwise noted.

* * * * *

5. In § 81.304, the table entitled “Arkansas—Ozone (1-Hour Standard)” is revised to read as follows:

§ 81.304 Arkansas.

* * * * *

Arkansas—Ozone (1-Hour Standard)
Designated area | Designation: Date¹ | Designation: Type | Classification: Date¹ | Classification: Type
AQCR 016 Central Arkansas Intrastate (part) Pulaski County |  | Unclassifiable/Attainment
AQCR 016 Central Arkansas Intrastate (Remainder of) |  | Unclassifiable/Attainment
Chicot County
Clark County
Cleveland County
Conway County
Dallas County
Desha County
Drew County
Faulkner County
Garland County
Grant County
Hot Spring County
Jefferson County
Lincoln County
Lonoke County
Perry County
Pope County
Saline County
Yell County
AQCR 017 Metropolitan Fort Smith Interstate |  | Unclassifiable/Attainment
Benton County
Crawford County
Sebastian County
Washington County
AQCR 018 Metropolitan Memphis Interstate |  | Unclassifiable/Attainment
Crittenden County
AQCR 019 Monroe-El Dorado Interstate |  | Unclassifiable/Attainment
Ashley County
Bradley County
Calhoun County
Nevada County
Ouachita County
Union County
AQCR 020 Northeast Arkansas Intrastate |  | Unclassifiable/Attainment
Arkansas County
Clay County
Craighead County
Cross County
Greene County
Independence County
Jackson County
Lawrence County
Lee County
Mississippi County
Monroe County
Phillips County
Poinsett County
Prairie County
Randolph County
Sharp County
St. Francis County
White County
Woodruff County
AQCR 021 Northwest Arkansas Intrastate |  | Unclassifiable/Attainment
Baxter County
Boone County
Carroll County
Cleburne County
Franklin County
Fulton County
Izard County
Johnson County
Logan County
Madison County
Marion County
Montgomery County
Newton County
Pike County
Polk County
Scott County
Searcy County
Stone County
Van Buren County
AQCR 022 Shreveport-Texarkana-Tyler Interstate |  | Unclassifiable/Attainment
Columbia County
Hempstead County
Howard County
Lafayette County
Little River County
Miller County
Sevier County
¹ This date is October 18, 2000, unless otherwise noted.

* * * * *

6. In § 81.305, the table entitled “California—Ozone (1-Hour Standard)” is revised to read as follows:

§ 81.305 California.

* * * * *

California—Ozone (1-Hour Standard)
Designated area | Designation: Date ¹ | Designation: Type | Classification: Date ¹ | Classification: Type
Chico Area:
Butte County | (³) | Nonattainment | (³) | Sec. 185A Area.²
Imperial County Area:
Imperial County | 11/15/90 | Nonattainment | 11/15/90 | Sec. 185A Area.²
Los Angeles-South Coast Air Basin Area | 11/15/90 | Nonattainment | 11/15/90 | Extreme.
Los Angeles County (part)—that portion of Los Angeles County which lies south and west of a line described as follows:
1. Beginning at the Los Angeles—San Bernardino County boundary and running west along the Township line common to Township 3 North and Township 2 North, San Bernardino Base and Meridian;
2. then north along the range line common to Range 8 West and Range 9 West;
3. then west along the Township line common to Township 4 North and Township 3 North;
4. then north along the range line common to Range 12 West and Range 13 West to the southeast corner of Section 12, Township 5 North and Range 13 West;
5. then west along the south boundaries of Sections 12, 11, 10, 9, 8, and 7, Township 5 North and Range 13 West to the boundary of the Angeles National Forest which is collinear with the range line common to Range 13 West and Range 14 West;
6. then north and west along the Angeles National Forest boundary to the point of intersection with the Township line common to Township 7 North and Township 6 North (point is at the northwest corner of Section 4 in Township 6 North and Range 14 West);
7. then west along the Township line common to Township 7 North and Township 6 North;
8. then north along the range line common to Range 15 West and Range 16 West to the southeast corner of Section 13, Township 7 North and Range 16 West;
9. then along the south boundaries of Sections 13, 14, 15, 16, 17, and 18, Township 7 North and Range 16 West;
10. then north along the range line common to Range 16 West and Range 17 West to the north boundary of the Angeles National Forest (collinear with the Township line common to Township 8 North and Township 7 North);
11. then west along the Angeles National Forest boundary to the point of intersection with the south boundary of the Rancho La Liebre Land Grant;
12. then west and north along this land grant boundary to the Los Angeles-Kern County boundary.
Orange County | 11/15/90 | Nonattainment | 11/15/90 | Extreme.
Riverside County (part)—that portion of Riverside County which lies to the west of a line described as follows: | 11/15/90 | Nonattainment | 11/15/90 | Extreme.
1. Beginning at the Riverside—San Diego County boundary and running north along the range line common to Range 4 East and Range 3 East, San Bernardino Base and Meridian;
2. then east along the Township line common to Township 8 South and Township 7 South;
3. then north along the range line common to Range 5 East and Range 4 East;
4. then west along the Township line common to Township 6 South and Township 7 South to the southwest corner of Section 34, Township 6 South, Range 4 East;
5. then north along the west boundaries of Sections 34, 27, 22, 15, 10, and 3, Township 6 South, Range 4 East;
6. then west along the Township line common to Township 5 South and Township 6 South;
7. then north along the range line common to Range 4 East and Range 3 East;
8. then west along the south boundaries of Sections 13, 14, 15, 16, 17, and 18, Township 5 South, Range 3 East;
9. then north along the range line common to Range 2 East and Range 3 East;
10. then west along the Township line common to Township 4 South and Township 3 South to the intersection of the southwest boundary of partial Section 31, Township 3 South, Range 1 West;
11. then northwest along that line to the intersection with the range line common to Range 2 West and Range 1 West;
12. then north to the Riverside-San Bernardino County line,
San Bernardino County (part)—that portion of San Bernardino County which lies south and west of a line described as follows: | 11/15/90 | Nonattainment | 11/15/90 | Extreme.
1. Beginning at the San Bernardino—Riverside County boundary and running north along the range line common to Range 3 East and Range 2 East, San Bernardino Base and Meridian;
2. then west along the Township line common to Township 3 North and Township 2 North to the San Bernardino—Los Angeles County boundary;
Monterey Bay Area |  | Attainment |
Monterey County
San Benito County
Santa Cruz County
Sacramento Metro Area | 11/15/90 | Nonattainment | 6/01/95 | Severe-15.
El Dorado County (part):
All portions of the county except that portion of El Dorado County within the drainage area naturally tributary to Lake Tahoe including said Lake.
Placer County (part):
All portions of the county except that portion of Placer County within the drainage area naturally tributary to Lake Tahoe including said Lake, plus that area in the vicinity of the head of the Truckee River described as follows: commencing at the point common to the aforementioned drainage area crestline and the line common to Townships 15 North and 16 North, Mount Diablo Base and Meridian (M.D.B.&M.), and following that line in a westerly direction to the northwest corner of Section 3, Township 15 North, Range 16 East, M.D.B.&M., thence south along the west line of Sections 3 and 10, Township 15 North, Range 16 East, M.D.B.&M., to the intersection with the said drainage area crestline, thence following the said drainage area boundary in a southeasterly, then northeasterly direction to and along the Lake Tahoe Dam, thence following the said drainage area crestline in a northeasterly, then northwesterly direction to the point of beginning. | 11/15/90 | Nonattainment | 6/01/95 | Severe-15.
Sacramento County | 11/15/90 | Nonattainment | 6/01/95 | Severe-15.
Solano County (part) That portion of Solano County which lies north and east of a line described as follows: | 11/15/90 | Nonattainment | 6/01/95 | Severe-15.
Description of boundary in Solano county between San Francisco and Sacramento: Beginning at the intersection of the westerly boundary of Solano County and the ¼ section line running east and west through the center of Section 34; T. 6 N., R. 2 W., M.D.B.&M., thence east along said ¼ section line to the east boundary of Section 36, T. 6 N., R. 2 W., thence south ½ mile and east 2.0 miles, more or less, along the west and south boundary of Los Putos Rancho to the northwest corner of Section 4, T. 5 N., R. 1 W., thence east along a line common to T. 5 N. and T. 6 N. to the northeast corner of Section 3, T. 5 N., R. 1 E., thence south along section lines to the southeast corner of Section 10, T. 3 N., R. 1 E., thence east along section lines to the south ¼ corner of Section 8, T. 3 N., R. 2 E., thence east to the boundary between Solano and Sacramento Counties | 11/15/90 | Nonattainment | 6/01/95 | Severe-15.
Sutter County (part—southern portion)South of a line connecting the northern border of Yolo Co. to the SW tip of Yuba Co. and continuing along the southern Yuba County border to Placer County. | 11/15/90 | Nonattainment | 6/01/95 | Severe-15.
Yolo County | 11/15/90 | Nonattainment | 6/01/95 | Severe-15.
San Diego Area:
San Diego County | 2/21/95 | Nonattainment | 2/21/95 | Serious.
San Francisco-Bay Area | 8/10/98 | Nonattainment | 8/10/98 | Not classified/Moderate under 23 U.S.C.
|  |  | 8/23/99 | 104(b)(2).
Alameda County | 8/10/98 | ......do | 8/23/99 | Do.
Contra Costa County | 8/10/98 | ......do | 8/23/99 | Do.
Marin County | 8/10/98 | ......do | 8/23/99 | Do.
Napa County | 8/10/98 | ......do | 8/23/99 | Do.
San Francisco County | 8/10/98 | ......do | 8/23/99 | Do.
San Mateo County | 8/10/98 | ......do | 8/23/99 | Do.
Santa Clara County | 8/10/98 | ......do | 8/23/99 | Do.
Solano County (part) | 8/10/98 | ......do | 8/23/99 | Do.
That portion of the county that lies south and west of the line described that follows: Description of boundary in Solano County between San Francisco and Sacramento: Beginning at the intersection at the westerly boundary of Solano County and the ¼ section line running east and west through the center of Section 34; T.6 N., R. 2 W., M.D.B.&M., thence east along said ½ section line to the east boundary of Section 36, T. 6 N., R. 2 W., thence south ½ mile and east 2.0 miles, more or less, along the west and south boundary of Los Putos Rancho to the northwest corner of Section 4, T. 5 N., R. 1 W, thence east along a line common to T. 5 N., and T. 6 N. to the northeast corner of Section 3, T. 5 N., R. 1 E., thence south along section lines to the southeast corner of Section 10 T. 3 N., R. 1 E., thence east along section lines to the south ¼ corner of Section 8 T. 3 N., R. 2 E., thence east to the boundary between Solano and Sacramento Counties.
Sonoma County (part) | 8/10/98 | ......do | 8/23/99 | Do.
That portion of Sonoma county which lies south and east of a line described as follows: Beginning at the south-easterly corner of the Rancho Estero Americano, being on the boundary line between Marin Sonoma Counties, California; thence running northerly along the easterly boundary line of said Rancho Estero Americano to the northeasterly corner thereof, being an angle corner in the westerly boundary line of Rancho Canada de Jonive, thence running along said boundary of Rancho Canada de Jonive westerly,; northerly and easterly to its intersection with the easterly line of Granton Road; thence running along the easterly and southerly line of Granton Road northerly and easterly to its intersection with the easterly line of Sullivan Road; thence running northerly along said easterly line of Sullivan Road to the southerly line of Green Valley Road; thence running easterly along the said southerly line of Green Valley Road and easterly along the southerly line of State Highway 116, to the westerly and northerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road to the easterly line of Eastside Road: thence running northerly along said easterly line of Eastside Road to its intersection with the southerly line of Ranco Sotoyome; thence running easterly along said southerly line of Rancho Sotoyome to its intersection with the Township line common to Townships 8 and 9 north, Mt. Diablo Base and Meridian; thence running easterly along said Township line to its intersection with the boundary line between Sonoma and Napa Counties, State of California.
San Joaquin Valley Area:
Fresno County | 11/15/90 | Nonattainment | 11/15/90 | Serious.
Kern County | 11/15/90 | Nonattainment | 11/15/98 | Serious.
Kings County | 11/15/90 | Nonattainment | 11/15/90 | Serious.
Madera County | 11/15/90 | Nonattainment | 11/15/90 | Serious.
Merced County | 11/15/90 | Nonattainment | 11/15/90 | Serious.
San Joaquin County | 11/15/90 | Nonattainment | 11/15/90 | Serious.
Stanislaus County | 11/15/90 | Nonattainment | 11/15/90 | Serious.
Tulare County | 11/15/90 | Nonattainment | 11/15/90 | Serious.
Santa Barbara-Santa Maria-Lompoc Area:
Santa Barbara County | 11/15/90 | Nonattainment | 1/09/98 | Serious.
Southeast Desert Modified AQMA Area | 11/15/90 | Nonattainment | 11/15/90 | Severe-17.
Los Angeles County (part)—that portion of Los Angeles County which lies north and east of a line described as follows:
1. Beginning at the Los Angeles—San Bernardino County boundary and running west along the Township line common to Township 3 North and Township 2 North, San Bernardino Base and Meridian;
2. then north along the range line common to Range 8 West and Range 9 West;
3. then west along the Township line common to Township 4 North and Township 3 North;
4. then north along the range line common to Range 12 West and Range 13 West to the southeast corner of Section 12, Township 5 North and Range 13 West;
5. then west along the south boundaries of Sections 12, 11, 10, 9, 8, and 7, Township 5 North and Range 13 West to the boundary of the Angeles National Forest which is collinear with the range line common to Range 13 West and Range 14 West;
6. then north and west along the Angeles National Forest boundary to the point of intersection with the Township line common to Township 7 North and Township 6 North (point is at the northwest corner of Section 4 in Township 6 North and Range 14 West);
7. then west along the Township line common to Township 7 North and Township 6 North;
8. then north along the range line common to Range 15 West and Range 16 West to the southeast corner of Section 13, Township 7 North and Range 16 West;
9. then along the south boundaries of Sections 13, 14, 15, 16, 17, and 18, Township 7 North and Range 16 West;
10. then north along the range line common to Range 16 West and Range 17 West to the north boundary of the Angeles National Forest (collinear with the Township line common to Township 8 North and Township 7 North);
11. then west along the Angeles National Forest boundary to the point of intersection with the south boundary of the Rancho La Liebre Land Grant;
12. then west and north along this land grant boundary to the Los Angeles-Kern County boundary.
Riverside County (part)—that portion of Riverside County which lies to the east of a line described as follows: | 11/15/90 | Nonattainment | 11/15/90 | Severe-17.
1. Beginning at the Riverside—San Diego County boundary and running north along the range line common to Range 4 East and Range 3 East, San Bernardino Base and Meridian;
2. then east along the Township line common to Township 8 South and Township 7 South;
3. then north along the range line common to Range 5 East and Range 4 East;
4. then west along the Township line common to Township 6 South and Township 7 South to the southwest corner of Section 34, Township 6 South, Range 4 East;
5. then north along the west boundaries of Sections 34, 27, 22, 15, 10, and 3, Township 6 South, Range 4 East;
6. then west along the Township line common to Township 5 South and Township 6 South;
7. then north along the range line common to Range 4 East and Range 3 East;
8. then west along the south boundaries of Sections 13, 14, 15, 16, 17, and 18, Township 5 South, Range 3 East;
9. then north along the range line common to Range 2 East and Range 3 East;
10. then west along the Township line common to Township 4 South and Township 3 South to the intersection of the southwest boundary of partial Section 31, Township 3 South, Range 1 West;
11. then northwest along that line to the intersection with the range line common to Range 2 West and Range 1 West;
12. then north to the Riverside-San Bernardino County line, and that portion of Riverside County which lies to the west of a line described as follows:
13. beginning at the northeast corner of Section 4, Township 2 South, Range 5 East, a point on the boundary line common to Riverside and San Bernardino Counties;
14. then southerly along section lines to the centerline of the Colorado River Aquaduct;
15. then southeasterly along the centerline of said Colorado River Aquaduct to the southerly line of Section 36, Township 3 South, Range 7 East;
16. then easterly along the Township line to the northeast corner of Section 6, Township 4 South, Range 9 East;
17. then southerly along the easterly line of Section 6 to the southeast coner thereof;
18. then easterly along section lines to the northeast corner of Section 10, Township 4 South, Range 9 East;
19. then southerly along section lines to the southeast corner of Section 15, Township 4 South, Range 9 East;
20. then easterly along the section lines to the northeast corner of Section 21, Township 4 South, Range 10 East;
21. then southerly along the easterly line of Section 21 to the southeast corner thereof;
22. then easterly along the northerly line of Section 27 to the northeast corner thereof;
23. then southerly along section lines to the southeast corner of Section 34, Township 4 South, Range 10 East;
24. then easterly along the Township line to the northeast corner of Section 2, Township 5 South, Range 10 East;
25. then southerly along the easterly line of Section 2, to the southeast corner thereof;
26. then easterly along the northerly line of Section 12 to the northeast corner thereof;
27. then southerly along the range line to the southwest corner of Section 18, Township 5 South, Range 11 East;
28. then easterly along section lines to the northeast corner of Section 24, Township 5 South, Range 11 East;
29. then southerly along the range line to the southeast corner of Section 36, Township 8 South, Range 11 East, a point on the boundary line common to Riverside and San Diego Counties.
San Bernadino County (part)—that portion of San Bernardino County which lies north and east of a line described as follows: | 11/15/90 | Nonattainment | 11/15/90 | Severe-17.
1. Beginning at the San Bernardino—Riverside County boundary and running north along the range line common to Range 3 East and Range 2 East, San Bernardino Base and Meridian;
2. then west along the Township line common to Township 3 North and Township 2 North to the San Bernardino—Los Angeles County boundary; and that portion of San Bernardino County which lies south and west of a line described as follows:
3. latitude 35 degrees, 10 minutes north and longitude 115 degrees, 45 minutes west.
Ventura County Area:
Ventura County | 11/15/90 | Nonattainment | 11/15/90 | Severe-15.
Yuba City Area:
Sutter County (part—northern portion) | (³) | Nonattainment | (³) | Sec. 185A Area.2.
North of a line connecting the northern border of Yolo County to the SW tip of Yuba County and continuing along the southern Yuba County border to Placer County.
Yuba County | (³) | Nonattainment | (³) | Sec. 185A Area.2.
Great Basin Valleys Air Basin |  | Unclassifiable/Attainment |  |
Alpine County
Inyo County
Mono County
Lake County Air Basin |  | Unclassifiable/Attainment
Lake County
Lake Tahoe Air Basin |  | Unclassifiable/Attainment
El Dorado County (part)
Lake Tahoe Area: As described under 40 CFR 81.275.
Placer County (part)
Lake Tahoe Area: As described under 40 CFR 81.275.
Mountain Counties Air Basin (Remainder of):
Amador County | 11/15/90 | Unclassifiable/Attainment | 11/15/90
Calaveras County | 11/15/90 | Unclassifiable/Attainment | 11/15/90
Mariposa County |  | Unclassifiable/Attainment
Nevada County |  | Unclassifiable/Attainment
Plumas County |  | Unclassifiable/Attainment
Sierra County |  | Unclassifiable/Attainment
Tuolumne County |  | Unclassifiable/Attainment
North Coast Air Basin |  | Unclassifiable/Attainment
Del Norte County
Humboldt County
Mendocino County
Sonoma County (part)
Remainder of County
Trinity County
Northeast Plateau Air Basin |  | Unclassifiable/Attainment
Lassen County
Modoc County
Siskiyou Couny
Sacramento Valley Air Basin (Remainder of):
Colusa County |  | Unclassifiable/Attainment
Glenn County |  | Unclassifiable/Attainment
Shasta County |  | Unclassifiable/Attainment
Tehama County |  | Unclassifiable/Attainment
South Central Coast Air Basin (Remainder of):
Channel Islands |  | Unclassifiable/Attainment
San Luis Obispo County |  | Unclassifiable/Attainment
Southeast Desert NON-AQMA:
Riverside County (part) |
Remainder of county |  | Unclassifiable/Attainment
San Bernadino County (part)
Remainder of county |  | Unclassifiable/Attainment
¹ This date is October 18, 2000 unless otherwise noted.
² An area designated as an ozone nonattainment area as of the date of enactment of the CAAA of the 1990 that did not violate the ozone NAAQS during the period of 1987-1989.
³ This date is January 16, 2001.

* * * * *

7. In § 81.306, the table entitled “Colorado—Ozone (1-Hour Standard)” is revised to read as follows:

§ 81.306 Colorado.

* * * * *

Colorado—Ozone (1-Hour Standard)
Designated area | Designation: Date ¹ | Designation: Type | Classification: Date ¹ | Classification: Type
Denver—Boulder Area:
Adams County (part)
West of Kiowa Creek | (³) | Nonattainment | (³) | Sec. 185A Area.²
Arapahoe County (part)
West of Kiowa Creek. | (³) | Nonattainment | (³) | Sec. 185A Area.²
Boulder County (part) excluding Rocky Mtn. National Park | (³) | Nonattainment | (³) | Sec. 185A Area.²
Denver County | (³) | Nonattainment | (³) | Sec. 185A Area.²
Douglas County | (³) | Nonattainment | (³) | Sec. 185A Area.²
Jefferson County | (³) | Nonattainment | (³) | Sec. 185A Area.²
State AQCR 01 |  | Unclassifiable/Attainment
Logan County
Morgan County
Phillips County
Sedgwick County
Washington County
Yuma County
State AQCR 02 |  | Unclassifiable/Attainment
Larimer County
Weld County
State AQCR 03 (Remainder of) |  | Unclassifiable/Attainment
Adams County (part) East of Kiowa Creek
Arapahoe County (part) East of Kiowa Creek
Boulder County (part) Rocky Mtn. National Park Only
Clear Creek County
Gilpin County
State AQCR 11 |  | Unclassifiable/Attainment
Garfield County
Mesa County
Moffat County
Rio Blanco County
Rest of State |  | Unclassifiable/Attainment
Alamosa County
Archuleta County
Baca County
Bent County
Chaffee County
Cheyenne County
Conejos County
Costilla County
Crowley County
Custer County
Delta County
Dolores County
Eagle County
El Paso County
Elbert County
Fremont County
Grand County
Gunnison County
Hinsdale County
Huerfano County
Jackson County
Kiowa County
Kit Carson County
La Plata County
Lake County
Las Animas County
Lincoln County
Mineral County
Montezuma County
Montrose County
Otero County
Ouray County
Park County
Pitkin County
Prowers County
Pueblo County
Rio Grande County
Routt County
Saguache County
San Juan County
San Miguel County
Summit County
Teller County
¹ This date is October 18, 2000, unless otherwise noted.
² An area designated as an ozone nonattainment area as of the date of enactment of the CAAA of the 1990 that did not violate the ozone NAAQS during the period of 1987-1989.
³ This date is January 16, 2001.

8. In § 81.307, the table entitled “Connecticut—Ozone (1-Hour Standard)” is revised to read as follows:

§ 81.307 Connecticut.

* * * * *

Connecticut—Ozone (1-Hour Standard)
Designated area | Designation: Date ¹ | Designation: Type | Classification: Date ¹ | Classification: Type
Greater Connecticut Area:
Fairfield County (part) |  | Nonattainment |  | Serious.
Shelton City
Hartford County |  | Nonattainment |  | Serious.
Litchfield County (part) |  | Nonattainment |  | Serious.
all cities and townships except: Bridgewater Town, New Milford Town
Middlesex County |  | Nonattainment |  | Serious.
New Haven County |  | Nonattainment |  | Serious.
New London County |  | Nonattainment |  | Serious.
Tolland County |  | Nonattainment |  | Serious.
Windham County |  | Nonattainment |  | Serious.
New York—N. New Jersey-Long Island Area:
Fairfield County (part) |  | Nonattainment |  | Severe-17.
all cities and towns except Shelton City
Litchfield County (part) |  | Nonattainment |  | Severe-17.
Bridgewater Town, New Milford Town
¹ This date is November 15, 1990, unless otherwise noted.

* * * * *

9. In § 81.308, the table entitled “Delaware—Ozone (1-Hour Standard)” is revised to read as follows:

§ 81.308 Delaware.

* * * * *

Delaware—Ozone (1-Hour Standard)
Designated area | Designation: Date ¹ | Designation: Type | Classification: Date ¹ | Classification: Type
Philadelphia-Wilmington-Trenton Area:
Kent County |  | Nonattainment |  | Severe-15.
New Castle County |  | Nonattainment |  | Severe-15.
Sussex County Area:
Sussex County | (²) | Nonattainment | (²) | Marginal.
¹ This date is November 15, 1990, unless otherwise noted.
² This date is October 18, 2000.

* * * * *

10. In § 81.309, the table entitled “District of Columbia—Ozone (1-Hour Standard)” is revised to read as follows:

§ 81.309 District of Columbia.

* * * * *

District of Columbia—Ozone (1-Hour Standard)
Designated area | Designation: Date ¹ | Designation: Type | Classification: Date ¹ | Classification: Type
Washington Area:
Washington Entire Area |  | Nonattainment |  | Serious.
¹ This date is November 15, 1990, unless otherwise noted.

* * * * *

11. In § 81.310, the table entitled “Florida—Ozone (1-Hour Standard)” is revised to read as follows:

§ 81.310 Florida.

* * * * *

Florida—Ozone (1-Hour Standard)
Designated area | Designation: Date ¹ | Designation: Type | Classification: Date ¹ | Classification: Type
Statewide |  | Unclassifiable/Attainment
Alachua County
Baker County
Bay County
Bradford County
Brevard County
Broward County
Calhoun County
Charlotte County
Citrus County
Clay County
Collier County
Columbia County
Dade County
De Soto County
Dixie County
Duval County
Escambia County
Flagler County
Franklin County
Gadsden County
Gilchrist County
Glades County
Gulf County
Hamilton County
Hardee County
Hendry County
Hernando County
Highlands County
Hillsborough County
Holmes County
Indian River County
Jackson County
Jefferson County
Lafayette County
Lake County
Lee County
Leon County
Levy County
Liberty County
Madison County
Manatee County
Marion County
Martin County
Monroe County
Nassau County
Okaloosa County
Okeechobee County
Orange County
Osceola County
Palm Beach County
Pasco County
Pinellas County
Polk County
Putnam County
Santa Rosa County
Sarasota County
Seminole County
St. Johns County
St. Lucie County
Sumter County
Suwannee County
Taylor County
Union County
Volusia County
Wakulla County
Walton County
Washington County
¹ This date is October 18, 2000, unless otherwise noted.

* * * * *

12. In § 81.311, the table entitled “Georgia—Ozone (1-Hour Standard)” is revised to read as follows:

§ 81.311 Georgia.

* * * * *

Georgia—Ozone (1-Hour Standard)
Designated area | Designation: Date ¹ | Designation: Type | Classification: Date ¹ | Classification: Type
Atlanta Area:
Cherokee County | 11/15/90 | Nonattainment | 11/15/90 | Serious.
Clayton County | 11/15/90 | Nonattainment | 11/15/90 | Serious.
Cobb County | 11/15/90 | Nonattainment | 11/15/90 | Serious.
Coweta County | 11/15/90 | Nonattainment | 11/15/90 | Serious.
De Kalb County | 11/15/90 | Nonattainment | 11/15/90 | Serious.
Douglas County | 11/15/90 | Nonattainment | 11/15/90 | Serious.
Fayette County | 11/15/90 | Nonattainment | 11/15/90 | Serious.
Forsyth County | 11/15/90 | Nonattainment | 11/15/90 | Serious.
Fulton County | 11/15/90 | Nonattainment | 11/15/90 | Serious.
Gwinnett County | 11/15/90 | Nonattainment | 11/15/90 | Serious.
Henry County | 11/15/90 | Nonattainment | 11/15/90 | Serious.
Paulding County | 11/15/90 | Nonattainment | 11/15/90 | Serious.
Rockdale County | 11/15/90 | Nonattainment | 11/15/90 | Serious.
Spalding County Area:
Spalding County | 11/15/90 | Unclassifiable/Attainment | 11/15/90
Rest of State |  | Unclassifiable/Attainment
Appling County
Atkinson County
Bacon County
Baker County
Baldwin County
Banks County
Barrow County
Bartow County
Ben Hill County
Berrien County
Bibb County
Bleckley County
Brantley County
Brooks County
Bryan County
Bulloch County
Burke County
Butts County
Calhoun County
Camden County
Candler County
Carroll County
Catoosa County
Charlton County
Chatham County
Chattahoochee County
Chattooga County
Clarke County
Clay County
Clinch County
Coffee County
Colquitt County
Columbia County
Cook County
Crawford County
Crisp County
Dade County
Dawson County
Decatur County
Dodge County
Dooly County
Dougherty County
Early County
Echols County
Effingham County
Elbert County
Emanuel County
Evans County
Fannin County
Floyd County
Franklin County
Gilmer County
Glascock County
Glynn County
Gordon County
Grady County
Greene County
Habersham County
Hall County
Hancock County
Haralson County
Harris County
Hart County
Heard County
Houston County
Irwin County
Jackson County
Jasper County
Jeff Davis County
Jefferson County
Jenkins County
Johnson County
Jones County
Lamar County
Lanier County
Laurens County
Lee County
Liberty County
Lincoln County
Long County
Lowndes County
Lumpkin County
Macon County
Madison County
Marion County
McDuffie County
McIntosh County
Meriwether County
Miller County
Mitchell County
Monroe County
Montgomery County
Morgan County
Murray County
Muscogee County
Newton County
Oconee County
Oglethorpe County
Peach County
Pickens County
Pierce County
Pike County
Polk County
Pulaski County
Putnam County
Quitman County
Rabun County
Randolph County
Richmond County
Schley County
Screven County
Seminole County
Stephens County
Stewart County
Sumter County
Talbot County
Taliaferro County
Tattnall County
Taylor County
Telfair County
Terrell County
Thomas County
Tift County
Toombs County
Towns County
Treutlen County
Troup County
Turner County
Twiggs County
Union County
Upson County
Walker County
Walton County
Ware County
Warren County
Washington County
Wayne County
Webster County
Wheeler County
White County
Whitfield County
Wilcox County
Wilkes County
Wilkinson County
Worth County
¹ This date is October 18, 2000, unless otherwise noted.

* * * * *

13. In § 81.312, the table entitled “Hawaii—Ozone (1-Hour Standard)” is revised to read as follows:

§ 81.312 Hawaii.

* * * * *

Hawaii—Ozone (1-Hour Standard)
Designated area | Designation: Date¹ | Designation: Type | Classification: Date¹ | Classification: Type
Statewide |  | Unclassifiable/Attainment
Hawaii County
Honolulu County
Kalawao
Kauai County
Maui County
¹ This date is October 18, 2000, unless otherwise noted.

* * * * *

14. In § 81.313, the table entitled “Idaho—Ozone (1-Hour Standard)” is revised to read as follows:

§ 81.313 Idaho.

* * * * *

Idaho—Ozone (1-Hour Standard)
Designated area | Designation: Date¹ | Designation: Type | Classification: Date¹ | Classification: Type
AQCR 61 Eastern Idaho Intrastate |  | Unclassifiable/Attainment
Bannock County
Bear Lake County
Bingham County
Bonneville County
Butte County
Caribou County
Clark County
Franklin County
Fremont County
Jefferson County
Madison County
Oneida County
Power County
Teton County
AQCR 62 E Washington-N Idaho Interstate |  | Unclassifiable/Attainment
Benewah County
Kootenai County
Latah County
Nez Perce County
Shoshone County
AQCR 63 Idaho Intrastate |  | Unclassifiable/Attainment
Adams County
Blaine County
Boise County
Bonner County
Boundary County
Camas County
Cassia County
Clearwater County
Custer County
Elmore County
Gem County
Gooding County
Idaho County
Jerome County
Lemhi County
Lewis County
Lincoln County
Minidoka County
Owyhee County
Payette County
Twin Falls County
Valley County
Washington County
AQCR 64 Metropolitan Boise Interstate |  | Unclassifiable/Attainment
Ada County
Canyon County
¹ This date is October 18, 2000, unless otherwise noted.

* * * * *

15. In § 81.314, the table entitled “Illinois—Ozone (1-Hour Standard)” is revised to read as follows:

§ 81.314 Illinois.

* * * * *

Illinois—Ozone (1-Hour Standard)
Designated area | Designation: Date¹ | Designation: Type | Classification: Date¹ | Classification: Type
Chicago-Gary-Lake County Area:
Cook County | 11/15/90 | Nonattainment | 11/15/90 | Severe-17.
Du Page County | 11/15/90 | Nonattainment | 11/15/90 | Severe-17.
Grundy County (part)
Aux Sable Township | 11/15/90 | Nonattainment | 11/15/90 | Severe-17.
Goose Lake Township | 11/15/90 | Nonattainment | 11/15/90 | Severe-17.
Kane County | 11/15/90 | Nonattainment | 11/15/90 | Severe-17.
Kendall County (part)
Oswego Township | 11/15/90 | Nonattainment | 11/15/90 | Severe-17.
Lake County | 11/15/90 | Nonattainment | 11/15/90 | Severe-17.
McHenry County | 11/15/90 | Nonattainment | 11/15/90 | Severe-17.
Will County | 11/15/90 | Nonattainment | 11/15/90 | Severe-17.
Jersey County Area:
Jersey County |  | Attainment ²
St. Louis Area:
Madison County | 11/15/90 | Nonattainment | 11/15/90 | Moderate.
Monroe County | 11/15/90 | Nonattainment | 11/15/90 | Moderate.
St. Clair County | 11/15/90 | Nonattainment | 11/15/90 | Moderate.
Adams County |  | Unclassifiable/Attainment
Alexander County |  | Unclassifiable/Attainment
Bond County |  | Unclassifiable/Attainment
Boone County |  | Unclassifiable/Attainment
Brown County |  | Unclassifiable/Attainment
Bureau County |  | Unclassifiable/Attainment
Calhoun County |  | Unclassifiable/Attainment
Carroll County |  | Unclassifiable/Attainment
Cass County |  | Unclassifiable/Attainment
Champaign County |  | Unclassifiable/Attainment
Christian County |  | Unclassifiable/Attainment
Clark County |  | Unclassifiable/Attainment
Clay County |  | Unclassifiable/Attainment
Clinton County |  | Unclassifiable/Attainment
Coles County |  | Unclassifiable/Attainment
Crawford County |  | Unclassifiable/Attainment
Cumberland County |  | Unclassifiable/Attainment
De Kalb County |  | Unclassifiable/Attainment
De Witt County |  | Unclassifiable/Attainment
Douglas County |  | Unclassifiable/Attainment
Edgar County |  | Unclassifiable/Attainment
Edwards County |  | Unclassifiable/Attainment
Effingham County |  | Unclassifiable/Attainment
Fayette County |  | Unclassifiable/Attainment
Ford County |  | Unclassifiable/Attainment
Franklin County |  | Unclassifiable/Attainment
Fulton County |  | Unclassifiable/Attainment
Gallatin County |  | Unclassifiable/Attainment
Greene County |  | Unclassifiable/Attainment
Grundy County (part) All townships except Aux Sable and Goose Lake |  | Unclassifiable/Attainment
Hamilton County |  | Unclassifiable/Attainment
Hancock County |  | Unclassifiable/Attainment
Hardin County |  | Unclassifiable/Attainment
Henderson County |  | Unclassifiable/Attainment
Henry County |  | Unclassifiable/Attainment
Iroquois County |  | Unclassifiable/Attainment
Jackson County |  | Unclassifiable/Attainment
Jasper County |  | Unclassifiable/Attainment
Jefferson County |  | Unclassifiable/Attainment
Jo Daviess County |  | Unclassifiable/Attainment
Johnson County |  | Unclassifiable/Attainment
Kankakee County |  | Unclassifiable/Attainment
Kendall County (part) All townships except Oswego |  | Unclassifiable/Attainment
Knox County |  | Unclassifiable/Attainment
La Salle County |  | Unclassifiable/Attainment
Lawrence County |  | Unclassifiable/Attainment
Lee County |  | Unclassifiable/Attainment
Livingston County |  | Unclassifiable/Attainment
Logan County |  | Unclassifiable/Attainment
Macon County |  | Unclassifiable/Attainment
Macoupin County |  | Unclassifiable/Attainment
Marion County |  | Unclassifiable/Attainment
Marshall County |  | Unclassifiable/Attainment
Mason County |  | Unclassifiable/Attainment
Massac County |  | Unclassifiable/Attainment
McDonough County |  | Unclassifiable/Attainment
McLean County |  | Unclassifiable/Attainment
Menard County |  | Unclassifiable/Attainment
Mercer County |  | Unclassifiable/Attainment
Montgomery County |  | Unclassifiable/Attainment
Morgan County |  | Unclassifiable/Attainment
Moultrie County |  | Unclassifiable/Attainment
Ogle County |  | Unclassifiable/Attainment
Peoria County |  | Unclassifiable/Attainment
Perry County |  | Unclassifiable/Attainment
Piatt County |  | Unclassifiable/Attainment
Pike County |  | Unclassifiable/Attainment
Pope County |  | Unclassifiable/Attainment
Pulaski County |  | Unclassifiable/Attainment
Putnam County |  | Unclassifiable/Attainment
Randolph County |  | Unclassifiable/Attainment
Richland County |  | Unclassifiable/Attainment
Rock Island County |  | Unclassifiable/Attainment
Saline County |  | Unclassifiable/Attainment
Sangamon County |  | Unclassifiable/Attainment
Schuyler County |  | Unclassifiable/Attainment
Scott County |  | Unclassifiable/Attainment
Shelby County |  | Unclassifiable/Attainment
Stark County |  | Unclassifiable/Attainment
Stephenson County |  | Unclassifiable/Attainment
Tazewell County |  | Unclassifiable/Attainment
Union County |  | Unclassifiable/Attainment
Vermilion County |  | Unclassifiable/Attainment
Wabash County |  | Unclassifiable/Attainment
Warren County |  | Unclassifiable/Attainment
Washington County |  | Unclassifiable/Attainment
Wayne County |  | Unclassifiable/Attainment
White County |  | Unclassifiable/Attainment
Whiteside County |  | Unclassifiable/Attainment
Williamson County |  | Unclassifiable/Attainment
Winnebago County |  | Unclassifiable/Attainment
Woodford County |  | Unclassifiable/Attainment
¹ This date is October 18, 2000, unless otherwise noted.
² April 13, 1995.

* * * * *

16. In § 81.315, the table entitled “Indiana—Ozone (1-Hour Standard)” is revised to read as follows:

§ 81.315 Indiana.

* * * * *

Indiana—Ozone (1-Hour Standard)
Designated area | Designation: Date ¹ | Designation: Type | Classification: Date ¹ | Classification: Type
Chicago-Gary-Lake County Area:
Lake County | 11/15/90 | Nonattainment | 11/15/90 | Severe-17
Porter County | 11/15/90 | Nonattainment | 11/15/90 | Severe-17
Evansville Area:
Vanderburgh County |  | Attainment
Indianapolis Area:
Marion County |  | Attainment
Louisville Area: Clark County | 11/15/90 | Nonattainment | 11/15/90 | Moderate ²
Floyd County | 11/15/90 | Nonattainment | 11/15/90 | Moderate ²
South Bend-Elkhart Area:
Elkhart County |  | Attainment
St Joseph County |  | Attainment
Allen County |  | Unclassifiable/Attainment
Adams County |  | Unclassifiable/Attainment
Bartholomew County |  | Unclassifiable/Attainment
Benton County |  | Unclassifiable/Attainment
Blackford County |  | Unclassifiable/Attainment
Boone County |  | Unclassifiable/Attainment
Brown County |  | Unclassifiable/Attainment
Carroll County |  | Unclassifiable/Attainment
Cass County |  | Unclassifiable/Attainment
Clay County |  | Unclassifiable/Attainment
Clinton County |  | Unclassifiable/Attainment
Crawford County |  | Unclassifiable/Attainment
Daviess County |  | Unclassifiable/Attainment
De Kalb County |  | Unclassifiable/Attainment
Dearborn County |  | Unclassifiable/Attainment
Decatur County |  | Unclassifiable/Attainment
Delaware County |  | Unclassifiable/Attainment
Dubois County |  | Unclassifiable/Attainment
Fayette County |  | Unclassifiable/Attainment
Fountain County |  | Unclassifiable/Attainment
Franklin County |  | Unclassifiable/Attainment
Fulton County |  | Unclassifiable/Attainment
Gibson County |  | Unclassifiable/Attainment
Grant County |  | Unclassifiable/Attainment
Greene County |  | Unclassifiable/Attainment
Hamilton County |  | Unclassifiable/Attainment
Hancock County |  | Unclassifiable/Attainment
Harrison County |  | Unclassifiable/Attainment
Hendricks County |  | Unclassifiable/Attainment
Henry County |  | Unclassifiable/Attainment
Howard County |  | Unclassifiable/Attainment
Huntington County |  | Unclassifiable/Attainment
Jackson County |  | Unclassifiable/Attainment
Jasper County |  | Unclassifiable/Attainment
Jay County |  | Unclassifiable/Attainment
Jefferson County |  | Unclassifiable/Attainment
Jennings County |  | Unclassifiable/Attainment
Johnson County |  | Unclassifiable/Attainment
Knox County |  | Unclassifiable/Attainment
Kosciusko County |  | Unclassifiable/Attainment
La Porte County | 11/15/90 | Unclassifiable/Attainment | 11/15/90
Lagrange County |  | Unclassifiable/Attainment
Lawrence County |  | Unclassifiable/Attainment
Madison County |  | Unclassifiable/Attainment
Marshall County |  | Unclassifiable/Attainment
Martin County |  | Unclassifiable/Attainment
Miami County |  | Unclassifiable/Attainment
Monroe County |  | Unclassifiable/Attainment
Montgomery County |  | Unclassifiable/Attainment
Morgan County |  | Unclassifiable/Attainment
Newton County |  | Unclassifiable/Attainment
Noble County |  | Unclassifiable/Attainment
Ohio County |  | Unclassifiable/Attainment
Orange County |  | Unclassifiable/Attainment
Owen County |  | Unclassifiable/Attainment
Parke County |  | Unclassifiable/Attainment
Perry County |  | Unclassifiable/Attainment
Pike County |  | Unclassifiable/Attainment
Posey County |  | Unclassifiable/Attainment
Pulaski County |  | Unclassifiable/Attainment
Putnam County |  | Unclassifiable/Attainment
Randolph County |  | Unclassifiable/Attainment
Ripley County |  | Unclassifiable/Attainment
Rush County |  | Unclassifiable/Attainment
Scott County |  | Unclassifiable/Attainment
Shelby County |  | Unclassifiable/Attainment
Spencer County |  | Unclassifiable/Attainment
Starke County |  | Unclassifiable/Attainment
Steuben County |  | Unclassifiable/Attainment
Sullivan County |  | Unclassifiable/Attainment
Switzerland County |  | Unclassifiable/Attainment
Tippecanoe County |  | Unclassifiable/Attainment
Tipton County |  | Unclassifiable/Attainment
Union County |  | Unclassifiable/Attainment
Vermillion County |  | Unclassifiable/Attainment
Vigo County |  | Unclassifiable/Attainment
Wabash County |  | Unclassifiable/Attainment
Warren County |  | Unclassifiable/Attainment
Warrick County |  | Unclassifiable/Attainment
Washington County |  | Unclassifiable/Attainment
Wayne County |  | Unclassifiable/Attainment
Wells County |  | Unclassifiable/Attainment
White County |  | Unclassifiable/Attainment
Whitley County |  | Unclassifiable/Attainment
¹ This date is October 18, 2000, unless otherwise noted.
² Attainment date extended to November 15, 1997.

* * * * *

17. In § 81.316, the table entitled “Iowa—Ozone (1-Hour Standard)” is revised to read as follows:

§ 81.316 Iowa.

* * * * *

Iowa—Ozone (1-Hour Standard)
Designated area | Designation: Date¹ | Designation: Type | Classification: Date¹ | Classification: Type
Statewide |  | Unclassifiable/Attainment
Adair County
Adams County
Allamakee County
Appanoose County
Audubon County
Benton County
Black Hawk County
Boone County
Bremer County
Buchanan County
Buena Vista County
Butler County
Calhoun County
Carroll County
Cass County
Cedar County
Cerro Gordo County
Cherokee County
Chickasaw County
Clarke County
Clay County
Clayton County
Clinton County
Crawford County
Dallas County
Davis County
Decatur County
Delaware County
Des Moines County
Dickinson County
Dubuque County
Emmet County
Fayette County
Floyd County
Franklin County
Fremont County
Greene County
Grundy County
Guthrie County
Hamilton County
Hancock County
Hardin County
Harrison County
Henry County
Howard County
Humboldt County
Ida County
Iowa County
Jackson County
Jasper County
Jefferson County
Johnson County
Jones County
Keokuk County
Kossuth County
Lee County
Linn County
Louisa County
Lucas County
Lyon County
Madison County
Mahaska County
Marion County
Marshall County
Mills County
Mitchell County
Monona County
Monroe County
Montgomery County
Muscatine County
O'Brien County
Osceola County
Page County
Palo Alto County
Plymouth County
Pocahontas County
Polk County
Pottawattamie County
Poweshiek County
Ringgold County
Sac County
Scott County
Shelby County
Sioux County
Story County
Tama County
Taylor County
Union County
Van Buren County
Wapello County
Warren County
Washington County
Wayne County
Webster County
Winnebago County
Winneshiek County
Woodbury County
Worth County
Wright County
¹ This date is October 18, 2000, unless otherwise noted.

* * * * *

18. In § 81.317, the table entitled “Kansas—Ozone (1-Hour Standard)” is revised to read as follows:

§ 81.317 Kansas.

* * * * *

Kansas—Ozone (1-Hour Standard)
Designated area | Designation: Date¹ | Designation: Type | Classification: Date¹ | Classification: Type
Allen County |  | Unclassifiable/Attainment
Anderson County |  | Unclassifiable/Attainment
Atchison County |  | Unclassifiable/Attainment
Barber County |  | Unclassifiable/Attainment
Barton County |  | Unclassifiable/Attainment
Bourbon County |  | Unclassifiable/Attainment
Brown County |  | Unclassifiable/Attainment
Butler County |  | Unclassifiable/Attainment
Chase County |  | Unclassifiable/Attainment
Chautauqua County |  | Unclassifiable/Attainment
Cherokee County |  | Unclassifiable/Attainment
Cheyenne County |  | Unclassifiable/Attainment
Clark County |  | Unclassifiable/Attainment
Clay County |  | Unclassifiable/Attainment
Cloud County |  | Unclassifiable/Attainment
Coffey County |  | Unclassifiable/Attainment
Comanche County |  | Unclassifiable/Attainment
Cowley County |  | Unclassifiable/Attainment
Crawford County |  | Unclassifiable/Attainment
Decatur County |  | Unclassifiable/Attainment
Dickinson County |  | Unclassifiable/Attainment
Doniphan County |  | Unclassifiable/Attainment
Douglas County |  | Unclassifiable/Attainment
Edwards County |  | Unclassifiable/Attainment
Elk County |  | Unclassifiable/Attainment
Ellis County |  | Unclassifiable/Attainment
Ellsworth County |  | Unclassifiable/Attainment
Finney County |  | Unclassifiable/Attainment
Ford County |  | Unclassifiable/Attainment
Franklin County |  | Unclassifiable/Attainment
Geary County |  | Unclassifiable/Attainment
Gove County |  | Unclassifiable/Attainment
Graham County |  | Unclassifiable/Attainment
Grant County |  | Unclassifiable/Attainment
Gray County |  | Unclassifiable/Attainment
Greeley County |  | Unclassifiable/Attainment
Greenwood County |  | Unclassifiable/Attainment
Hamilton County |  | Unclassifiable/Attainment
Harper County |  | Unclassifiable/Attainment
Harvey County |  | Unclassifiable/Attainment
Haskell County |  | Unclassifiable/Attainment
Hodgeman County |  | Unclassifiable/Attainment
Jackson County |  | Unclassifiable/Attainment
Jefferson County |  | Unclassifiable/Attainment
Jewell County |  | Unclassifiable/Attainment
Johnson County | 7/23/92 | Unclassifiable/Attainment
Kearny County |  | Unclassifiable/Attainment
Kingman County |  | Unclassifiable/Attainment
Kiowa County |  | Unclassifiable/Attainment
Labette County |  | Unclassifiable/Attainment
Lane County |  | Unclassifiable/Attainment
Leavenworth County |  | Unclassifiable/Attainment
Lincoln County |  | Unclassifiable/Attainment
Linn County |  | Unclassifiable/Attainment
Logan County |  | Unclassifiable/Attainment
Lyon County |  | Unclassifiable/Attainment
Marion County |  | Unclassifiable/Attainment
Marshall County |  | Unclassifiable/Attainment
McPherson County |  | Unclassifiable/Attainment
Meade County |  | Unclassifiable/Attainment
Miami County |  | Unclassifiable/Attainment
Mitchell County |  | Unclassifiable/Attainment
Montgomery County |  | Unclassifiable/Attainment
Morris County |  | Unclassifiable/Attainment
Morton County |  | Unclassifiable/Attainment
Nemaha County |  | Unclassifiable/Attainment
Neosho County |  | Unclassifiable/Attainment
Ness County |  | Unclassifiable/Attainment
Norton County |  | Unclassifiable/Attainment
Osage County |  | Unclassifiable/Attainment
Osborne County |  | Unclassifiable/Attainment
Ottawa County |  | Unclassifiable/Attainment
Pawnee County |  | Unclassifiable/Attainment
Phillips County |  | Unclassifiable/Attainment
Pottawatomie County |  | Unclassifiable/Attainment
Pratt County |  | Unclassifiable/Attainment
Rawlins County |  | Unclassifiable/Attainment
Reno County |  | Unclassifiable/Attainment
Republic County |  | Unclassifiable/Attainment
Rice County |  | Unclassifiable/Attainment
Riley County |  | Unclassifiable/Attainment
Rooks County |  | Unclassifiable/Attainment
Rush County |  | Unclassifiable/Attainment
Russell County |  | Unclassifiable/Attainment
Saline County |  | Unclassifiable/Attainment
Scott County |  | Unclassifiable/Attainment
Sedgwick County |  | Unclassifiable/Attainment
Seward County |  | Unclassifiable/Attainment
Shawnee County |  | Unclassifiable/Attainment
Sheridan County |  | Unclassifiable/Attainment
Sherman County |  | Unclassifiable/Attainment
Smith County |  | Unclassifiable/Attainment
Stafford County |  | Unclassifiable/Attainment
Stanton County |  | Unclassifiable/Attainment
Stevens County |  | Unclassifiable/Attainment
Sumner County |  | Unclassifiable/Attainment
Thomas County |  | Unclassifiable/Attainment
Trego County |  | Unclassifiable/Attainment
Wabaunsee County |  | Unclassifiable/Attainment
Wallace County |  | Unclassifiable/Attainment
Washington County |  | Unclassifiable/Attainment
Wichita County |  | Unclassifiable/Attainment
Wilson County |  | Unclassifiable/Attainment
Woodson County |  | Unclassifiable/Attainment
Wyandotte County | 7/23/92 | Unclassifiable/Attainment
¹ This date is October 18, 2000, unless otherwise noted.

* * * * *

19. In § 81.318, the table entitled “Kentucky—Ozone (1-Hour Standard)” is revised to read as follows:

§ 81.316 Kentucky.

* * * * *

Kentucky—Ozone (1-Hour Standard)
Designated area | Designation: Date ¹ | Designation: Type | Classification: Date ¹ | Classification: Type
Cincinnati-Hamilton Area:
Boone County | 7/5/00 | Attainment
Campbell County | 7/5/00 | Attainment
Kenton County | 7/5/00 | Attainment
Edmonson County Area:
Edmonson County |  | Unclassifiable/Attainment
Louisville Area:
Bullitt County (part): The area boundary is as follows: Beginning at the intersection of Ky 1020 and the Jefferson-Bullitt County Line proceeding to the east along the county line to the intersection of county road 567 and the Jefferson-Bullitt County Line; proceeding south on county road 567 to the junction with Ky 1116 (also known as Zoneton Road); proceeding to the south on Ky 1116 to the junction with Hebron Lane; proceeding to the south on Hebron Lane to Cedar Creek; proceeding south on Cedar Creek to the confluence of Floyds Fork turning southeast along a creek that meets Ky 44 at Stallings Cemetery; proceeding west along Ky 44 to the eastern most point in the Shepherdsville city limits; proceeding south along the Shepherdsville city limits to the Salt River and west to a point across the river from Mooney Lane; proceeding south along Mooney Lane to the junction of Ky 480; proceeding west on Ky 480 to the junction with Ky 2237; proceeding south on Ky 2237 to the junction with Ky 61 and proceeding north on Ky 61 to the junction with Ky 1494; proceeding south on Ky 1494 to the junction with the perimeter of the Fort Knox Military Reservation; proceeding north along the military reservation perimeter to Castleman Branch Road; proceeding north on Castleman Branch Road to Ky 44; proceeding a very short distance west on Ky 44 to a junction with Ky 2723; proceeding north on Ky 2723 to the junction of Chillicoop Road; proceeding northeast on Chillicoop Road to the junction of KY 2673; proceeding north on KY 2673 to the junction of KY 1020; proceeding north on KY 1020 to the beginning; unless a road or intersection of two or more roads defines the nonattainment boundary, the area shall extend outward 750 feet from the center of the road or intersection. | 11/15/90 | Nonattainment | 11/15/90 | Moderate.²
Jefferson County | 11/15/90 | Nonattainment | 11/15/90 | Moderate.²
Oldham County (part): The area boundary is as follows: Beginning at the intersection of the Oldham-Jefferson County Line with the southbound lane of Interstate 71; proceeding to the northeast along the southbound lane of Interstate 71 to the intersection of Ky 329 and the southbound lane of Interstate 71; proceeding to the northwest on Ky 329 to the intersection of Zaring Road and Ky 329; proceeding to the east-northeast on Zaring Road to the junction of Cedar Point Road and Zaring Road; proceeding to the north-northeast on Cedar Point Road to the junction of Ky 393 and Cedar Point Road; proceeding to the south-southeast on Ky 393 to the junction of (the access road on the north side of Reformatory Lake and the Reformatory); proceeding to the east-northeast on the access road to the junction with Dawkins Lane and the access road; proceeding to follow an electric power line east-northeast across from the junction of county road 746 and Dawkins Lane to the east-northeast across Ky 53 on to the La Grange Water Filtration Plant; proceeding on to the east-southeast along the power line then south across Fort Pickens Road to a power substation on Ky 146; proceeding along the power line south across Ky 146 and the Seaboard System Railroad track to adjoin the incorporated city limits of La Grange; then proceeding east then south along the La Grange city limits to a point abutting the north side of Ky 712; proceeding east-southeast on Ky 712 to the junction of Massie School Road and Ky 712; proceeding to the south-southwest on Massie School Road to the intersection of Massie School Road and Zale Smith Road; proceeding northeast on Zale Smith Road to the junction of KY 53 and Zale Smith Road; proceeding on Ky 53 to the north-northwest to the junction of New Moody Lane and Ky 53; proceeding on New Moody Lane to the south-southwest until meeting the city limits of La Grange; then briefly proceeding north following the La Grange city limits to the intersection of the northbound lane of Interstate 71 and the La Grange city limits; proceeding southwest on the north-bound lane of Interstate 71 until inter-secting with the North Fork of Currys Fork; proceeding south-southwest beyond the con-fluence of Currys Fork to the south-southwest beyond the confluence of Floyds Fork continuing on to the Oldham-Jefferson County Line; proceeding northwest along the Oldham-Jefferson County Line to the beginning; unless a road or intersection of two or more roads defines the nonattainment boundary, the area shall extend outward 750 feet from the center of the road or intersection. | 11/15/90 | Nonattainment | 11/15/90 | Moderate.²
Owensboro Area:
Daviess County |  | Unclassifiable/Attainment
Hancock County |  | Unclassifiable/Attainment
The area boundary is as follows: Beginning at the Intersection of U.S. 60 and the Hancock-Daviess County Line; proceeding east along U.S. 60 to the intersection of Yellow Creek and U.S. 60; proceeding north and west along Yellow Creek to the confluence of the Ohio River; proceeding west along the Ohio River to the confluence of Blackford Creek; proceeding south and east along Blackford Creek to the beginning.
Adair County |  | Unclassifiable/Attainment
Allen County |  | Unclassifiable/Attainment
Anderson County |  | Unclassifiable/Attainment
Ballard County |  | Unclassifiable/Attainment
Barren County |  | Unclassifiable/Attainment
Bath County |  | Unclassifiable/Attainment
Bell County |  | Unclassifiable/Attainment
Bourbon County |  | Unclassifiable/Attainment
Boyd County |  | Unclassifiable/Attainment
Boyle County |  | Unclassifiable/Attainment
Bracken County |  | Unclassifiable/Attainment
Breathitt County |  | Unclassifiable/Attainment
Breckinridge County |  | Unclassifiable/Attainment
Bullitt County (part)
Remainder of county |  | Unclassifiable/Attainment
Butler County |  | Unclassifiable/Attainment
Caldwell County |  | Unclassifiable/Attainment
Calloway County |  | Unclassifiable/Attainment
Carlisle County |  | Unclassifiable/Attainment
Carroll County |  | Unclassifiable/Attainment
Carter County |  | Unclassifiable/Attainment
Casey County |  | Unclassifiable/Attainment
Christian County |  | Unclassifiable/Attainment
Clark County |  | Unclassifiable/Attainment
Clay County |  | Unclassifiable/Attainment
Clinton County |  | Unclassifiable/Attainment
Crittenden County |  | Unclassifiable/Attainment
Cumberland County |  | Unclassifiable/Attainment
Elliott County |  | Unclassifiable/Attainment
Estill County |  | Unclassifiable/Attainment
Fayette County |  | Unclassifiable/Attainment
Fleming County |  | Unclassifiable/Attainment
Floyd County |  | Unclassifiable/Attainment
Franklin County |  | Unclassifiable/Attainment
Fulton County |  | Unclassifiable/Attainment
Gallatin County |  | Unclassifiable/Attainment
Garrard County |  | Unclassifiable/Attainment
Grant County |  | Unclassifiable/Attainment
Graves County |  | Unclassifiable/Attainment
Grayson County |  | Unclassifiable/Attainment
Green County |  | Unclassifiable/Attainment
Greenup County |  | Unclassifiable/Attainment
Hancock County (part)
Remainder of county |  | Unclassifiable/Attainment
Hardin County |  | Unclassifiable/Attainment
Harlan County |  | Unclassifiable/Attainment
Harrison County |  | Unclassifiable/Attainment
Hart County |  | Unclassifiable/Attainment
Henderson County |  | Unclassifiable/Attainment
Henry County |  | Unclassifiable/Attainment
Hickman County |  | Unclassifiable/Attainment
Hopkins County |  | Unclassifiable/Attainment
Jackson County |  | Unclassifiable/Attainment
Jessamine County |  | Unclassifiable/Attainment
Johnson County |  | Unclassifiable/Attainment
Knott County |  | Unclassifiable/Attainment
Knox County |  | Unclassifiable/Attainment
Larue County |  | Unclassifiable/Attainment
Laurel County |  | Unclassifiable/Attainment
Lawrence County |  | Unclassifiable/Attainment
Lee County |  | Unclassifiable/Attainment
Leslie County |  | Unclassifiable/Attainment
Letcher County |  | Unclassifiable/Attainment
Lewis County |  | Unclassifiable/Attainment
Lincoln County |  | Unclassifiable/Attainment
Livingston County |  | Unclassifiable/Attainment
Logan County |  | Unclassifiable/Attainment
Lyon County |  | Unclassifiable/Attainment
Madison County |  | Unclassifiable/Attainment
Magoffin County |  | Unclassifiable/Attainment
Marion County |  | Unclassifiable/Attainment
Marshall County |  | Unclassifiable/Attainment
Martin County |  | Unclassifiable/Attainment
Mason County |  | Unclassifiable/Attainment
McCracken County |  | Unclassifiable/Attainment
McCreary County |  | Unclassifiable/Attainment
McLean County |  | Unclassifiable/Attainment
Meade County |  | Unclassifiable/Attainment
Menifee County |  | Unclassifiable/Attainment
Mercer County |  | Unclassifiable/Attainment
Metcalfe County |  | Unclassifiable/Attainment
Monroe County |  | Unclassifiable/Attainment
Montgomery County |  | Unclassifiable/Attainment
Morgan County |  | Unclassifiable/Attainment
Muhlenberg County |  | Unclassifiable/Attainment
Nelson County |  | Unclassifiable/Attainment
Nicholas County |  | Unclassifiable/Attainment
Ohio County |  | Unclassifiable/Attainment
Oldham County (part)
Remainder of county |  | Unclassifiable/Attainment
Owen County |  | Unclassifiable/Attainment
Owsley County |  | Unclassifiable/Attainment
Pendleton County |  | Unclassifiable/Attainment
Perry County |  | Unclassifiable/Attainment
Pike County |  | Unclassifiable/Attainment
Powell County |  | Unclassifiable/Attainment
Pulaski County |  | Unclassifiable/Attainment
Robertson County |  | Unclassifiable/Attainment
Rockcastle County |  | Unclassifiable/Attainment
Rowan County |  | Unclassifiable/Attainment
Russell County |  | Unclassifiable/Attainment
Scott County |  | Unclassifiable/Attainment
Shelby County |  | Unclassifiable/Attainment
Simpson County |  | Unclassifiable/Attainment
Spencer County |  | Unclassifiable/Attainment
Taylor County |  | Unclassifiable/Attainment
Todd County |  | Unclassifiable/Attainment
Trigg County |  | Unclassifiable/Attainment
Trimble County |  | Unclassifiable/Attainment
Union County |  | Unclassifiable/Attainment
Warren County |  | Unclassifiable/Attainment
Washington County |  | Unclassifiable/Attainment
Wayne County |  | Unclassifiable/Attainment
Webster County |  | Unclassifiable/Attainment
Whitley County |  | Unclassifiable/Attainment
Wolfe County |  | Unclassifiable/Attainment
Woodford County |  | Unclassifiable/Attainment
¹ This date is October 18, 2000, unless otherwise noted.
² Attainment date extended to November 15, 1997.

* * * * *

20. In § 81.319, the table entitled “Louisiana—Ozone (1-Hour Standard)” is revised to read as follows:

81.319 Louisiana.

* * * * *

Louisiana—Ozone (1-Hour Standard)
Designated area | Designation: Date ¹ | Designation: Type | Classification: Date ¹ | Classification: Type
Baton Rouge Area:
Ascension Parish | 11/15/90 | Nonattainment | 11/15/90 | Serious.
East Baton Rouge Parish | 11/15/90 | Nonattainment | 11/15/90 | Serious.
Iberville Parish | 11/15/90 | Nonattainment | 11/15/90 | Serious.
Livingston Parish | 11/15/90 | Nonattainment | 11/15/90 | Serious.
West Baton Rouge Parish | 11/15/90 | Nonattainment | 11/15/90 | Serious.
Beauregard Parish Area:
Beauregard Parish |  | Attainment
Grant Parish Area:
Grant Parish |  | Attainment
Lafayette Area:
Lafayette Parish |  | Attainment
Lafourche Parish Area:
Lafourche Parish | 1/05/98 | Nonattainment | 1/05/98 | Incomplete Data.
Lake Charles Area:
Calcasieu Parish |  | Attainment
New Orleans Area:
Jefferson Parish |  | Attainment
Orleans Parish |  | Attainment
St. Bernard Parish |  | Attainment
St. Charles Parish |  | Attainment
Pointe Coupee Area:
Pointe Coupee Parish |  | Attainment
St. James Parish Area:
St. James Parish |  | Attainment
St. Mary Parish Area:
St. Mary Parish |  | Attainment
AQCR 019 Monroe-El Dorado Interstate |  | Unclassifiable/Attainment
Caldwell Parish
Catahoula Parish
Concordia Parish
East Carroll Parish
Franklin Parish
La Salle Parish
Madison Parish
Morehouse Parish
Ouachita Parish
Richland Parish
Tensas Parish
Union Parish
West Carroll Parish
AQCR 022 Shreveport-Texarkana-Tyler Interstate |  | Unclassifiable/Attainment
Bienville Parish
Bossier Parish
Caddo Parish
Claiborne Parish
De Soto Parish
Jackson Parish
Lincoln Parish
Natchitoches Parish
Red River Parish
Sabine Parish
Webster Parish
Winn Parish
AQCR 106 S. Louisiana-S.E. Texas Interstate
St. John The Baptist Parish |  | Unclassifiable/Attainment
AQCR 106 S. Louisiana-S.E. Texas Interstate |  | Unclassifiable/Attainment
Acadia Parish
Allen Parish
Assumption Parish
Avoyelles Parish
Cameron Parish
East Feliciana Parish
Evangeline Parish
Iberia Parish
Jefferson Davis Parish
Plaquemines Parish
Rapides Parish
St. Helena Parish
St. Landry Parish
St. Martin Parish
St. Tammany Parish
Tangipahoa Parish
Terrebonne Parish
Vermilion Parish
Vernon Parish
Washington Parish
West Feliciana Parish
¹ This date is October 18, 2000, unless otherwise noted.

* * * * *

21. In § 81.320, the table entitled “Maine—Ozone (1-Hour Standard)” is revised to read as follows:

§ 81.320 Maine.

* * * * *

Maine—Ozone (1-Hour Standard)
Designated area | Designation: Date ¹ | Designation: Type | Classification: Date ¹ | Classification: Type
Franklin County Area:
Franklin County (part) |  | Unclassifiable/Attainment
Hancock County and Waldo County Area:
Hancock County |  | Attainment
Waldo County |  | Attainment
Knox County and Lincoln County Area:
Knox County | (³) | Nonattainment | (³) | Moderate.
Lincoln County | (³) | Nonattainment | (³) | Moderate.
Lewiston-Auburn Area:
Androscoggin County | (³) | Nonattainment | (³) | Moderate.
Kennebec County | (³) | Nonattainment | (³) | Moderate.
Oxford County Area:
Oxford County (part) |  | Unclassifiable/Attainment
Portland Area:
Cumberland County | (³) | Nonattainment | (³) | Moderate.²
Sagadahoc County | (³) | Nonattainment | (³) | Moderate.²
York County | (³) | Nonattainment | (³) | Moderate.²
Somerset County Area:
Somerset County (part) |  | Unclassifiable/Attainment
AQCR 108 Aroostook Intrastate |  | Unclassifiable/Attainment
Aroostook County (part) see 40 CFR 81.179
AQCR 109 Down East Intrastate |  | Unclassifiable/Attainment
Penobscot County (part), as described under 40 CFR 81.181
Piscataquis County (part) see 40 CFR 81.181
Washington County
AQCR 111 Northwest Maine Intrastate (Remainder of) |  | Unclassifiable/Attainment |
see 40 CFR 81.182
Aroostook County
Franklin County (part)
Oxford County (part)
Penobscot County (part)
Piscataquis County (part)
Somerset County (part)
¹ This date is October 18, 2000, unless otherwise noted.
² Attainment date extended to November 15, 1997.
³ This date is January 16, 2001.

* * * * *

22. In § 81.321, the table entitled “Maryland—Ozone (1-Hour Standard)” is revised to read as follows:

§ 81.321 Maryland.

* * * * *

Maryland—Ozone (1-Hour Standard)
Designated area | Designation: Date ¹ | Designation: Type | Classification: Date ¹ | Classification: Type
Baltimore Area:
Anne Arundel County | 11/15/90 | Nonattainment | 11/15/90 | Severe-15.
Baltimore
City of Baltimore | 11/15/90 | Nonattainment | 11/15/90 | Severe-15.
Baltimore County | 11/15/90 | Nonattainment | 11/15/90 | Severe-15.
Carroll County | 11/15/90 | Nonattainment | 11/15/90 | Severe-15.
Harford County | 11/15/90 | Nonattainment | 11/15/90 | Severe-15.
Howard County | 11/15/90 | Nonattainment | 11/15/90 | Severe-15.
Kent County and Queen Anne's County Area:
Kent County | 1/6/92 | Nonattainment | 1/6/92 | Marginal.
Queen Anne's County | 1/6/92 | Nonattainment | 1/6/92 | Marginal.
Philadelphia-Wilmington-Trenton Area:
Cecil County | 11/15/90 | Nonattainment | 11/15/90 | Severe-15.
Washington, DC Area:
Calvert County | 11/15/90 | Nonattainment | 11/15/90 | Serious.
Charles County | 11/15/90 | Nonattainment | 11/15/90 | Serious.
Frederick County | 11/15/90 | Nonattainment | 11/15/90 | Serious.
Montgomery County | 11/15/90 | Nonattainment | 11/15/90 | Serious.
Prince George's County | 11/15/90 | Nonattainment | 11/15/90 | Serious.
AQCR 113 Cumberland-Keyser Interstate |  | Unclassifiable/Attainment
Allegany County
Garrett County
Washington County
AQCR 114 Eastern Shore Interstate (Remainder of) |  | Unclassifiable/Attainment
Caroline County
Dorchester County
Somerset County
Talbot County
Wicomico County
Worcester County
AQCR 116 Southern Maryland Intrastate (Remainder of) |  | Unclassifiable/Attainment
St. Mary's County
¹ This date is October 18, 2000, unless otherwise noted.

* * * * *

23. In § 81.322, the table entitled “Massachusetts—Ozone (1-Hour Standard)” is revised to read as follows:

§ 81.322 Massachusetts.

* * * * *

Massachusetts—Ozone (1-Hour Standard)
Designated area | Designation: Date ¹ | Designation: Type | Classification: Date ¹ | Classification: Type
Boston-Lawrence-Worcester (E. Mass) Area:
Barnstable County | (²) | Nonattainment | (²) | Serious.
Bristol County | (²) | Nonattainment | (²) | Serious.
Dukes County | (²) | Nonattainment | (²) | Serious.
Essex County | (²) | Nonattainment | (²) | Serious.
Middlesex County | (²) | Nonattainment | (²) | Serious.
Nantucket County | (²) | Nonattainment | (²) | Serious.
Norfolk County | (²) | Nonattainment | (²) | Serious.
Plymouth County | (²) | Nonattainment | (²) | Serious.
Suffolk County | (²) | Nonattainment | (²) | Serious.
Worcester County | (²) | Nonattainment | (²) | Serious.
Springfield (W. Mass) Area:
Berkshire County |  | Nonattainment |  | Serious.
Franklin County |  | Nonattainment |  | Serious.
Hampden County |  | Nonattainment |  | Serious.
Hampshire County |  | Nonattainment |  | Serious.
¹ This date is November 15, 1990, unless otherwise noted.
² This date is January 16, 2001.

* * * * *

24. 81.323, the table entitled “Michigan—Ozone (1-Hour Standard)” is revised to read as follows:

§ 81.323 Michigan.

* * * * *

Michigan—Ozone (1-Hour Standard)
Designated area | Designation: Date ¹ | Designation: Type | Classification: Date ¹ | Classification: Type
Allegan County Area:
Allegan County | (³) | Nonattainment | (³) | Incomplete Data.
Barry County Area:
Barry County |  | Unclassifiable/Attainment
Battle Creek Area:
Calhoun County |  | Unclassifiable/Attainment
Benton Harbor Area:
Berrien County |  | Unclassifiable/Attainment
Branch County Area:
Branch County |  | Unclassifiable/Attainment
Cass County Area:
Cass County |  | Unclassifiable/Attainment
Detroit-Ann Arbor Area:
Livingston County |  | Attainment
Macomb County |  | Attainment
Monroe County |  | Attainment
Oakland County |  | Attainment
St. Clair County |  | Attainment
Washtenaw County |  | Attainment
Wayne County |  | Attainment
Flint Area:
Genesee County | (³) | Nonattainment | (³) | Sec. 185A Area.²
Grand Rapids Area:
Kent County |  | Attainment
Ottawa County |  | Attainment
Gratiot County Area:
Gratiot County |  | Unclassifiable/Attainment
Hillsdale County Area:
Hillsdale County |  | Unclassifiable/Attainment
Huron County Area:
Huron County |  | Unclassifiable/Attainment
Ionia County Area:
Ionia County |  | Unclassifiable/Attainment
Jackson Area:
Jackson County |  | Unclassifiable/Attainment
Kalamazoo Area:
Kalamazoo County |  | Unclassifiable/Attainment
Lansing-East Lansing Area:
Clinton County |  | Unclassifiable/Attainment
Eaton County |  | Unclassifiable/Attainment
Ingham County |  | Unclassifiable/Attainment
Lapeer County Area:
Lapeer County |  | Unclassifiable/Attainment
Lenawee County Area:
Lenawee County |  | Unclassifiable/Attainment
Montcalm Area:
Montcalm County |  | Unclassifiable/Attainment
Muskegon Area:
Muskegon County | (³) | Nonattainment | (³) | Moderate.
Saginaw-Bay City-Midland Area:
Bay County | (³) | Nonattainment | (³) | Incomplete Data.
Midland County | (³) | Nonattainment | (³) | Incomplete Data.
Saginaw County | (³) | Nonattainment | (³) | Incomplete Data.
Sanilac County Area:
Sanilac County |  | Unclassifiable/Attainment
Shiawassee County Area:
Shiawassee County |  | Unclassifiable/Attainment
St. Joseph County Area:
St. Joseph County |  | Unclassifiable/Attainment
Tuscola County Area:
Tuscola County |  | Unclassifiable/Attainment
Van Buren County Area:
Van Buren County |  | Unclassifiable/Attainment
AQCR 122 Central Michigan Intrastate (Remainder of): |  | Unclassifiable/Attainment
Arenac County
Clare County
Gladwin County
Iosco County
Isabella County
Lake County
Mason County
Mecosta County
Newaygo County
Oceana County
Ogemaw County
Osceola County
Roscommon County
AQCR 126 Upper Michigan Intrastate (part) Marquette County |  | Unclassifiable/Attainment
AQCR 126 Upper Michigan Intrastate (Remainder of): |  | Unclassifiable/Attainment
Alcona County
Alger County
Alpena County
Antrim County
Baraga County
Benzie County
Charlevoix County
Cheboygan County
Chippewa County
Crawford County
Delta County
Dickinson County
Emmet County
Gogebic County
Grand Traverse County
Houghton County
Iron County
Kalkaska County
Keweenaw County
Leelanau County
Luce County
Mackinac County
Manistee County
Menominee County
Missaukee County
Montmorency County
Ontonagon County
Oscoda County
Otsego County
Presque Isle County
Schoolcraft County
Wexford County
¹ This date is October 18, 2000, unless otherwise noted.
² An area designated as an ozone nonattainment area as of the date of enactment of the CAAA of the 1990 that did not violate the ozone NAAQS during the period of 1987-1989.
³ This date is January 16, 2001.

* * * * *

25. In § 81.324, the table entitled “Minnesota—Ozone (1-Hour Standard)” is revised to read as follows:

§ 81.324 Minnesota.

* * * * *

Minnesota—Ozone (1-Hour Standard)
Designated area | Designation: Date ¹ | Designation: Type | Classification: Date ¹ | Classification: Type
Minneapolis-Saint Paul Area:
Anoka County |  | Unclassifiable/Attainment
Carver County |  | Unclassifiable/Attainment
Dakota County |  | Unclassifiable/Attainment
Hennepin County |  | Unclassifiable/Attainment
Ramsey County |  | Unclassifiable/Attainment
Scott County |  | Unclassifiable/Attainment
Washington County |  | Unclassifiable/Attainment
Rest of State |  | Unclassifiable/Attainment
Aitkin County |  | Unclassifiable/Attainment
Becker County |  | Unclassifiable/Attainment
Beltrami County |  | Unclassifiable/Attainment
Benton County |  | Unclassifiable/Attainment
Big Stone County |  | Unclassifiable/Attainment
Blue Earth County |  | Unclassifiable/Attainment
Brown County |  | Unclassifiable/Attainment
Carlton County |  | Unclassifiable/Attainment
Cass County |  | Unclassifiable/Attainment
Chippewa County |  | Unclassifiable/Attainment
Chisago County |  | Unclassifiable/Attainment
Clay County |  | Unclassifiable/Attainment
Clearwater County |  | Unclassifiable/Attainment
Cook County |  | Unclassifiable/Attainment
Cottonwood County |  | Unclassifiable/Attainment
Crowe County |  | Unclassifiable/Attainment
Dodge County |  | Unclassifiable/Attainment
Douglas County |  | Unclassifiable/Attainment
Faribault County |  | Unclassifiable/Attainment
Fillmore County |  | Unclassifiable/Attainment
Freeborn County |  | Unclassifiable/Attainment
Goodhue County |  | Unclassifiable/Attainment
Grant County |  | Unclassifiable/Attainment
Houston County |  | Unclassifiable/Attainment
Hubbard County |  | Unclassifiable/Attainment
Isanti County |  | Unclassifiable/Attainment
Itasca County |  | Unclassifiable/Attainment
Jackson County |  | Unclassifiable/Attainment
Kanabec County |  | Unclassifiable/Attainment
Kandiyohi County |  | Unclassifiable/Attainment
Kittson County |  | Unclassifiable/Attainment
Koochiching County |  | Unclassifiable/Attainment
Lac qui Parle County |  | Unclassifiable/Attainment
Lake County |  | Unclassifiable/Attainment
Lake of the Woods County |  | Unclassifiable/Attainment
Le Sueur County |  | Unclassifiable/Attainment
Lincon County |  | Unclassifiable/Attainment
Lyon County |  | Unclassifiable/Attainment
Mahnomen County |  | Unclassifiable/Attainment
Marshall County |  | Unclassifiable/Attainment
Martin County |  | Unclassifiable/Attainment
McLeod County |  | Unclassifiable/Attainment
Meeker County |  | Unclassifiable/Attainment
Mille Lacs County |  | Unclassifiable/Attainment
Morrison County |  | Unclassifiable/Attainment
Mower County |  | Unclassifiable/Attainment
Murray County |  | Unclassifiable/Attainment
Nicollet County |  | Unclassifiable/Attainment
Nobles County |  | Unclassifiable/Attainment
Norman County |  | Unclassifiable/Attainment
Olmsted County |  | Unclassifiable/Attainment
Otter Tail County |  | Unclassifiable/Attainment
Pennington County |  | Unclassifiable/Attainment
Pine County |  | Unclassifiable/Attainment
Pipestone County |  | Unclassifiable/Attainment
Polk County |  | Unclassifiable/Attainment
Pope County |  | Unclassifiable/Attainment
Red Lake County |  | Unclassifiable/Attainment
Redwood County |  | Unclassifiable/Attainment
Renville County |  | Unclassifiable/Attainment
Rice County |  | Unclassifiable/Attainment
Rock County |  | Unclassifiable/Attainment
Roseau County |  | Unclassifiable/Attainment
Saint Louis County |  | Unclassifiable/Attainment
Sherburne County |  | Unclassifiable/Attainment
Sibley County |  | Unclassifiable/Attainment
Stearns County |  | Unclassifiable/Attainment
Steele County |  | Unclassifiable/Attainment
Stevens County |  | Unclassifiable/Attainment
Swift County |  | Unclassifiable/Attainment
Todd County |  | Unclassifiable/Attainment
Traverse County |  | Unclassifiable/Attainment
Wabasha County |  | Unclassifiable/Attainment
Wadena County |  | Unclassifiable/Attainment
Waseca County |  | Unclassifiable/Attainment
Watonwan County |  | Unclassifiable/Attainment
Wilkin County |  | Unclassifiable/Attainment
Winona County |  | Unclassifiable/Attainment
Wright County |  | Unclassifiable/Attainment
Yellow Medicine County |  | Unclassifiable/Attainment
¹ This date is October 18, 2000, unless otherwise noted.

* * * * *

26. In § 81.325, the table entitled “Mississippi—Ozone (1-Hour Standard)” is revised to read as follows:

§ 81.325 Mississippi.

* * * * *

Mississippi—Ozone (1-Hour Standard)
Designated area | Designation: Date ¹ | Designation: Type | Classification: Date ¹ | Classification: Type
Memphis:
De Soto County | 11/15/90 | Unclassifiable/Attainment | 11/15/90
Statewide |  | Unclassifiable/Attainment
Adams County
Alcorn County
Amite County
Attala County
Benton County
Bolivar County
Calhoun County
Carroll County
Chickasaw County
Choctaw County
Claiborne County
Clarke County
Clay County
Coahoma County
Copiah County
Covington County
Forrest County
Franklin County
George County
Greene County
Grenada County
Hancock County
Harrison County
Hinds County
Holmes County
Humphreys County
Issaquena County
Itawamba County
Jackson County
Jasper County
Jefferson County
Jefferson Davis County
Jones County
Kemper County
Lafayette County
Lamar County
Lauderdale County
Lawrence County
Leake County
Lee County
Leflore County
Lincoln County
Lowndes County
Madison County
Marion County
Marshall County
Monroe County
Montgomery County
Neshoba County
Newton County
Noxubee County
Oktibbeha County
Panola County
Pearl River County
Perry County
Pike County
Pontotoc County
Prentiss County
Quitman County
Rankin County
Scott County
Sharkey County
Simpson County
Smith County
Stone County
Sunflower County
Tallahatchie County
Tate County
Tippah County
Tishomingo County
Tunica County
Union County
Walthall County
Warren County
Washington County
Wayne County
Webster County
Wilkinson County
Winston County
Yalobusha County
Yazoo County
¹ This date is October 18, 2000, unless otherwise noted.

* * * * *

27. In § 81.326, the table entitled “Missouri—Ozone (1-Hour Standard)” is revised to read as follows:

§ 81.326 Missouri.

* * * * *

Missouri—Ozone (1-Hour Standard)
Designated area | Designation: Date ¹ | Designation: Type | Classification: Date ¹ | Classification: Type
Kansas City Area:
Clay County | 7/23/92 | Unclassifiable/Attainment
Jackson County | 7/23/92 | Unclassifiable/Attainment
Platte County | 7/23/92 | Unclassifiable/Attainment
St. Louis Area:
Franklin County | 11/15/90 | Nonattainment | 11/15/90 | Moderate.
Jefferson County | 11/15/90 | Nonattainment | 11/15/90 | Moderate.
St. Charles County | 11/15/90 | Nonattainment | 11/15/90 | Moderate.
St. Louis | 11/15/90 | Nonattainment | 11/15/90 | Moderate.
St. Louis County | 11/15/90 | Nonattainment | 11/15/90 | Moderate.
AQCR 094 Metro Kansas City Interstate (Remainder of)
Buchanan County
Cass County
Ray County
AQCR 137 N. Missouri Intrastate (part)
Pike County |  | Unclassifiable/Attainment
Ralls County |  | Unclassifiable/Attainment
AQCR 137 N. Missouri Intrastate (Remainder of) |  | Unclassifiable/Attainment
Adair County
Andrew County
Atchison County
Audrain County
Boone County
Caldwell County
Callaway County
Carroll County
Chariton County
Clark County
Clinton County
Cole County
Cooper County
Daviess County
DeKalb County
Gentry County
Grundy County
Harrison County
Holt County
Howard County
Knox County
Lewis County
Lincoln County
Linn County
Livingston County
Macon County
Marion County
Mercer County
Moniteau County
Monroe County
Montgomery County
Nodaway County
Osage County
Putnam County
Randolph County
Saline County
Schuyler County
Scotland County
Shelby County
Sullivan County
Warren County
Worth County
Rest of State |  | Unclassifiable/Attainment
Barry County
Barton County
Bates County
Benton County
Bollinger County
Butler County
Camden County
Cape Girardeau County
Carter County
Cedar County
Christian County
Crawford County
Dade County
Dallas County
Dent County
Douglas County
Dunklin County
Gasconade County
Greene County
Henry County
Hickory County
Howell County
Iron County
Jasper County
Johnson County
Laclede County
Lafayette County
Lawrence County
Madison County
Maries County
McDonald County
Miller County
Mississippi County
Morgan County
New Madrid County
Newton County
Oregon County
Ozark County
Pemiscot County
Perry County
Pettis County
Phelps County
Polk County
Pulaski County
Reynolds County
Ripley County
Scott County
Shannon County
St.Clair County
St. Francois County
Ste. Genevieve County
Stoddard County
Stone County
Taney County
Texas County
Vernon County
Washington County
Wayne County
Webster County
Wright County
¹ This date is October 18, 2000, unless otherwise noted.

* * * * *

28. In § 81327, the table entitled “Montana—Ozone (1-Hour Standard)” is revised to read as follows:

§ 81.327 Montana

* * * * *

Montana—Ozone (1-Hour Standard)
Designated area | Designation: Date ¹ | Designation: Type | Classification: Date ¹ | Classification: Type
Beaverhead County |  | Unclassifiable/Attainment
Big Horn County (part) excluding Crow, Northern Cheyenne Indian Reservations |  | Unclassifiable/Attainment
Blaine County (part) excluding Fort Belknap Indian Reservation
Broadwater County |  | Unclassifiable/Attainment
Carbon County |  | Unclassifiable/Attainment
Carter County |  | Unclassifiable/Attainment
Cascade County |  | Unclassifiable/Attainment
Chouteau County (part) excluding Rocky Boy Indian Reservation |  | Unclassifiable/Attainment
Custer County |  | Unclassifiable/Attainment
Daniels County (part) excluding Fort Peck Indian Reservation |  | Unclassifiable/Attainment
Dawson County |  | Unclassifiable/Attainment
Deer Lodge County |  | Unclassifiable/Attainment
Fallon County |  | Unclassifiable/Attainment
Fergus County |  | Unclassifiable/Attainment
Flathead County (part) excluding Flathead Indian Reservation |  | Unclassifiable/Attainment
Gallatin County |  | Unclassifiable/Attainment
Garfield County |  | Unclassifiable/Attainment
Glacier County (part) excluding Blackfeet Indian Reservation |  | Unclassifiable/Attainment
Golden Valley County |  | Unclassifiable/Attainment
Granite County |  | Unclassifiable/Attainment
Hill County (part) excluding Rocky Boy Indian Reservation |  | Unclassifiable/Attainment
Jefferson County |  | Unclassifiable/Attainment
Judith Basin County |  | Unclassifiable/Attainment
Lake County (part) excluding Flathead Indian Reservation |  | Unclassifiable/Attainment
Lewis and Clark County |  | Unclassifiable/Attainment
Liberty County |  | Unclassifiable/Attainment
Lincoln County |  | Unclassifiable/Attainment
Madison County |  | Unclassifiable/Attainment
McCone County |  | Unclassifiable/Attainment
Meagher County |  | Unclassifiable/Attainment
Mineral County |  | Unclassifiable/Attainment
Missoula County (part) excluding Flathead Indian Reservation |  | Unclassifiable/Attainment
Musselshell County |  | Unclassifiable/Attainment
Park County |  | Unclassifiable/Attainment
Petroleum County |  | Unclassifiable/Attainment
Phillips County (part) excluding Fort Belknap Indian Reservation |  | Unclassifiable/Attainment
Pondera County (part) excluding Blackfeet Indian Reservation |  | Unclassifiable/Attainment
Powder River County |  | Unclassifiable/Attainment
Powell County |  | Unclassifiable/Attainment
Prairie County |  | Unclassifiable/Attainment
Ravalli County |  | Unclassifiable/Attainment
Richland County |  | Unclassifiable/Attainment
Roosevelt County (part) excluding Fort Peck Indian Reservation |  | Unclassifiable/Attainment
Rosebud County (part) excluding Northern Cheyenne Indian Reservation |  | Unclassifiable/Attainment
Sanders County (part) excluding Flathead Indian Reservation |  | Unclassifiable/Attainment
Sheridan County (part) excluding Fort Peck Indian Reservation |  | Unclassifiable/Attainment
Silver Bow County |  | Unclassifiable/Attainment
Stillwater County |  | Unclassifiable/Attainment
Sweet Grass County |  | Unclassifiable/Attainment
Teton County |  | Unclassifiable/Attainment
Toole County |  | Unclassifiable/Attainment
Treasure County |  | Unclassifiable/Attainment
Valley County (part) excluding Fort Peck Indian Reservation |  | Unclassifiable/Attainment
Wheatland County |  | Unclassifiable/Attainment
Wibaux County |  | Unclassifiable/Attainment
Yellowstone County (part) excluding Crow Indian Reservation |  | Unclassifiable/Attainment
Yellowstone Natl Park |  | Unclassifiable/Attainment
Blackfeet Indian Reservation |  | Unclassifiable/Attainment
Glacier County (part) area inside Blackfeet Reservation
Pondera County (part) area inside Blackfeet Reservation
Crow Indian Reservation |  | Unclassifiable/Attainment
Bighorn County (part) area inside Crow Reservation
Yellowstone (part) area inside Crow Reservation
Flathead Indian Reservation |  | Unclassifiable/Attainment
Flathead County (part) area inside Flathead Reservation
Lake County (part) area inside Flathead Reservation
Missoula County (part) area inside Flathead Reservation
Sanders County (part) area inside Flathead Reservation
Fort Belknap Indian Reservation |  | Unclassifiable/Attainment
Blaine County (part) area inside Fort Belknap Reservation
Phillips County (part) area inside Fort Belknap Reservation
Fort Peck Indian Reservation |  | Unclassifiable/Attainment
Daniels County (part) area inside Fort Peck Reservation
Roosevelt County (part) area inside Fort Peck Reservation
Sheridan County (part) area inside Fort Peck Reservation
Valley County (part) area inside Fort Peck Reservation
Northern Cheyenne Indian Reservation |  | Unclassifiable/Attainment
Bighorn County (part) area inside Northern Cheyenne Reservation
Rosebud County (part) area inside Northern Cheyenne Reservation
Rocky Boy Indian Reservation |  | Unclassifiable/Attainment
Chouteau County (part) area inside Rocky Boy Reservation
Hill County (part) area inside Rocky Boy Reservation
¹ This date is October 18, 2000, unless otherwise noted.

* * * * *

29. In § 81328, the table entitled ``Nebraska_Ozone (1-Hour Standard)'' is revised to read as follows:

§ 81328 Nebraska

* * * * *

Nebraska—Ozone (1-Hour Standard)
Designated area | Designation: Date ¹ | Designation: Type | Classification: Date ¹ | Classification: Type
Statewide |  | Unclassifiable/Attainment
Adams County
Antelope County
Arthur County
Banner County
Blaine County
Boone County
Box Butte County
Boyd County
Brown County
Buffalo County
Burt County
Butler County
Cass County
Cedar County
Chase County
Cherry County
Cheyenne County
Clay County
Colfax County
Cuming County
Custer County
Dakota County
Dawes County
Dawson County
Deuel County
Dixon County
Dodge County
Douglas County
Dundy County
Fillmore County
Franklin County
Frontier County
Furnas County
Gage County
Garden County
Garfield County
Gosper County
Grant County
Greeley County
Hall County
Hamilton County
Harlan County
Hayes County
Hitchcock County
Holt County
Hooker County
Howard County
Jefferson County
Johnson County
Kearney County
Keith County
Keya Paha County
Kimball County
Knox County
Lancaster County
Lincoln County
Logan County
Loup County
Madison County
McPherson County
Merrick County
Morrill County
Nance County
Nemaha County
Nuckolls County
Otoe County
Pawnee County
Perkins County
Phelps County
Pierce County
Platte County
Polk County
Red Willow County
Richardson County
Rock County
Saline County
Sarpy County
Saunders County
Scotts Bluff County
Seward County
Sheridan County
Sherman County
Sioux County
Stanton County
Thayer County
Thomas County
Thurston County
Valley County
Washington County
Wayne County
Webster County
Wheeler County
York County
¹ This date is October 18, 2000, unless otherwise noted.

* * * * *

30. In § 81.329, the table entitled “Nevada—Ozone (1-Hour Standard)” is revised to read as follows:

§ 81.329 Nevada.

* * * * *

Nevada—Ozone (1-Hour Standard)
Designated area | Designation: Date ¹ | Designation: Type | Classification: Date ¹ | Classification: Type
Reno Area: |  |  |  |
Washoe County | (²) | Nonattainment | (²) | Marginal.
Rest of State |  | Unclassifiable/Attainment |  |
Carson City |  |  |  |
Churchill County |  |  |  |
Clark County |  |  |  |
Douglas County |  |  |  |
Elko County |  |  |  |
Esmeralda County |  |  |  |
Eureka County |  |  |  |
Humboldt County |  |  |  |
Lander County |  |  |  |
Lincoln County |  |  |  |
Lyon County |  |  |  |
Mineral County |  |  |  |
Nye County |  |  |  |
Pershing County |  |  |  |
Storey County |  |  |  |
White Pine County |  |  |  |
¹ This date is October 18, 2000, unless otherwise noted.
² This date is January 16, 2000.

* * * * *

31. In § 81.330, the table entitled “New Hampshire—Ozone (1-Hour Standard)” is revised to read as follows:

§ 81.330 New Hampshire.

* * * * *

New Hampshire—Ozone (1-Hour Standard)
Designated area | Designation: Date ¹ | Designation: Type | Classification: Date ¹ | Classification: Type
Belknap County Area: |  |  |  |
Belknap County |  | Unclassifiable/Attainment |  |
Boston-Lawrence-Worcester Area: |  |  |  |
Hillsborough County (part) | (¹) | Nonattainment | (²) | Serious.
Pelham Town, Amherst Town, Brookline Town, Hollis Town, Hudson Town, Litchfield Town, Merrimack Town, Milford Town, Mont Vernon Town, Nashua City Wilton Town. |  |  |  |
Rockingham County (part)
Atkinson Town, Brentwood Town, Danville Town, Derry Town, E. Kingston Town, Hampstead Town, Hampton Falls Town, Kensington Town, Kingston Town, Londonderry Town, Newton Town, Plaistow Town, Salem Town, Sandown Town, Seabrook Town, South Hampton Town Windham Town. | (²) | Nonattainment | (²) | Serious.
Cheshire County Area: |  |  |  |
Cheshire County | (²) | Nonattainment | (²) | Incomplete Data.
Manchester Area: |  |  |  |
Hillsborough County (part) | (²) | Nonattainment | (²) | Marginal.
Antrim Town, Bedford Town, Bennington Town, Deering Town, Francestown Town, Goffstown Town, Greenfield Town, Greenville Town, Hancock Town, Hillsborough Town, Lyndeborough Town, Manchester city, Mason Town, New Boston Town, New Ipswich Town, Petersborough Town, Sharon Town, Temple town, Weare Town, Windsor Town. |  |  |  |
Merrimack County | (²) | Nonattainment | (²) | Marginal.
Rockingham County (part) | (²) | Nonattainment | (²) | Marginal.
Auburn Town, Candia Town, Chester Town, Deerfield Town, Epping Town, Fremont Town, Northwood Town, Nottingham Town, Raymond Town. |  |  |  |
Portsmouth-Dover-Rochester Area: |  |  |  |
Rockingham County (part) | (²) | Nonattainment | (²) | Serious.
Exeter Town, Greenland Town, Hampton Town, New Castle Town, Newfields Town, Newington Town, Newmarket Town, North Hampton Town, Portsmouth city, Rye Town, Stratham Town. |  |  |  |
Strafford County | ⁽²⁾ | Nonattainment | ⁽²⁾ | Serious.
Sullivan County Area: |  |  |  |
Sullivan County |  | Unclassifiable/Attainment |  |
AQCR 107 Androscoggin Valley Interstate: |  |  |  |
Coos County |  | Unclassifiable/Attainment |  |
AQCR 149 Central New Hampshire Interstate: |  |  |  |
Carroll County |  | Unclassifiable/Attainment |  |
Grafton County |  | Unclassifiable/Attainment |  |
¹ This date is October 18, 2000 unless otherwise noted.
² This date is January 16, 2001.

* * * * *

32. In § 81.331, the table entitled “New Jersey—Ozone (1-Hour Standard)” is revised to read as follows:

§ 81.331 New Jersey.

* * * * *

New Jersey—Ozone (1-Hour Standard)
Designated area | Designation: Date ¹ | Designation: Type | Classification: Date ¹ | Classification: Type
Allentown-Bethlehem Easton Area: |  |  |  |
Warren County | (²) | Nonattainment | (²) | Marginal.
Atlantic City Area: |  |  |  |
Atlantic County | (²) | Nonattainment | (²) | Moderate.
Cape May County | (²) | Nonattainment | (²) | Moderate.
New York-N. New Jersey-Long Island Area: |  |  |  |
Bergen County |  | Nonattainment |  | Severe-17.
Essex County |  | Nonattainment |  | Severe-17.
Hudson County |  | Nonattainment |  | Severe-17.
Hunterdon County |  | Nonattainment |  | Severe-17.
Middlesex County |  | Nonattainment |  | Severe-17.
Monmouth County |  | Nonattainment |  | Severe-17.
Morris County |  | Nonattainment |  | Severe-17.
Ocean County |  | Nonattainment |  | Severe-17.
Passaic County |  | Nonattainment |  | Severe-17.
Somerset County |  | Nonattainment |  | Severe-17.
Sussex County |  | Nonattainment |  | Severe-17.
Union County |  | Nonattainment |  | Severe-17.
Philadelphia-Wilmington-Trenton Area: |  |  |  |
Burlington County |  | Nonattainment |  | Severe-15.
Camden County |  | Nonattainment |  | Severe-15.
Cumberland County |  | Nonattainment |  | Severe-15.
Gloucester County |  | Nonattainment |  | Severe-15.
Mercer County |  | Nonattainment |  | Severe-15.
Salem County |  | Nonattainment |  | Severe-15.
¹ This date is November 15, 1990, unless otherwise noted.
² This date is January 16, 2001.

* * * * *

33. In § 81.332, the table entitled “New Mexico—Ozone (1-Hour Standard)” is revised to read as follows:

§ 81.332 New Mexico.

* * * * *

New Mexico—Ozone (1-Hour Standard)
Designated area | Designation: Date ¹ | Designation: Type | Classification: Date ¹ | Classification: Type
AQCR 012 New Mexico-Southern Border Intrastate |  | Unclassifiable/Attainment |  |
Grant County |  |  |  |
Hidalgo County |  |  |  |
Luna County |  |  |  |
AQCR 014 Four Corners Interstate |  | Unclassifiable/Attainment |  |
see 40 CFR 81.121 |  |  |  |
McKinley County (part) |  |  |  |
Rio Arriba County (part) |  |  |  |
San Juan County |  |  |  |
Sandoval County (part) |  |  |  |
Valencia County (part) |  |  |  |
AQCR 152 Albuquerque-Mid Rio Grande Intrastate |  | Unclassifiable/Attainment |  |
Bernalillo County (part) |  |  |  |
AQCR 152 Albuquerque-Mid Rio Grande |  | Unclassifiable/Attainment |  |
Sandoval County (part) see 40 CFR 81.83 |  |  |  |
Valencia County see 40 CFR 81.83 |  |  |  |
AQCR 153 El Paso-Las Cruces-Alamogordo | 7/12/95 | Nonattainment | 7/12/95 | Marginal.
Dona Ana County (part)—(Sunland Park Area) The Area bounded by the New Mexico-Texas State line on the east, the New Mexico-Mexico international line on the south, the Range 3E-Range 2E line on the west, and the N3200 latitude line on the north. |  |  |  |
Remainder of Dona Ana County |  | Unclassifiable/Attainment |  |
Lincoln County |  | Unclassifiable/Attainment |  |
Otero County |  | Unclassifiable/Attainment |  |
Sierra County |  | Unclassifiable/Attainment |  |
AQCR 154 Northeastern Plains Intrastate |  | Unclassifiable/Attainment |  |
Colfax County |  |  |  |
Guadalupe County |  |  |  |
Harding County |  |  |  |
Mora County |  |  |  |
San Miguel County |  |  |  |
Torrance County |  |  |  |
Union County |  |  |  |
AQCR 155 Pecos-Permian Basin Intrastate |  | Unclassifiable/Attainment |  |
Chaves County |  |  |  |
Curry County |  |  |  |
De Baca County |  |  |  |
Eddy County |  |  |  |
Lea County |  |  |  |
Quay County |  |  |  |
Roosevelt County |  |  |  |
AQCR 156 SW Mountains-Augustine Plains |  | Unclassifiable/Attainment |  |
Catron County |  |  |  |
Cibola County |  |  |  |
McKinley County (part) see 40 CFR 81.241 |  |  |  |
Socorro County |  |  |  |
Valencia County (part) see 40 CFR 81.241 |  |  |  |
AQCR 157 Upper Rio Grande Valley Intrastate |  | Unclassifiable/Attainment
Los Alamos County |  |  |  |
Rio Arriba County (part) see 40 CFR 81.239 |  |  |  |
Santa Fe County |  |  |  |
Taos County |  |  |  |
¹ This date is October 18, 2000, unless otherwise noted.

* * * * *

34. In § 81.333, the table entitled “New York—Ozone (1-Hour Standard)” is revised to read as follows:

§ 81.333 New York.

* * * * *

New York—Ozone (1-Hour Standard)
Designated area | Designation: Date ¹ | Designation: Type | Classification: Date ¹ | Classification: Type
Albany-Schenectady-Troy Area:
Albany County | (²) | Nonattainment | (²) | Marginal.
Greene County | (²) | Nonattainment | (²) | Marginal.
Montgomery County | (²) | Nonattainment | (²) | Marginal.
Rensselaer County | (²) | Nonattainment | (²) | Marginal.
Saratoga County | (²) | Nonattainment | (²) | Marginal.
Schenectady County | (²) | Nonattainment | (²) | Marginal.
Buffalo-Niagara Falls Area:
Erie County | (²) | Nonattainment | (²) | Marginal.
Niagara County | (²) | Nonattainment | (²) | Marginal.
Essex County Area:
Essex County (part) The portion of Whiteface Mountain above 4500 feet in elevation in Essex County | (²) | Nonattainment | (²) | Rural Transport (Marginal).
Jefferson County Area:
Jefferson County | (²) | Nonattainment | (²) | Marginal.
New York-Northern New Jersey-Long Island Area:
Bronx County | 11/15/90 | Nonattainment | 11/15/90 | Severe-17.
Kings County | 11/15/90 | Nonattainment | 11/15/90 | Severe-17.
Nassau County | 11/15/90 | Nonattainment | 11/15/90 | Severe-17.
New York County | 11/15/90 | Nonattainment | 11/15/90 | Severe-17.
Orange County (part) Blooming Grove, Chester, Highlands, Monroe, Tuxedo, Warwick, and Woodbury | 1/15/92 | Nonattainment | 1/15/92 | Severe-17.
Queens County | 11/15/90 | Nonattainment | 11/15/90 | Severe-17.
Richmond County | 11/15/90 | Nonattainment | 11/15/90 | Severe-17.
Rockland County | 11/15/90 | Nonattainment | 11/15/90 | Severe-17.
Suffolk County | 11/15/90 | Nonattainment | 11/15/90 | Severe-17.
Westchester County | 11/15/90 | Nonattainment | 11/15/90 | Severe-17.
Poughkeepsie Area:
Dutchess County | (²) | Nonattainment | (²) | Moderate.
Orange County (remainder) | (²) | Nonattainment | (²) | Moderate.
Putnam County | (²) | Nonattainment | (²) | Moderate.
AQCR 158 Central New York Intrastate (Remainder of) |  | Unclassifiable/Attainment
Cayuga County
Cortland County
Herkimer County
Lewis County
Madison County
Oneida County
Onondaga County
Oswego County
AQCR 159 Champlain Valley Interstate (Remainder of) |  | Unclassifiable/Attainment
Clinton County
Franklin County
Hamilton County
St. Lawrence County
Warren County
Washington County
AQCR 160 Genessee-Finger Lakes Intrastate |  | Unclassifiable/Attainment
Genessee County
Livingston County
Monroe County
Ontario County
Orleans County
Seneca County
Wayne County
Wyoming County
Yates County
AQCR 161 Hudson Valley Intrastate (Remainder of) |  | Unclassifiable/Attainment
Columbia County
Fulton County
Schoharie County
Ulster County
AQCR 163 Southern Tier East Intrastate |  | Unclassifiable/Attainment
Broome County
Chenango County
Delaware County
Otsego County
Sullivan County
Tioga County
AQCR 164 Southern Tier West Intrastate |  | Unclassifiable/Attainment
Allegany County
Cattaraugus County
Chautauqua County
Chemung County
Schuyler County
Steuben County
Tompkins County
¹ This date is October 18, 2000, unless otherwise noted.
² This date is January 16, 2001.

* * * * *

35. In § 81.334, the table entitled “North Carolina—Ozone (1-Hour Standard)” is revised to read as follows:

§ 81.334 North Carolina.

* * * * *

North Carolina—Ozone (1-Hour Standard)
Designated area | Designation: Date ¹ | Designation: Type | Classification: Date ¹ | Classification: Type
Statewide |  | Unclassifiable/Attainment
Alamance County
Alexander County
Alleghany County
Anson County
Ashe County
Avery County
Beaufort County
Bertie County
Bladen County
Brunswick County
Buncombe County
Burke County
Cabarrus County
Caldwell County
Camden County
Carteret County
Caswell County
Catawba County
Chatham County
Cherokee County
Chowan County
Clay County
Cleveland County
Columbus County
Craven County
Cumberland County
Currituck County
Dare County
Davidson County
Davie County
Durham County
Duplin County
Edgecombe County
Forsyth County
Franklin County
Gaston County
Gates County
Graham County
Granville County
Greene County
Guilford County
Halifax County
Harnett County
Haywood County
Henderson County
Hertford County
Hoke County
Hyde County
Iredell County
Jackson County
Johnston County
Jones County
Lee County
Lenoir County
Lincoln County
McDowell County
Macon County
Madison County
Martin County
Mecklenburg County
Mitchell County
Montgomery County
Moore County
Nash County
New Hanover County
Northhampton County
Onslow County
Orange County
Pamlico County
Pasquotank County
Pender County
Perquimans County
Person County
Pitt County
Polk County
Randolph County
Richmond County
Robeson County
Rockingham County
Rowan County
Rutherford County
Sampson County
Scotland County
Stanly County
Stokes County
Surry County
Swain County
Transylvania County
Tyrrell County
Union County
Vance County
Wake County
Warren County
Washington County
Watauga County
Wayne County
Wilkes County
Wilson County
Yadkin County
Yancey County
¹ This date is October 18, 2000, unless otherwise noted.

* * * * *

36. In § 81.335, the table entitled “North Dakota—Ozone (1-Hour Standard)” is revised to read as follows:

§ 81.335 North Dakota.

* * * * *

North Dakota—Ozone (1-Hour Standard)
Designated area | Designation: Date ¹ | Designation: Type | Classification: Date ¹ | Classification: Type
AQCR 130 Metropolitan Fargo-Moorhead Interstate.
Cass County |  | Unclassifiable/Attainment
Rest of State, AQCR 172 |  | Unclassifiable/Attainment
Adams County
Barnes County
Benson County
Billings County
Bottineau County
Bowman County
Burke County
Burleigh County
Cavalier County
Dickey County
Divide County
Dunn County
Eddy County
Emmons County
Foster County
Golden Valley County
Grand Forks County
Grant County
Griggs County
Hettinger County
Kidder County
La Moure County
Logan County
McHenry County
McIntosh County
McKenzie County
McLean County
Mercer County
Morton County
Mountrail County
Nelson County
Oliver County
Pembina County
Pierce County
Ramsey County
Ransom County
Renville County
Richland County
Rolette County
Sargent County
Sheridan County
Sioux County
Slope County
Stark County
Steele County
Stutsman County
Towner County
Traill County
Walsh County
Ward County
Wells County
Williams County
¹ This date is October 18, 2000, unless otherwise noted.

* * * * *

37. In § 81.336, the table entitled “Ohio—Ozone (1-Hour Standard)” is revised to read as follows:

§ 81.336 Ohio.

* * * * *

Ohio—Ozone (1-Hour Standard)
Designated area | Designation: Date ¹ | Designation: Type | Classification: Date ¹ | Classification: Type
Canton Area:
Stark County |  | Attainment
Cincinnati-Hamilton Area:
Butler County | 7/5/00 | Attainment
Clermont County | 7/5/00 | Attainment
Hamilton County | 7/5/00 | Attainment
Warren County | 7/5/00 | Attainment
Cleveland-Akron-Lorain Area: |  | Attainment
Ashtabula County
Cuyahoga County
Geauga County
Lake County
Lorain County
Medina County
Portage County
Summit County
Clinton County Area:
Clinton County |  | Attainment
Columbiana County Area:
Columbiana County |  | Attainment
Columbus Area:
Delaware County |  | Attainment
Franklin County |  | Attainment
Licking County |  | Attainment
Dayton-Springfield Area:
Clark County |  | Attainment
Greene County |  | Attainment
Miami County |  | Attainment
Montgomery County |  | Attainment
Preble County Area:
Preble County |  | Attainment
Steubenville Area:
Jefferson County |  | Attainment
Toledo Area:
Lucas County |  | Attainment
Wood County |  | Attainment
Youngstown-Warren-Sharon Area:
Mahoning County |  | Attainment
Trumbull County |  | Attainment
Adams County |  | Unclassifiable/Attainment
Allen County |  | Unclassifiable/Attainment
Ashland County |  | Unclassifiable/Attainment
Athens County |  | Unclassifiable/Attainment
Auglaize County |  | Unclassifiable/Attainment
Belmont County |  | Unclassifiable/Attainment
Brown County |  | Unclassifiable/Attainment
Carroll County |  | Unclassifiable/Attainment
Champaign County |  | Unclassifiable/Attainment
Coshocton County |  | Unclassifiable/Attainment
Crawford County |  | Unclassifiable/Attainment
Darke County |  | Unclassifiable/Attainment
Defiance County |  | Unclassifiable/Attainment
Erie County |  | Unclassifiable/Attainment
Fairfield County |  | Unclassifiable/Attainment
Fayette County |  | Unclassifiable/Attainment
Fulton County |  | Unclassifiable/Attainment
Gallia County |  | Unclassifiable/Attainment
Guernsey County |  | Unclassifiable/Attainment
Hancock County |  | Unclassifiable/Attainment
Hardin County |  | Unclassifiable/Attainment
Harrison County |  | Unclassifiable/Attainment
Henry County |  | Unclassifiable/Attainment
Highland County |  | Unclassifiable/Attainment
Hocking County |  | Unclassifiable/Attainment
Holmes County |  | Unclassifiable/Attainment
Huron County |  | Unclassifiable/Attainment
Jackson County |  | Unclassifiable/Attainment
Knox County |  | Unclassifiable/Attainment
Lawrence County |  | Unclassifiable/Attainment
Logan County |  | Unclassifiable/Attainment
Madison County |  | Unclassifiable/Attainment
Marion County |  | Unclassifiable/Attainment
Meigs County |  | Unclassifiable/Attainment
Mercer County |  | Unclassifiable/Attainment
Monroe County |  | Unclassifiable/Attainment
Morgan County |  | Unclassifiable/Attainment
Morrow County |  | Unclassifiable/Attainment
Muskingum County |  | Unclassifiable/Attainment
Noble County |  | Unclassifiable/Attainment
Ottawa County |  | Unclassifiable/Attainment
Paulding County |  | Unclassifiable/Attainment
Perry County |  | Unclassifiable/Attainment
Pickaway County |  | Unclassifiable/Attainment
Pike County |  | Unclassifiable/Attainment
Putnam County |  | Unclassifiable/Attainment
Richland County |  | Unclassifiable/Attainment
Ross County |  | Unclassifiable/Attainment
Sandusky County |  | Unclassifiable/Attainment
Scioto County |  | Unclassifiable/Attainment
Seneca County |  | Unclassifiable/Attainment
Shelby County |  | Unclassifiable/Attainment
Tuscarawas County |  | Unclassifiable/Attainment
Union County |  | Unclassifiable/Attainment
Van Wert County |  | Unclassifiable/Attainment
Vinton County |  | Unclassifiable/Attainment
Washington County |  | Unclassifiable/Attainment
Wayne County |  | Unclassifiable/Attainment
Williams County |  | Unclassifiable/Attainment
Wyandot County |  | Unclassifiable/Attainment
¹ This date is October 18, 2000, unless otherwise noted.
² Attainment date extended to November 15, 1998.

* * * * *

38. In § 81.337, the table entitled “Oklahoma—Ozone (1-Hour Standard)” is revised to read as follows:

§ 81.337 Oklahoma.

* * * * *

Oklahoma—Ozone (1-Hour Standard)
Designated area | Designation: Date ¹ | Designation: Type | Classification: Date ¹ | Classification: Type
AQCR 017 Metropolitan Fort Smith Interstate |  | Unclassifiable/Attainment
Adair County
Cherokee County
Le Flore County
Sequoyah County
AQCR 022 Shreveport-Texarkana-Tyler Intrastate |  | Unclassifiable/Attainment
McCurtain County
AQCR 184 Central Oklahoma Intrastate (part)
Cleveland County |  | Unclassifiable/Attainment
Oklahoma County |  | Unclassifiable/Attainment
AQCR 184 Central Oklahoma Intrastate (Remainder of) |  | Unclassifiable/Attainment
Canadian County
Grady County
Kingfisher County
Lincoln County
Logan County
McClain County
Pottawatomie County
AQCR 185 North Central Oklahoma Intrastate |  | Unclassifiable/Attainment
Garfield County
Grant County
Kay County
Noble County
Payne County
AQCR 186 Northeastern Oklahoma Intrastate |  | Unclassifiable/Attainment
Craig County
Creek County
Delaware County
Mayes County
Muskogee County
Nowata County
Okmulgee County
Osage County
Ottawa County
Pawnee County
Rogers County
Tulsa County
Wagoner County
Washington County
AQCR 187 Northwestern Oklahoma Intrastate |  | Unclassifiable/Attainment
Alfalfa County
Beaver County
Blaine County
Cimarron County
Custer County
Dewey County
Ellis County
Harper County
Major County
Roger Mills County
Texas County
Woods County
Woodward County
AQCR 188 Southeastern Oklahoma Intrastate |  | Unclassifiable/Attainment
Atoka County
Bryan County
Carter County
Choctaw County
Coal County
Garvin County
Haskell County
Hughes County
Johnston County
Latimer County
Love County
Marshall County
McIntosh County
Murray County
Okfuskee County
Pittsburg County
Pontotoc County
Pushmataha County
Seminole County
AQCR 189 Southwestern Oklahoma Intrastate |  | Unclassifiable/Attainment
Beckham County
Caddo County
Comanche County
Cotton County
Greer County
Harmon County
Jackson County
Jefferson County
Kiowa County
Stephens County
Tillman County
Washita County
¹ This date is October 18, 2000, unless otherwise noted.

* * * * *

39. In § 81.338, the table entitled “Oregon—Ozone (1-Hour Standard)” is revised to read as follows:

§ 81.338 Oregon.

* * * * *

Oregon—Ozone (1-Hour Standard)
Designated area | Designation: Date ¹ | Designation: Type | Classification: Date ¹ | Classification: Type
Portland-Vancouver AQMA Area: |  | Attainment
Air Quality Maintenance Area
Clackamas County (part)
Multnomah County (part)
Washington County (part)
Salem Area:
Salem Area Transportation Study
Marion County (part) | (²) | Nonattainment | (²) | Incomplete Data.
Polk County | (²) | Nonattainment | (²) | Incomplete Data.
AQCR 190 Central Oregon Intrastate (Remainder of) |  | Unclassifiable/Attainment
Crook County
Deschutes County
Hood River County
Jefferson County
Klamath County
Lake County
Sherman County
Wasco County
AQCR 191 Eastern Oregon Intrastate |  | Unclassifiable/Attainment
Baker County
Gilliam County
Grant County
Harney County
Malheur County
Morrow County
Umatilla County
Union County
Wallowa County
Wheeler County
AQCR 192 Northwest Oregon Intrastate |  | Unclassifiable/Attainment
Clatsop County
Lincoln County
Tillamook County
AQCR 193 Portland Interstate (part) |  | Unclassifiable/Attainment
Lane County (part) Eugene Springfield Air Quality Maintenance Area
AQCR 193 Portland Interstate (Remainder of) |  | Unclassifiable/Attainment
Benton County
Clackamas County (part) Remainder of county
Columbia County
Lane County (part) Remainder of county
Linn County
Marion County (part) area outside the Salem Area Transportation Study
Multnomah County (part) Remainder of county
Polk County (part) area outside the Salem Area Transportation Study
Washington County (part) Remainder of county
Yamhill County
AQCR 194 Southwest Oregon Intrastate (part)
Jackson County (part)
Medford-Ashland Air Quality Maintenance Area |  | Unclassifiable/Attainment
AQCR 194 Southwest Oregon Intrastate (Remainder of) |  | Unclassifiable/Attainment
Coos County
Curry County
Douglas County
Jackson County (part) Remainder of county
Josephine County
¹ This date is October 18, 2000, unless otherwise noted.
² This date is January 16, 2001.

* * * * *

40. In § 81.339, the table entitled “Pennsylvania—Ozone (1-Hour Standard)” is revised to read as follows:

§ 81.339 Pennsylvania.

* * * * *

Pennsylvania—Ozone (1-Hour Standard)
Designated area | Designation: Date ¹ | Designation: Type | Classification: Date ¹ | Classification: Type
Allentown-Bethlehem-Easton Area:
Carbon County | (³) | Nonattainment | (³) | Marginal.
Lehigh County | (³) | Nonattainment | (³) | Marginal.
Northampton County | (³) | Nonattainment | (³) | Marginal.
Altoona Area:
Blair County | (³) | Nonattainment | (³) | Marginal.
Crawford County Area:
Crawford County | (³) | Nonattainment | (³) | Incomplete Data.
Erie Area:
Erie County | (³) | Nonattainment | (³) | Marginal.
Franklin County Area:
Franklin County | (³) | Nonattainment | (³) | Incomplete Data.
Greene County Area:
Greene County | (³) | Nonattainment | (³) | Incomplete Data.
Harrisburg-Lebanon-Carlisle Area:
Cumberland County | (³) | Nonattainment | (³) | Marginal.
Dauphin County | (³) | Nonattainment | (³) | Marginal.
Lebanon County | (³) | Nonattainment | (³) | Marginal.
Perry County | (³) | Nonattainment | (³) | Marginal.
Johnstown Area:
Cambria County | (³) | Nonattainment | (³) | Marginal.
Somerset County | (³) | Nonattainment | (³) | Marginal.
Juniata County Area:
Juniata County | (³) | Nonattainment | (³) | Incomplete Data.
Lancaster Area:
Lancaster County | 11/15/90 | Nonattainment | 11/15/90 | Marginal.
Lawrence County Area:
Lawrence County | (³) | Nonattainment | (³) | Incomplete Data.
Northumberland County Area:
Northumberland County | (³) | Nonattainment | (³) | Incomplete Data.
Philadelphia-Wilmington-Trenton Area:
Bucks County | 11/15/90 | Nonattainment | 11/15/90 | Severe-15.
Chester County | 11/15/90 | Nonattainment | 11/15/90 | Severe-15.
Delaware County | 11/15/90 | Nonattainment | 11/15/90 | Severe-15.
Montgomery County | 11/15/90 | Nonattainment | 11/15/90 | Severe-15.
Philadelphia County | 11/15/90 | Nonattainment | 11/15/90 | Severe-15.
Pike County Area:
Pike County | (³) | Nonattainment | (³) | Incomplete Data.
Pittsburgh-Beaver Valley Area:
Allegheny County | 11/15/90 | Nonattainment | 11/15/90 | Moderate ².
Armstrong County | 11/15/90 | Nonattainment | 11/15/90 | Moderate ².
Beaver County | 11/15/90 | Nonattainment | 11/15/90 | Moderate ².
Butler County | 11/15/90 | Nonattainment | 11/15/90 | Moderate ².
Fayette County | 11/15/90 | Nonattainment | 11/15/90 | Moderate ².
Washington County | 11/15/90 | Nonattainment | 11/15/90 | Moderate ².
Westmoreland County | 11/15/90 | Nonattainment | 11/15/90 | Moderate ².
Reading Area:
Berks County |  | Unclassifiable/Attainment
Schuylkill County Area:
Schuylkill County | (³) | Nonattainment | (³) | Incomplete Data.
Scranton-Wilkes-Barre Area:
Columbia County | (³) | Nonattainment | (³) | Marginal.
Lackawanna County | (³) | Nonattainment | (³) | Marginal.
Luzerne County | (³) | Nonattainment | (³) | Marginal.
Monroe County | (³) | Nonattainment | (³) | Marginal.
Wyoming County | (³) | Nonattainment | (³) | Marginal.
Snyder County Area:
Snyder County | (³) | Nonattainment | (³) | Incomplete Data.
Susquehanna County Area:
Susquehanna County | (³) | Nonattainment | (³) | Incomplete Data.
Warren County Area:
Warren County | (³) | Nonattainment | (³) | Incomplete Data.
Wayne County Area:
Wayne County | (³) | Nonattainment | (³) | Incomplete Data.
York Area:
Adams County | (³) | Nonattainment | (³) | Marginal.
York County | (³) | Nonattainment | (³) | Marginal.
Youngstown-Warren-Sharon Area:
Mercer County | (³) | Nonattainment | (³) | Marginal.
AQCR 151 NE Pennsylvania Intrastate (Remainder of):
Bradford County |  | Unclassifiable/Attainment
Sullivan County |  | Unclassifiable/Attainment
Tioga County |  | Unclassifiable/Attainment
AQCR 178 NW Pennsylvania Interstate (Remainder of):
Cameron County |  | Unclassifiable/Attainment
Clarion County |  | Unclassifiable/Attainment
Clearfield County |  | Unclassifiable/Attainment
Elk County |  | Unclassifiable/Attainment
Forest County |  | Unclassifiable/Attainment
Jefferson County |  | Unclassifiable/Attainment
McKean County |  | Unclassifiable/Attainment
Potter County |  | Unclassifiable/Attainment
Venango County |  | Unclassifiable/Attainment
AQCR 195 Central Pennsylvania Intrastate (Remainder of):
Bedford County |  | Unclassifiable/Attainment
Centre County |  | Unclassifiable/Attainment
Clinton County |  | Unclassifiable/Attainment
Fulton County |  | Unclassifiable/Attainment
Huntingdon County |  | Unclassifiable/Attainment
Lycoming County |  | Unclassifiable/Attainment
Mifflin County |  | Unclassifiable/Attainment
Montour County |  | Unclassifiable/Attainment
Union County |  | Unclassifiable/Attainment
AQCR 197 SW Pennsylvania Intrastate (Remainder of):
Indiana County |  | Unclassifiable/Attainment
¹ This date is October 18, 2000, unless otherwise noted.
² Attainment date extended to 11/15/97.
³ This date is January 16, 2001.

* * * * *

41. In § 81.340, the table entitled “Rhode Island—Ozone (1-Hour Standard)” is revised to read as follows:

§ 81.340 Rhode Island.

* * * * *

Rhode Island—Ozone (1-Hour Standard)
Designated area | Designation: Date ¹ | Designation: Type | Classification: Date ¹ | Classification: Type
Providence (all of RI) Area:
Bristol County |  | Nonattainment |  | Serious.
Kent County |  | Nonattainment |  | Serious.
Newport County |  | Nonattainment |  | Serious.
Providence County |  | Nonattainment |  | Serious.
Washington County |  | Nonattainment |  | Serious.
¹ This date is January 16, 2001, unless otherwise noted.

* * * * *

42. In § 81.341, the table entitled “South Carolina—Ozone (1-Hour Standard)” is revised to read as follows:

§ 81.341 South Carolina.

* * * * *

South Carolina—Ozone (1-Hour Standard)
Designated area | Designation: Date ¹ | Designation: Type | Classification: Date ¹ | Classification: Type
Statewide |  | Unclassifiable/Attainment
Abbeville County
Aiken County
Allendale County
Anderson County
Bamberg County
Barnwell County
Beaufort County
Berkeley County
Calhoun County
Charleston County
Cherokee County
Chester County
Chesterfield County
Clarendon County
Colleton County
Darlington County
Dillon County
Dorchester County
Edgefield County
Fairfield County
Florence County
Georgetown County
Greenville County
Greenwood County
Hampton County
Horry County
Jasper County
Kershaw County
Lancaster County
Laurens County
Lee County
Lexington County
Marion County
Marlboro County
McCormick County
Newberry County
Oconee County
Orangeburg County
Pickens County
Richland County
Saluda County
Spartanburg County
Sumter County
Union County
Williamsburg County
York County
¹ This date is October 18, 2000, unless otherwise noted.

* * * * *

43. In § 81.342, the table entitled “South Dakota—Ozone (1-Hour Standard)” is revised to read as follows:

§ 81.342 South Dakota.

* * * * *

South Dakota—Ozone (1-Hour Standard)
Designated area | Designation: Date ¹ | Designation: Type | Classification: Date ¹ | Classification: Type
Statewide |  | Unclassifiable/Attainment
Aurora County
Beadle County
Bennett County
Bon Homme County
Brookings County
Brown County
Brule County
Buffalo County
Butte County
Campbell County
Charles Mix County
Clark County
Clay County
Codington County
Corson County
Custer County
Davison County
Day County
Deuel County
Dewey County
Douglas County
Edmunds County
Fall River County
Faulk County
Grant County
Gregory County
Haakon County
Hamlin County
Hand County
Hanson County
Harding County
Hughes County
Hutchinson County
Hyde County
Jackson County
Jerauld County
Jones County
Kingsbury County
Lake County
Lawrence County
Lincoln County
Lyman County
Marshall County
McCook County
McPherson County
Meade County
Mellette County
Miner County
Minnehaha County
Moody County
Pennington County
Perkins County
Potter County
Roberts County
Sanborn County
Shannon County
Spink County
Stanley County
Sully County
Todd County
Tripp County
Turner County
Union County
Walworth County
Yankton County
Ziebach County
¹ This date is October 18, 2000, unless otherwise noted.

* * * * *

44. In § 81.343, the table entitled “Tennessee—Ozone (1-Hour Standard)” is revised to read as follows:

§ 81.343 Tennessee.

* * * * *

Tennessee—Ozone (1-Hour Standard)
Designated area | Designation: Date ¹ | Designation: Type | Classification: Date ¹ | Classification: Type
Jefferson County Area:
Jefferson County | 11/15/90 | Unclassifiable/Attainment | 11/15/90
Statewide |  | Unclassifiable/Attainment
Anderson County
Bedford County
Benton County
Bledsoe County
Blount County
Bradley County
Campbell County
Cannon County
Carroll County
Carter County
Cheatham County
Chester County
Claiborne County
Clay County
Cocke County
Coffee County
Crockett County
Cumberland County
DeKalb County
Decatur County
Dickson County
Davidson County
Dyer County
Fayette County
Fentress County
Franklin County
Gibson County
Giles County
Grainger County
Greene County
Grundy County
Hamblen County
Hamilton County
Hancock County
Hardeman County
Hardin County
Hawkins County
Haywood County
Henderson County
Henry County
Hickman County
Houston County
Humphreys County
Jackson County
Johnson County
Knox County
Lake County
Lauderdale County
Lawrence County
Lewis County
Lincoln County
Loudon County
Macon County
Madison County
Marion County
Marshall County
Maury County
McMinn County
McNairy County
Meigs County
Monroe County
Montgomery County
Moore County
Morgan County
Obion County
Overton County
Perry County
Pickett County
Polk County
Putnam County
Rhea County
Roane County
Robertson County
Rutherford County
Scott County
Sequatchie County
Sevier County
Shelby County
Smith County
Stewart County
Sullivan County
Sumner County
Tipton County
Trousdale County
Unicoi County
Union County
Van Buren County
Warren County
Washington County
Wayne County
Weakley County
White County
Williamson County
Wilson County
¹ This date is October 18, 2000, unless otherwise noted.

* * * * *

45. In § 81.344, the table entitled “Texas—Ozone (1-Hour Standard)” is revised to read as follows:

§ 81.344 Texas.

* * * * *

Texas—Ozone (1-Hour Standard)
Designated area | Designation: Date ¹ | Designation: Type | Classification: Date ¹ | Classification: Type
Beaumont/Port Arthur Area:
Hardin County | 11/15/90 | Nonattainment | 6/03/96 | Moderate.
Jefferson County | 11/15/90 | Nonattainment | 6/03/96 | Moderate.
Orange County | 11/15/90 | Nonattainment | 6/03/96 | Moderate.
Dallas-Fort Worth Area:
Collin County | 11/15/90 | Nonattainment | 3/20/98 | Serious.
Dallas County | 11/15/90 | Nonattainment | 3/20/98 | Serious.
Denton County | 11/15/90 | Nonattainment | 3/20/98 | Serious.
Tarrant County | 11/15/90 | Nonattainment | 3/20/98 | Serious.
El Paso Area:
El Paso County | 11/15/90 | Nonattainment | 11/15/90 | Serious.
Houston-Galveston-Brazoria Area:
Brazoria County | 11/15/90 | Nonattainment | 11/15/90 | Severe-17.
Chambers County | 11/15/90 | Nonattainment | 11/15/90 | Severe-17.
Fort Bend County | 11/15/90 | Nonattainment | 11/15/90 | Severe-17.
Galveston County | 11/15/90 | Nonattainment | 11/15/90 | Severe-17.
Harris County | 11/15/90 | Nonattainment | 11/15/90 | Severe-17.
Liberty County | 11/15/90 | Nonattainment | 11/15/90 | Severe-17.
Montgomery County | 11/15/90 | Nonattainment | 11/15/90 | Severe-17.
Waller County | 11/15/90 | Nonattainment | 11/15/90 | Severe-17.
Longview Area:
Gregg County | 11/15/90 | Unclassifiable/Attainment | 11/15/90 |
Victoria Area:
Victoria County |  | Attainment
AQCR 022 Shreveport-Texarkana-Tyler Interstate |  | Unclassifiable/Attainment
Anderson County
Bowie County
Camp County
Cass County
Cherokee County
Delta County
Franklin County
Gregg County
Harrison County
Henderson County
Hopkins County
Lamar County
Marion County
Morris County
Panola County
Rains County
Red River County
Rusk County
Smith County
Titus County
Upshur County
Van Zandt County
Wood County
AQCR 106 S Louisiana-SE Texas Interstate (Remainder of) |  | Unclassifiable/Attainment
Angelina County, Houston County,
Jasper County, Nacogdoches County,
Newton County, Polk County, Sabine
County, San Augustine County, San
Jacinto County, Shelby County,
Trinity County, Tyler County
AQCR 153 El Paso-Las Cruces-Alamogordo Interstate |  | Unclassifiable/Attainment
Brewster County
Culberson County
Hudspeth County
Jeff Davis County
Presidio County
AQCR 210 Abilene-Wichita Falls Intrastate |  | Unclassifiable/Attainment
Archer County, Baylor County, Brown
County, Callahan County, Clay
County, Coleman County, Comanche
County, Cottle County, Eastland
County, Fisher County, Foard
County, Hardeman County, Haskell
County, Jack County, Jones County,
Kent County, Knox County, Mitchell
County, Montague County, Nolan
County, Runnels County, Scurry
County, Shackelford County,
Stephens County, Stonewall County,
Taylor County, Throckmorton County,
Wichita County, Wilbarger County,
Young County
AQCR 211 Amarillo-Lubbock Intrastate |  | Unclassifiable/Attainment
Armstrong County, Bailey County,
Briscoe County, Carson County,
Castro County, Childress County,
Cochran County, Collingsworth
County, Crosby County, Dallam
County, Deaf Smith County, Dickens
County, Donley County, Floyd
County, Garza County, Gray County,
Hale County, Hall County, Hansford
County, Hartley County, Hemphill
County, Hockley County, Hutchinson
County, King County, Lamb County,
Lipscomb County, Lubbock County,
Lynn County, Moore County, Motley
County, Ochiltree County, Oldham
County, Parmer County, Potter
County, Randall County, Roberts
County, Sherman County, Swisher
County, Terry County, Wheeler
County, Yoakum County
AQCR 212 Austin-Waco Intrastate |  | Unclassifiable/Attainment
Bastrop County
Bell County
Blanco County
Bosque County
Brazos County
Burleson County
Burnet County
Caldwell County
Coryell County
Falls County
Fayette County
Freestone County
Grimes County
Hamilton County
Hays County
Hill County
Lampasas County
Lee County
Leon County
Limestone County
Llano County
Madison County
McLennan County
Milam County
Mills County
Robertson County
San Saba County
Travis County
Washington County
Williamson County
AQCR 213 Brownsville-Laredo Intrastate |  | Unclassifiable/Attainment
Cameron County
Hidalgo County
Jim Hogg County
Starr County
Webb County
Willacy County
Zapata County
AQCR 214 Corpus Christi-Victoria Intrastate (Remainder of) |  | Unclassifiable/Attainment
Aransas County, Bee County, Brooks
County, Calhoun County, De Witt
County, Duval County, Goliad
County, Gonzales County, Jackson
County, Jim Wells County, Kenedy
County, Kleberg County, Lavaca
County, Live Oak County, McMullen
County, Refugio County, San
Patricio County,
AQCR 214 Corpus Christi-Victoria Intrastate (part) |  | Unclassifiable/Attainment
Nueces County
AQCR 215 Metro Dallas-Fort Worth Intrastate (Remainder of) |  | Unclassifiable/Attainment
Cooke County
Ellis County
Erath County
Fannin County
Grayson County
Hood County
Hunt County
Johnson County
Kaufman County
Navarro County
Palo Pinto County
Parker County
Rockwall County
Somervell County
Wise County
AQCR 216 Metro Houston-Galveston Intrastate (Remainder of) |  | Unclassifiable/Attainment
Austin County, Colorado County,
Matagorda County, Walker County,
Wharton County
AQCR 217 Metro San Antonio Intrastate (part) |  | Unclassifiable/Attainment
Bexar County
AQCR 217 Metro San Antonio Intrastate (Remainder of) |  | Unclassifiable/Attainment
Atascosa County, Bandera County,
Comal County, Dimmit County,
Edwards County, Frio County,
Gillespie County, Guadalupe County,
Karnes County, Kendall County, Kerr
County, Kinney County, La Salle
County, Maverick County, Medina
County, Real County, Uvalde County,
Val Verde County, Wilson County,
Zavala County
AQCR 218 Midland-Odessa-San Angelo Intrastate (part) |  | Unclassifiable/Attainment
Ector County
AQCR 218 Midland-Odessa-San Angelo Intrastate (Remainder of) |  | Unclassifiable/Attainment
Andrews County, Borden County, Coke
County, Concho County, Crane
County, Crockett County, Dawson
County, Gaines County, Glasscock
County, Howard County, Irion
County, Kimble County, Loving
County, Martin County, Mason
County, McCulloch County, Menard
County, Midland County, Pecos
County, Reagan County, Reeves
County, Schleicher County, Sterling
County, Sutton County, Terrell
County, Tom Green County, Upton
County, Ward County, Winkler County
¹ This date is October 18, 2000, unless otherwise noted.

* * * * *

46. In § 81.345, the table entitled “Utah—Ozone (1-Hour Standard)” is revised to read as follows:

§ 81.345 Utah.

* * * * *

Utah—Ozone (1-Hour Standard)
Designated area | Designation: Date ¹ | Designation: Type | Classification: Date ¹ | Classification: Type
Salt Lake City Area:
Davis County |  | Attainment
Salt Lake County |  | Attainment
Rest of State |  | Unclassifiable/Attainment
Beaver County
Box Elder County
Cache County
Carbon County
Daggett County
Duchesne County
Emery County
Garfield County
Grand County
Iron County
Juab County
Kane County
Millard County
Morgan County
Piute County
Rich County
San Juan County
Sanpete County
Sevier County
Summit County
Tooele County
Uintah County
Utah County
Wasatch County
Washington County
Wayne County
Weber County
¹ This date is October 18, 2000, unless otherwise noted.

* * * * *

47. In § 81.346, the table entitled “Vermont—Ozone (1-Hour Standard)” is revised to read as follows:

§ 81.346 Vermont.

* * * * *

Vermont—Ozone (1-Hour Standard)
Designated area | Designation: Date ¹ | Designation: Type | Classification: Date ¹ | Classification: Type
AQCR 159 Champlain Calley Interstate (part)
Addison County Unclassifiable |  | Unclassifiable/Attainment
Chittenden County |  | Unclassifiable/Attainment
AQCR 159 Champlain Calley Interstate (Remainder of) |  | Unclassifiable/Attainment
Franklin County
Grand Isle County
Rutland County
AQCR 221 Vermont Intrastate (part) |  | Unclassifiable/Attainment
Windsor County
AQCR 221 Vermont Intrastate (Remainder of) |  | Unclassifiable/Attainment
Bennington County
Caledonia County
Essex County
Lamoille County
Orange County
Orleans County
Washington County
Windham County
¹ This date is October 18, 2000, unless otherwise noted.

* * * * *

48. In § 81.347, the table entitled “Virginia—Ozone (1-Hour Standard)” is revised to read as follows:

§ 81.347 Virginia.

* * * * *

Virginia—Ozone (1-Hour Standard)
Designated area | Designation: Date ¹ | Designation: Type | Classification: Date ¹ | Classification: Type
Norfolk-Virginia-Beach Newport News (Hampton Roads) Area.
Chesapeake |  | Attainment
Hampton |  | Attainment
James City County |  | Attainment
Newport News |  | Attainment
Norfolk |  | Attainment
Poquoson |  | Attainment
Portsmouth |  | Attainment
Suffolk |  | Attainment
Virginia Beach |  | Attainment
Williamsburg |  | Attainment
York County |  | Attainment
Richmond Area:
Charles City County (part) Beginning at the intersection of State Route 156 and the Henrico/Charles City County Line, proceeding south along State Route 5/156 to the intersection with State Route 106/ 156, proceeding south along Route 106/156 to the intersection with the Prince George/Charles City County line, proceeding west along the Prince George/Charles City County line to the intersection with the Chesterfield/Charles City County line, proceeding north along the Chesterfield/Charles City County line to the intersection with the Henrico/Charles City County line, proceeding north along the Henrico/Charles City County line to State Route 156. |  | Attainment
Chesterfield County |  | Attainment
Colonial Heights |  | Attainment
Hanover County |  | Attainment
Henrico County |  | Attainment
Hopewell |  | Attainment
Richmond |  | Attainment
Smyth County Area:
Smyth County (part) The portion of White Top Mountain above the 4,500 foot elevation in Smyth County. | (²) | Nonattainment | (²) | Rural transport (Marginal).
Washington Area:
Alexandria | 11/15/90 | Nonattainment | 11/15/90 | Serious.
Arlington County | 11/15/90 | Nonattainment | 11/15/90 | Serious.
Fairfax | 11/15/90 | Nonattainment | 11/15/90 | Serious.
Fairfax County | 11/15/90 | Nonattainment | 11/15/90 | Serious.
Falls Church | 11/15/90 | Nonattainment | 11/15/90 | Serious.
Loudoun County | 11/15/90 | Nonattainment | 11/15/90 | Serious.
Manassas | 11/15/90 | Nonattainment | 11/15/90 | Serious.
Manassas Park | 11/15/90 | Nonattainment | 11/15/90 | Serious.
Prince William County | 11/15/90 | Nonattainment | 11/15/90 | Serious.
Stafford County | 11/15/90 | Nonattainment | 11/15/90 | Serious.
AQCR 207 Eastern Tennessee—SW Virginia Interstate (Remainder of) |  | Unclassifiable/Attainment
Bland County
Bristol
Buchanan County
Carroll County
Dickenson County
Galax
Grayson County
Lee County
Norton
Russell County
Scott County
Smyth County (part) Remainder of county
Tazewell County
Washington County
Wise County
Wythe County
AQCR 222 Central Virginia Intrastate |  | Unclassifiable/Attainment
Amelia County
Amherst County
Appomattox County
Bedford
Bedford County
Brunswick County
Buckingham County
Campbell County
Charlotte County
Cumberland County
Danville
Franklin County
Halifax County
Henry County
Lunenburg County
Lynchburg
Martinsville
Mecklenburg County
Nottoway County
Patrick County
Pittsylvania County
Prince Edward County
South Boston
AQCR 223 Hampton Roads Intrastate (Remainder of). |  | Unclassifiable/Attainment
Franklin
Isle Of Wight County
Southampton County
AQCR 224 NE Virginia Intrastate (Remainder of). |  | Unclassifiable/Attainment
Accomack County
Albemarle County
Caroline County
Charlottesville
Culpeper County
Essex County
Fauquier County
Fluvanna County
Fredericksburg
Gloucester County
Greene County
King and Queen County
King George County
King William County
Lancaster County
Louisa County
Madison County
Mathews County
Middlesex County
Nelson County
Northampton County
Northumberland County
Orange County
Rappahannock County
Richmond County
Spotsylvania County
Westmoreland County
AQCR 225 State Capital Intrastate (Remainder of)
Charles City County (part) |  | Unclassifiable/Attainment
Remainder of County
Dinwiddie County
Emporia
Goochland County
Greensville County
New Kent County
Petersburg
Powhatan County
Prince George County
Surry County
Sussex County
AQCR 226 Valley of Virginia Intrastate |  | Unclassifiable/Attainment
Alleghany County
Augusta County
Bath County
Botetourt County
Buena Vista
Clarke County
Clifton Forge
Covington County
Craig County
Floyd County
Frederick County
Giles County
Harrisonburg
Highland County
Lexington
Montgomery County
Page County
Pulaski County
Radford
Roanoke
Roanoke County
Rockbridge County
Rockingham County
Salem
Shenandoah County
Staunton
Warren County
Waynesboro
Winchester
¹ This date is October 18, 2000, unless otherwise noted.
² This date is January 16, 2001.

* * * * *

49. In § 81.348, the table entitled “Washington—Ozone (1-Hour Standard)” is revised to read as follows:

§ 81.348 Washington.

* * * * *

Washington—Ozone (1-Hour Standard)
Designated area | Designation: Date ¹ | Designation: Type | Classification: Date ¹ | Classification: Type
Portland-Vancouver AQMA Area:
Clark County (part) Air Quality Maintenance Area |  | Attainment
Seattle-Tacoma Area:
The following boundary includes all of Pierce County, and all of King County except a small portion on the north-east corner and the western portion of Snohomish County: Starting at the mouth of the Nisqually river extend northwesterly along the Pierce County line to the southernmost point of the west county line of King County; thence northerly along the county line to the southernmost point of the west county line of Snohomish County; thence northerly along the county line to the intersection with SR 532; thence easterly along the north line of SR 532 to the intersection of I-5, continuing east along the same road now identified as Henning Rd., to the intersection with SR 9 at Bryant; thence continuing easterly on Bryant East Rd. and Rock Creek Rd., also identified as Grandview Rd., approximately 3 miles to the point at which it is crossed by the existing BPA electrical transmission line; thence southeasterly along the BPA transmission line approximately 8 miles to point of the crossing of the south fork of the Stillaguamish River; thence continuing in a southeasterly direction in a meander line following the bed of the River to Jordan Road; southerly along Jordan Road to the north city limits of Granite Falls; thence following the north and east city limits to 92nd St. N.E. and Menzel Lake Rd.; thence south-southeasterly along the Menzel Lake Rd. and the Lake Roesiger Rd. a distance of approximately 6 miles to the northernmost point of Lake Roesiger; thence southerly along a meander line following the middle of the Lake and Roesiger Creek to Woods Creek; thence southerly along a meander line following the bed of the Creek approximately 6 miles to the point the Creek is crossed by the existing BPA electrical transmission line; thence easterly along the BPA transmission line approximately 0.2 miles; thence southerly along the BPA Chief Joseph-Covington electrical transmission line approximately 3 miles to the north line of SR 2; thence southeasterly along SR 2 to the intersection with the east county line of King County; thence south along the county line to the northernmost point of the east county line of Pierce County; thence along the county line to the point of beginning at the mouth of the Nisqually River |  | Attainment
AQCR 062 E Washington-N Idaho Interstate (part) |  | Attainment
Spokane County |  | Unclassifiable/Attainment
AQCR 062 E Washington-N Idaho Interstate (Remainder of) |  | Unclassifiable/Attainment
Adams County
Asotin County
Columbia County
Garfield County
Grant County
Lincoln County
Whitman County
AQCR 193 Portland Interstate (Remainder of) |  | Unclassifiable/Attainment
Clark County (part) Remainder of county
Cowlitz County
Lewis County
Skamania County
Wahkiakum County
AQCR 227 Northern Washington Intrastate |  | Unclassifiable/Attainment
Chelan County
Douglas County
Ferry County
Okanogan County
Pend Oreille County
Stevens County
AQCR 228 Olympic-Northwest Washington Intrastate |  | Unclassifiable/Attainment
Clallam County
Grays Harbor County
Island County
Jefferson County
Mason County
Pacific County
San Juan County
Skagit County
Thurston County
Whatcom County
AQCR 229 Puget Sound Intrastate (Remainder of) |  | Unclassifiable/Attainment
King County (Part) Remainder of County
Kitsap County
Snohomish County (Part) Remainder of County
AQCR 230 South Central Washington Intrastate |  | Unclassifiable/Attainment
Benton County
Franklin County
Kittitas County
Klickitat County
Walla Walla County
Yakima County
¹ This date is October 18, 2000, unless otherwise noted.

* * * * *

50. In § 81.349, the table entitled “West Virginia—Ozone (1-Hour Standard)” is revised to read as follows:

§ 81.349 West Virginia.

* * * * *

West Virginia—Ozone (1-Hour Standard)
Designated area | Designation: Date ¹ | Designation: Type | Classification: Date ¹ | Classification: Type
Charleston Area:
Kanawha County |  | Unclassifiable/Attainment
Putnam County |  | Unclassifiable/Attainment
Greenbrier Area:
Greenbrier County |  | Unclassifiable/Attainment
Huntington-Ashland Area:
Cabell County |  | Unclassifiable/Attainment
Wayne County |  | Unclassifiable/Attainment
Parkersburg-Marietta Area:
Wood County |  | Unclassifiable/Attainment
Rest of State |  | Unclassifiable/Attainment
Barbour County
Berkeley County
Boone County
Braxton County
Brooke County
Calhoun County
Clay County
Doddridge County
Fayette County
Gilmer County
Grant County
Hampshire County
Hancock County
Hardy County
Harrison County
Jackson County
Jefferson County
Lewis County
Lincoln County
Logan County
Marion County
Marshall County
Mason County
McDowell County
Mercer County
Mineral County
Mingo County
Monongalia County
Monroe County
Morgan County
Nicholas County
Ohio County
Pendleton County
Pleasants County
Pocahontas County
Preston County
Raleigh County
Randolph County
Ritchie County
Roane County
Summers County
Taylor County
Tucker County
Tyler County
Upshur County
Webster County
Wetzel County
Wirt County
Wyoming County
¹ This date is October 18, 2000, unless otherwise noted.

* * * * *

51. In § 81.350, the table entitled “Wisconsin—Ozone (1-Hour Standard)” is revised to read as follows:

§ 81.350 Wisconsin.

* * * * *

Wisconsin—Ozone (1-Hour Standard)
Designated area | Designation: Date ¹ | Designation: Type | Classification: Date ¹ | Classification: Type
Door County Area:
Door County | (³) | Nonattainment | (³) | Rural Transport (Marginal).
Kewaunee County Area:
Kewaunee County |  | Attainment
Manitowoc County Area:
Manitowoc County | 1/6/92 | Nonattainment | 8/22/97 | Moderate. ²
Milwaukee-Racine Area:
Kenosha County | 11/15/90 | Nonattainment | 11/15/90 | Severe-17.
Milwaukee County | 11/15/90 | Nonattainment | 11/15/90 | Severe-17.
Ozaukee County | 11/15/90 | Nonattainment | 11/15/90 | Severe-17.
Racine County | 11/15/90 | Nonattainment | 11/15/90 | Severe-17.
Washington County | 11/15/90 | Nonattainment | 11/15/90 | Severe-17.
Waukesha County | 11/15/90 | Nonattainment | 11/15/90 | Severe-17.
Sheboygan County Area:
Sheboygan County |  | Attainment
Walworth County Area:
Walworth County |  | Attainment
Adams County |  | Unclassifiable/Attainment
Ashland County |  | Unclassifiable/Attainment
Barron County |  | Unclassifiable/Attainment
Bayfield County |  | Unclassifiable/Attainment
Brown County |  | Unclassifiable/Attainment
Buffalo County |  | Unclassifiable/Attainment
Burnett County |  | Unclassifiable/Attainment
Calumet County |  | Unclassifiable/Attainment
Chippewa County |  | Unclassifiable/Attainment
Clark County |  | Unclassifiable/Attainment
Columbia County |  | Unclassifiable/Attainment
Crawford County |  | Unclassifiable/Attainment
Dane County |  | Unclassifiable/Attainment
Dodge County |  | Unclassifiable/Attainment
Douglas County |  | Unclassifiable/Attainment
Dunn County |  | Unclassifiable/Attainment
Eau Claire County |  | Unclassifiable/Attainment
Florence County |  | Unclassifiable/Attainment
Fond du Lac County |  | Unclassifiable/Attainment
Forest County |  | Unclassifiable/Attainment
Grant County |  | Unclassifiable/Attainment
Green County |  | Unclassifiable/Attainment
Green Lake County |  | Unclassifiable/Attainment
Iowa County |  | Unclassifiable/Attainment
Iron County |  | Unclassifiable/Attainment
Jackson County |  | Unclassifiable/Attainment
Jefferson County |  | Unclassifiable/Attainment
Juneau County |  | Unclassifiable/Attainment
La Crosse County |  | Unclassifiable/Attainment
Lafayette County |  | Unclassifiable/Attainment
Langlade County |  | Unclassifiable/Attainment
Lincoln County |  | Unclassifiable/Attainment
Marathon County |  | Unclassifiable/Attainment
Marinette County |  | Unclassifiable/Attainment
Marquette County |  | Unclassifiable/Attainment
Menominee County |  | Unclassifiable/Attainment
Monroe County |  | Unclassifiable/Attainment
Oconto County |  | Unclassifiable/Attainment
Oneida County |  | Unclassifiable/Attainment
Outagamie County |  | Unclassifiable/Attainment
Pepin County |  | Unclassifiable/Attainment
Pierce County |  | Unclassifiable/Attainment
Polk County |  | Unclassifiable/Attainment
Portage County |  | Unclassifiable/Attainment
Price County |  | Unclassifiable/Attainment
Richland County |  | Unclassifiable/Attainment
Rock County |  | Unclassifiable/Attainment
Rusk County |  | Unclassifiable/Attainment
St. Croix County |  | Unclassifiable/Attainment
Sauk County |  | Unclassifiable/Attainment
Sawyer County |  | Unclassifiable/Attainment
Shawano County |  | Unclassifiable/Attainment
Taylor County |  | Unclassifiable/Attainment
Trempealeau County |  | Unclassifiable/Attainment
Vernon County |  | Unclassifiable/Attainment
Vilas County |  | Unclassifiable/Attainment
Washburn County |  | Unclassifiable/Attainment
Waupaca County |  | Unclassifiable/Attainment
Waushara County |  | Unclassifiable/Attainment
Winnebago County |  | Unclassifiable/Attainment
Wood County |  | Unclassifiable/Attainment
¹ This date is October 18, 2000, unless otherwise noted.
² Attainment date temporarily delayed until November 15, 2007.
³ This date is January 16, 2001.

* * * * *

52. In § 81.351, the table entitled “Wyoming—Ozone (1-Hour Standard)” is revised to read as follows:

§ 81.351 Wyoming.

* * * * *

Wyoming—Ozone (1-Hour Standard)
Designated area | Designation: Date ¹ | Designation: Type | Classification: Date ¹ | Classification: Type
Statewide |  | Unclassifiable/Attainment
Albany County
Big Horn County
Campbell County
Carbon County
Converse County
Crook County
Fremont County
Goshen County
Hot Springs County
Johnson County
Laramie County
Lincoln County
Natrona County
Niobrara County
Park County
Platte County
Sheridan County
Sublette County
Sweetwater County
Teton County
Uinta County
Washakie County
Weston County
¹ This date is October 18, 2000, unless otherwise noted.

* * * * *

53. In § 81.352, the table entitled “American Samoa—Ozone (1-Hour Standard)” is revised to read as follows:

§ 81.352 American Samoa.

* * * * *

American Samoa—Ozone (1-Hour Standard)
Designated area | Designation: Date ¹ | Designation: Type | Classification: Date ¹ | Classification: Type
Statewide |  | Unclassifiable/Attainment
¹ This date is October 18, 2000, unless otherwise noted.

* * * * *

54. In § 81.353, the table entitled “Guam—Ozone (1-Hour Standard)” is revised to read as follows:

§ 81.353 Guam.

* * * * *

Guam—Ozone (1-Hour Standard)
Designated area | Designation: Date ¹ | Designation: Type | Classification: Date ¹ | Classification: Type
Statewide |  | Unclassifiable/Attainment
¹ This date is October 18, 2000, unless otherwise noted.

* * * * *

55. In § 81.354, the table entitled “Northern Mariana Islands—Ozone (1-Hour Standard)” is revised to read as follows:

§ 81.354 Northern Mariana Islands.

* * * * *

Northern Mariana Islands—Ozone (1-Hour Standard)
Designated area | Designation: Date ¹ | Designation: Type | Classification: Date ¹ | Classification: Type
Whole State |  | Unclassifiable/Attainment
¹ This date is October 18, 2000, unless otherwise noted.

* * * * *

56. In § 81.355, the table entitled “Puerto Rico—Ozone (1-Hour Standard)” is revised to read as follows:

§ 81.355 Puerto Rico.

* * * * *

Puerto Rico—Ozone (1-Hour Standard)
Designated area | Designation: Date ¹ | Designation: Type | Classification: Date ¹ | Classification: Type
Statewide |  | Unclassifiable/Attainment
Adjuntas Municipio
Aguada Municipio
Aguadilla Municipio
Aguas Buenas Municipio
Aibonito Municipio
Anasco Municipio
Arecibo Municipio
Arroyo Municipio
Barceloneta Municipio
Barranquitas Munic.
Bayamon County
Cabo Rojo Municipio
Caguas Municipio
Camuy Municipio
Canovanas Municipio
Carolina Municipio
Catano County
Cayey Municipio
Ceiba Municipio
Ciales Municipio
Cidra Municipio
Coamo Municipio
Comerio Municipio
Corozal Municipio
Culebra Municipio
Dorado Municipio
Fajardo Municipio
Florida Municipio
Guanica Municipio
Guayama Municipio
Guayanilla Municipio
Guaynabo County
Gurabo Municipio
Hatillo Municipio
Hormigueros Municipio
Humacao Municipio
Isabela Municipio
Jayuya Municipio
Juana Diaz Municipio
Juncos Municipio
Lajas Municipio
Lares Municipio
Las Marias Municipio
Las Piedras Municipio
Loiza Municipio
Luquillo Municipio
Manati Municipio
Maricao Municipio
Maunabo Municipio
Mayaguez Municipio
Moca Municipio
Morovis Municipio
Naguabo Municipio
Naranjito Municipio
Orocovis Municipio
Patillas Minicipio
Penuelas Municipio
Ponce Municipio
Quebradillas Municipio
Rincon Municipio
Rio Grande Municipio
Sabana Grande Municipio
Salinas Municipio
San German Municipio
San Juan Municipio
San Lorenzo Municipio
San Sebastian Municipio
Santa Isabel Municipio
Toa Alta Municipio
Toa Baja County
Trujillo Alto Municipio
Utuado Municipio
Vega Alta Municipio
Vega Baja Municipio
Vieques Municipio
Villalba Municipio
Yabucoa Municipio
Yauco Municipio
¹ This date is October 18, 2000, unless otherwise noted.

* * * * *

57. In § 81.356, the table entitled “Virgin Islands—Ozone (1-Hour Standard)” is revised to read as follows:

§ 81.356 Virgin Islands.

* * * * *

Virgin Islands—Ozone (1-Hour Standard)
Designated area | Designation: Date ¹ | Designation: Type | Classification: Date ¹ | Classification: Type
Statewide |  | Unclassifiable/Attainment
St. Croix
St. John
St. Thomas
¹ This date is October 18, 2000, unless otherwise noted.

* * * * *

[FR Doc. 00-17472 Filed 7-19-00; 8:45 am]

BILLING CODE 6560-50-P